DEPARTMENT OF COMMERCE

National Oceanic and Atmospheric Administration

50 CFR Part 660

[Docket No. 140904754-4999-01]

RIN 0648-BE27

Magnuson-Stevens Act Provisions; Fisheries Off West Coast States; Pacific Coast Groundfish Fishery; 2015-2016 Biennial Specifications and Management Measures; Amendment 24

AGENCY: National Marine Fisheries Service (NMFS), National Oceanic and Atmospheric Administration (NOAA), Commerce.

ACTION: Proposed rule; request for comments.

SUMMARY: This proposed rule would establish the 2015-2016 harvest specifications and management measures for groundfish taken in the U.S. exclusive economic zone off the coasts of Washington, Oregon, and California, consistent with the Magnuson-Stevens Fishery Conservation and Management Act (MSA) and the Pacific Coast Groundfish Fishery Management Plan (PCGFMP). This proposed rule would also revise the management measures that are intended to keep the total catch of each groundfish species or species complex within the harvest specifications. This action also includes regulations to implement Amendment 24 to the PCGFMP, which establishes default harvest control rules for setting harvest specifications after 2015-2016.

DATES: Comments must be received no later than January 26, 2015.

ADDRESSES: You may submit comments on this document, identified by NOAA-NMFS-2014-0138, by any of the following methods:

• Electronic Submission: Submit all electronic public comments via the Federal e-Rulemaking Portal. Go to www.regulations.gov/#!docketDetail;D=NOAA-NMFS-2014-0138, click the “Comment Now!” icon, complete the required fields, and enter or attach your comments.

• Mail: Submit written comments to William W. Stelle, Jr., Regional Administrator, 7600 Sand Point Way NE., Seattle, WA 98115.

• Fax: 206-525-4736; Attn: Sarah Williams.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Information relevant to this proposed rule, which includes a draft environmental impact statement (EIS), a regulatory impact review (RIR), and an initial regulatory flexibility analysis (IRFA) are available for public review during business hours at the office of the Pacific Fishery Management Council (Council), at 7700 NE Ambassador Place, Portland, OR 97220, phone: 503-820-2280. Copies of additional reports referred to in this document may also be obtained from the Council.

FOR FURTHER INFORMATION CONTACT: Sarah Williams, phone: 206-526-4646, fax: 206-526-6736, or email: sarah.williams@noaa.gov.

SUPPLEMENTARY INFORMATION:

Electronic Access

This rule is accessible via the Internet at the Office of the Federal Register Web site at https://www.federalregister.gov. Background information and documents are available at the NMFS West Coast Region Web site at http://www.westcoast.fisheries.noaa.gov/fisheries/groundfish/index.html and at the Council's Web site at http://www.pcouncil.org.

Executive Summary

Purpose of the Regulatory Action

This proposed rule would implement the 2015-2016 harvest specifications and management measures for groundfish species taken in the U.S. exclusive economic zone off the coasts of Washington, Oregon, and California, and establish default harvest control rules consistent with Amendment 24 to the PCGFMP. The purpose of the proposed action is to conserve and manage Pacific Coast groundfish fishery resources to prevent overfishing, to rebuild overfished stocks, to ensure conservation, to facilitate long-term protection of essential fish habitats (EFH), and to realize the full potential of the Nation's fishery resources. This proposed action would set catch limit specifications for 2015-2016 consistent with existing or revised harvest control rules for all stocks, and establish management measures designed to keep catch within the appropriate limits. The harvest specifications are set consistent with the optimum yield (OY) harvest management framework described in Chapter 4 of the PCGFMP. The proposed rule would also implement Amendment 24 to PCGFMP. Amendment 24 establishes default harvest control rules that would be used to determine harvest specifications after 2015-2016. This rule is authorized by 16 U.S.C. 1854-55 and by the PCGFMP.

Major Provisions

This proposed rule contains two types of major provisions. The first are the harvest specifications (overfishing limits (OFLs), acceptable biological catches (ABCs), and annual catch limits (ACLs)), and the second are management measures designed to keep fishing mortality within the ACLs. The harvest specifications (OFLs, ABCs, and ACLs) in this rule have been developed through a rigorous scientific review and decision-making process, which is described in detail later in this proposed rule.

In summary, the OFL is the maximum sustainable yield (MSY) harvest level and is an estimate of the catch level above which overfishing is occurring. OFLs are based on recommendations by the Council's Scientific and Statistical Committee (SSC) as the best scientific information available. The ABC is an annual catch specification that is the stock or stock complex's OFL reduced by an amount associated with scientific uncertainty. The SSC-recommended method for incorporating scientific uncertainty is referred to as the P star-sigma approach and is discussed in detail in the proposed and final rules for the 2011-2012 (75 FR 67810, November 3, 2010 and 76 FR 27508, May 11, 2011) and 2013-2014 (77 FR 67974, November 12, 2012, and 78 FR 580, January 3, 2013) biennial harvest specifications and management measures. The ACL is a harvest specification set equal to or below the ABC. The ACLs are decided in a manner to achieve OY from the fishery, which is the amount of fish that will provide the greatest overall benefit to the Nation, particularly with respect to food production and recreational opportunities and taking into account the protection of marine ecosystems. The ACLs are based on consideration of conservation objectives, socio-economic concerns, management uncertainty, and other factors. All known sources of fishing and scientific research catch are counted against the ACL.

This proposed rule includes ACLs for the seven overfished species managed under the PCGFMP. For the 2015-2016 biennium only one species, cowcod, requires rebuilding plan changes to its TMAX and TTARGET rebuilding parameters. TMAX is the maximum permissible time period for rebuilding the stock its target biomass. TTARGET is the year by which the stock can be rebuilt as soon as possible, taking into account the status and biology of the stock, the needs of fishing communities, and the interaction of the stock of fish within the marine ecosystem. The changes are necessary because the rebuilding analyses prepared showed that the current TTARGET is 9 years longer than the new TMAX. Accordingly, for cowcod, the TTARGET would be revised from 2068 to 2020, which is the median time to rebuild based on the existing harvest control rule. The remaining overfished species are making adequate progress towards rebuilding or are estimated to be rebuilt in 2015. Therefore, this rule proposes to establish harvest specifications consistent with the existing rebuilding plan provisions for those species.

This rule also proposes to implement Amendment 24 to the PCGFMP. Amendment 24 consists of three components: (1) Default harvest control rules; (2) a suite of minor changes, including clarification of routine management measures and adjustments to those measures, clarification to the harvest specifications decision making schedule, changes to the description of biennial management cycle process, updates to make the FMP consistent with SSC guidance on the FMSY proxy for elasmobranchs, and clarifications to definitions; and (3) addition of two rockfish species to the PCGFMP and the designation of ecosystem component (EC) species.

In order to keep mortality of the species managed under the PCGFMP within the ACLs the Council also recommended management measures. Generally speaking, management measures are intended to rebuild overfished species, prevent ACLs from being exceeded, and allow for the harvest of healthy stocks. Management measures include time and area restrictions, gear restrictions, trip or bag limits, size limits, and other management tools. Management measures may vary by fishing sector because different fishing sectors require different types of management to control catch. Most of the management measures the Council recommended for 2015-2016 were slight variations to existing management measures and do not represent a change from current management practices. These types of changes include changes to trip limits, bag limits, closed areas, etc. Additionally, several new management measures were recommended by the Council including: Changes to lingcod retention in previously closed cumulative limit periods and canary rockfish retention in the Oregon recreational fishery, along with a few others.

Table of Contents

I. Background

A. Specification and Management Measure Development Process

II. Harvest Specifications

A. Proposed OFLs for 2015 and 2016

1. Overfished Species OFLs

2. Non-Overfished Species OFLs for Individually Managed Stocks

3. Stock Complex OFLs

B. Proposed ABCs for 2015 and 2016

1. Overfished Species ABCs

2. Non-Overfished Species ABCs for Individually Managed Stocks

3. Stock Complex ABCs

C. Proposed ACLs for 2015 and 2016

1. Overfished Species ACLs

2. Non-Overfished Species ACLs for Individually Managed Stocks

3. Stock Complex ACLs

D. Stock Complexes

1. Minor Nearshore Rockfish Complex North and South of 40°10′ N. lat.

2. Minor Shelf Rockfish Complex North and South of 40°10′ N. lat.

3. Minor Slope Rockfish Complexes North and South of 40°10′ N. lat.

4. Other Flatfish Complex

5. Other Fish Complex

E. Amendment 24 to the Pacific Coast Groundfish Fishery Management Plan

1. Default Harvest Control Rules, Clarifications, and Adding Species

2. Designation of Ecosystem Component Species

F. Management Measures

1. Management Measures and Ecosystem Component Species

2. Deductions From the ACLs

3. Biennial Fishery Allocations

4. Modifications to the Boundaries Defining RCAs

5. Sorting Requirements

6. Limited Entry Trawl

7. Limited Entry Fixed Gear and Open Access Non-Trawl Fishery Management Measures

8. Recreational Fishery Management Measures

9. Tribal Fishery Management Measures

10. Housekeeping Measures

III. Classification

I. Background

The Pacific Coast Groundfish fishery is managed under the PCGFMP. The PCGFMP was prepared by the Council, approved on July 30, 1984, and has been amended numerous times. Regulations at 50 CFR part 660, subparts C through G, implement the provisions of the PCGFMP.

The PCGFMP requires the harvest specifications and management measures for groundfish to be set at least biennially. This proposed rule is based on the Council's final recommendations that were made at its June 2014 meeting with updated harvest specifications for some stocks adopted at its November 2014 meeting.

A. Specification and Management Measure Development Process

The process for setting the 2015-2016 harvest specifications began in 2012 with the preparation of stock assessments. A stock assessment is the scientific and statistical process where the status of a fish population or subpopulation (stock) is assessed in terms of population size, reproductive status, fishing mortality, and sustainability. In the terms of the PCGFMP, stock assessments generally provide: (1) An estimate of the current biomass (reproductive potential); (2) an FMSY or proxy (a default harvest rate for the fishing mortality rate that is expected to achieve the maximum sustainable yield), translated into exploitation rate; (3) an estimate of the biomass that produces the maximum sustainable yield (BMSY); and, (4) a precision estimate (e.g., confidence interval) for current biomass. Stock assessments, including data moderate assessments, are reviewed by the Council's stock assessment review panel (STAR panel). The STAR panel is designed to review the technical merits of stock assessments and is responsible for determining if a stock assessment document is sufficiently complete. Finally, the SSC reviews the stock assessment and STAR panel reports and makes recommendations to the Council. In addition to full stock assessments, stock assessment updates that run new data through existing models without changing the model are also prepared.

When spawning stock biomass falls below the minimum stock size threshold (MSST), a stock is declared overfished and a rebuilding plan must be developed that determines the strategy for rebuilding the stock to BMSY in the shortest time possible while considering needs of fishing communities and other factors (16 U.S.C. 1854(e)). The current MSST reference point for assessed flatfish stocks is 12.5 percent of initial biomass or B12.5%. For all other assessed groundfish stocks, the current MSST reference point is 25 percent of initial biomass or B25%. The following overfished groundfish stocks would be managed under rebuilding plans in 2015-2016: Bocaccio south of 40°10′ N. lat.; canary rockfish; cowcod south of 40°10′ N. lat.; darkblotched rockfish; Pacific Ocean Perch (POP); petrale sole; and yelloweye rockfish.

For overfished stocks, in addition to any stock assessments or stock assessment updates, rebuilding analyses may also be prepared. The rebuilding analysis is used to project the future status of the overfished resource under a variety of alternative harvest strategies and to determine the probability of recovering to BMSY or its proxy within a specified time-frame.

The Council considered new stock assessments, stock assessment updates, a new rebuilding analysis for cowcod, public comment, and advice from its advisory bodies over the course of six Council meetings during development of its recommendations for the 2015-2016 harvest specifications and management measures. At each Council meeting between June 2013 and June 2014, the Council made a series of decisions and recommendations that were in some cases refined after further analysis and discussion. Detailed information, including the supporting documentation the Council considered at each meeting is available at the Council's Web site, www.pcouncil.org.

A draft EIS identifying the preferred alternative for each decision point published on October 24, 2014 (79 FR 63622). A preliminary version of the draft EIS was made available to the public, the Council, and the Council's advisory bodies at the Council's June 2014 meeting. At that meeting, following public comment and Council consideration, the Council made its final recommendations for the 2015-2016 harvest specifications and management measures as well as Amendment 24 to the PCGFMP.

Information regarding the OFLs, ABCs, and ACLs being proposed for groundfish stocks and stock complexes in 2015-2016 is presented below, followed by a discussion of the species assemblages and use of stock complexes, concluding with descriptions of the proposed management measures for commercial and recreational groundfish fisheries.

II. Harvest Specifications

The PCGFMP requires the Council to set harvest specifications and management measures for groundfish at least biennially. This proposed rule would set 2015-2016 harvest specifications and management measures for all of the 90 plus groundfish species or species groups managed under the PCGFMP, except for Pacific whiting. Pacific whiting harvest specifications are established annually through a separate bilateral process with Canada. The Council received notification at its November 2014 meeting that the OFLs adopted in June 2014 for English sole, yellowtail rockfish north of 40°10′ N. lat.; sharpchin rockfish, and rex sole were incorrect. The OFLs from June were based on maximum likelihood estimates, however, the SSC recommended that the 2015-2016 OFLs from the Bayesian data-moderate assessment be based on the median of the posterior distribution of the estimated OFLs. The SSC reviewed and endorsed the updated harvest specifications at the November 2014 Council meeting and the Council recommended those changes. Therefore, this rule proposes the updated OFLs, ABCs, ACLs, and HGs for English sole, yellowtail rockfish north of 40°10′ N. lat., as well as the Minor Slope Rockfish north and south complexes and the Other Flatfish Complex coastwide because sharpchin rockfish contributes to the Minor Slope Rockfish complex harvest specifications and rex sole contributes to the harvest specifications for the Other Flatfish complex.

A. Proposed OFLs for 2015 and 2016

This section describes the proposed OFLs for overfished species managed under rebuilding plans, non-overfished species managed with individual species-specific harvest specifications, and species managed within stock complexes. The stock complex section below also discusses data moderate assessments.

The OFL is the MSY harvest level associated with the current stock abundance and is an estimate of the level of total catch of a stock or stock complex above which overfishing is occurring. The OFLs for groundfish species with stock assessments are derived by applying the FMSY harvest rate proxy to the current estimated biomass. Fx% harvest rates are the rates of fishing mortality that will reduce the female spawning biomass per recruit (SPR) to X percent of its unfished level. A rate of F40% is a more aggressive harvest rate than F45% or F50%.

For 2015-2016, the Council maintained a policy of using a default harvest rate as a proxy for the fishing mortality rate that is expected to achieve the maximum sustainable yield (FMSY). A proxy is used because there is insufficient information for most Pacific Coast groundfish stocks to estimate species-specific FMSY values. Taxon-specific proxy fishing mortality rates are used due to perceived differences in the productivity among different taxa of groundfish. A lower value is used for stocks with relatively high resilience to fishing while higher values are used for less resilient stocks with low productivity. In 2015-2016, the following default harvest rate proxies, based on the SSC's recommendations, were used: F30% for flatfish, F40% for whiting, F50% for rockfish (including longspine and shortspine thornyheads), F50% for elasmobranchs, and F45% for other groundfish such as sablefish and lingcod.

For the 2015-2016 biennial specification process, eight full stock assessments and four stock assessment updates were prepared. Full stock assessments, those that consider the appropriateness of the assessment model and that revise the model as necessary, were prepared for the following stocks: Darkblotched rockfish, petrale sole, shortspine thornyhead, longspine thornyhead, aurora rockfish, rougheye/blackspotted rockfish, Pacific sanddab, and cowcod. A stock assessment update, which runs new data through an existing model, was prepared for bocaccio. Catch reports, which evaluate whether recent mortality has remained at or below the appropriate limits, were also prepared for canary rockfish, POP, and yelloweye rockfish.

Each new stock assessment includes a base model and two alternative models. The alternative models are developed from the base model by bracketing the dominant dimension of uncertainty (e.g., stock-recruitment steepness, natural mortality rate, survey catchability, recent year-class strength, weights on conflicting catch per unit effort series, etc.) and are intended to be a means of expressing uncertainty within the model by showing the contrast in management implications. Once a base model has been bracketed on either side by alternative model scenarios, capturing the overall degree of uncertainty in the assessment, a two-way decision table analysis (states-of-nature versus management action) is used to present the repercussions of uncertainty to decision makers. As noted above, the SSC makes recommendations to the Council on the appropriateness of using the different stock assessments for management purposes, after which the Council considers adoption of the stock assessments, use of the stock assessments for the development of rebuilding analyses, and the OFLs resulting from the base model runs of the stock assessments.

1. Overfished Species OFLs

This section describes the OFLs for overfished species managed under rebuilding plans in 2015-2016.

Bocaccio (Sebastes paucispinis) S. of 40°10′ N. lat.

A stock assessment update was prepared for bocaccio between the U.S.-Mexico border and Cape Blanco, OR. The bocaccio OFLs of 1,444 mt for 2015 and 1,351 mt for 2016 are based on the FMSY harvest rate proxy of F50% as applied to the estimated exploitable biomass from the 2013 stock assessment update. For setting harvest specifications, six percent of the assessed biomass was estimated to occur north of 40°10′ N. lat. The projected OFLs from the assessment were adjusted accordingly.

Canary Rockfish (Sebastes pinniger)

A catch report was prepared for canary rockfish off Washington, Oregon, and California. The canary rockfish OFLs of 733 mt for 2015 and 729 mt for 2016 are based on the FMSY harvest rate proxy of F50% as applied to the estimated exploitable biomass from the 2011 rebuilding analysis.

Cowcod (Sebastes levis) S. of 40°10′ N. lat.

A full stock assessment was prepared for cowcod in the area south of 34°27′ N. lat. The cowcod OFLs of 67 mt for 2015 and 68 mt for 2016 are based on the FMSY harvest rate proxy of F50% as applied to the estimated exploitable biomass from the 2013 stock assessment added to the revised 2011 Depletion-Based Stock Reduction Analysis OFL estimate for the Monterey area.

Darkblotched Rockfish (Sebastes crameri)

A full stock assessment was prepared for darkblotched rockfish off Washington, Oregon, and California. The darkblotched rockfish OFLs of 574 mt for 2015 and 580 mt for 2016 are based on the FMSY harvest rate proxy of F50% as applied to the estimated exploitable biomass from the 2013 stock assessment.

Petrale Sole (Eopsetta jordani)

A full stock assessment was prepared for petrale sole off Washington, Oregon, and California. The assessment treats the U.S. petrale sole resource from the Mexican border to the Canadian border as a single coastwide stock. The petrale sole OFLs of 2,946 mt for 2015 and 3,044 mt for 2016 are based on the FMSY harvest rate proxy of F30% as applied to the estimated exploitable biomass from the 2013 stock assessment.

Pacific Ocean Perch (Sebastes alutus)

A catch report was prepared for Pacific Ocean perch (POP) off Washington, Oregon, and California. The POP OFLs of 842 mt for 2015 and 850 mt for 2016 are based on the FMSY harvest rate proxy of F50% as applied to the estimated exploitable biomass from the 2011 rebuilding analysis.

Yelloweye Rockfish (Sebastes ruberrimus)

A catch report was prepared for yelloweye rockfish off Washington, Oregon, and California. The yelloweye rockfish OFLs of 52 mt for 2015 and 2016 are based on the FMSY harvest rate proxy of F50% as applied to the estimated exploitable biomass from the 2011 rebuilding analysis.

2. Non-Overfished Species OFLs for Individually Managed Stocks

This section describes the OFLs for non-overfished species managed with individual species-specific harvest specifications in 2015-2016.

English Sole (Parophrys vetulus)

A new data-moderate coastwide stock assessment was prepared for English sole in 2013. For a discussion of data-moderate assessments see the “Stock Complex OFL” section below. The English sole OFLs of 10,792 mt in 2015 and 7,890 mt in 2016 are based on the FMSY harvest rate proxy of F30% applied to the estimated exploitable biomass from the 2013 data-moderate stock assessment.

Longspine Thornyhead (Sebastolobus Altivelis)

A new coastwide full stock assessment was prepared for longspine thornyhead. The longspine thornyhead OFLs of 5,007 mt in 2015 and 4,763 mt in 2016 are based on the FMSY harvest rate proxy of F50% as applied to the estimated exploitable biomass from the 2013 stock assessment.

Shortspine Thornyhead (Sebastolobus Alascanus)

A new coastwide full stock assessment was prepared for shortspine thornyhead. The shortspine thornyhead OFLs of 3,203 mt in 2015 and 3,169 mt in 2016 are based on the FMSY harvest rate proxy of F50% as applied to the estimated exploitable biomass from the 2013 stock assessment.

Spiny Dogfish (Squalus Acanthias)

For 2015-2016, spiny dogfish is proposed to be removed from the Other Fish complex and managed with species-specific harvest specifications. A coastwide stock assessment was prepared for spiny dogfish in 2011. In 2013-2014 the spiny dogfish OFLs were based on the FMSY harvest rate proxy of F45% applied to the estimated exploitable biomass from the 2011 stock assessment and contributed to the Other Fish complex OFLs. The SSC has endorsed a new FMSY harvest rate proxy for elasmobranchs of F50% to better represent the life-history characteristics and reproductive biology of elasmobranchs. In 2015-2016 the spiny dogfish OFLs of 2,523 mt in 2015 and 2,503 mt in 2016 are derived from the 2011 assessment using an FMSY harvest rate proxy of F50%.

Yellowtail Rockfish (Sebastes Flavidus) N. of 40°10′ N. lat.

A full assessment of northern yellowtail rockfish was conducted in 2004. In 2013, a new data moderate stock assessment was prepared for the portion of the yellowtail rockfish population north of 40°10′ N. lat. Yellowtail is managed as a single species with a stock-specific OFL north and within the Minor Slope Complex south of 40°10′ N. lat. The yellowtail rockfish north OFLs are 7,218 mt in 2015 and 6,949 mt in 2016. These estimates are based on the FMSY harvest rate proxy of F50% as applied to the estimated exploitable biomass from the 2013 data-moderate stock assessment. Additional information on data-moderate assessments and the OFL contribution of yellowtail rockfish to the Minor Slope Rockfish complex south of 40°10′ N. lat. can be found below in the discussion of “Stock Complex OFLs.”

For individually managed species that did not have new stock assessments or updates prepared, the Council recommended OFLs derived from applying the FMSY harvest rate proxy to the estimated exploitable biomass from the most recent stock assessment or update, the results of rudimentary stock assessments, or the historical landings data approved by the Council for use in setting harvest specifications. These stocks include: Arrowtooth flounder, black rockfish south, black rockfish north, cabezon (off California), cabezon (off Oregon), California scorpionfish, chilipepper, Dover sole, lingcod north and south of 42° N. lat., longnose skate (using the revised FMSY harvest rate proxy for elasmobranchs), Pacific cod, sablefish north and south of 36° N. lat., shortbelly rockfish, spiny dogfish (as described above), splitnose rockfish, starry flounder, and widow rockfish. Proposed OFLs for these species can be found in Tables 1a and 2a to Subpart C.

3. Stock Complex OFLs

There are currently eight stock complexes used to manage groundfish stocks pursuant to the PCGFMP. These stock complexes are: (1) Minor Nearshore Rockfish north; (2) Minor Nearshore Rockfish south; (3) Minor Shelf Rockfish north; (4) Minor Shelf Rockfish south (5) Minor Slope rockfish north; (6) Minor Slope Rockfish south; (7) Other Flatfish; and (8) Other Fish. Stock complexes are used to manage the harvest of many of the unassessed groundfish stocks.

The proposed OFLs for stock complexes are the sum of the OFL contributions for the component stocks, when known. For the 2015-2016 biennial specification process, similar to 2011-2012 and 2013-2014, Depletion-Corrected Average Catch (DCAC), Depletion-Based Stock Reduction Analysis (DB-SRA), or other SSC-endorsed methodologies were used to determine the OFL contributions made by category three species (data limited species). In general, OFL contribution estimates should not vary from year to year for the category three stocks; the OFL contributions for unassessed component stocks that remain in the eight stock complexes are the same in 2015-2016 as in 2013-2014.

The proposed OFLs for each complex can also be found in tables 1a and 2a of this proposed rule. In addition to OFL contributions derived by DCAC, DB-SRA, or other SSC approved estimates, OFL contributions for the following stocks were determined by applying the FMSY harvest rate proxy to the estimated exploitable biomass from the most recent stock assessments: Brown rockfish, China rockfish, copper rockfish, aurora rockfish, rougheye/blackspotted rockfish, sharpchin rockfish, and rex sole. Pacific sanddab was assessed in 2013, but the OFL contribution will continue to be derived by DB-SRA in 2015-2016 because the SSC determined the assessment results were too uncertain for determining harvest specifications. As summarized below, nine of the stocks with OFL contributions to stock complexes had new or updated assessments that resulted in their OFL contributions being determined by applying the FMSY harvest rate proxy to the estimated exploitable biomass.

The following section discusses the OFL contributions from the data moderate assessments for brown rockfish, China rockfish, copper rockfish, rex sole, shapchin rockfish, stripetail rockfish, yellowtail rockfish, and the full assessments for aurora rockfish and blackspotted/rougheye rockfish. Two data-moderate assessment methods, XDB-SRA (Extended Depletion-Based Stock Reduction Analysis) and exSSS (Extended Simple Stock Synthesis), were endorsed by the STAR panel for use in the assessment cycle that is informing the 2015-2016 harvest specifications. Results from data-moderate assessments are an improvement over data-poor approaches because they incorporate abundance indices. Due to a lack of time, the STAR panel was unable to review the draft assessments of vermillion rockfish and yellowtail rockfish south of Cape Mendocino, and was unable to make recommendations regarding their use for Council decision-making. However, the STAR panel was able to conclude that the base model was adequate for management of yellowtail rockfish north of Cape Mendocino. Overall, the SSC viewed the data-moderate assessment methods as being useful tools for assisting the Council's groundfish management process and a substantial improvement over the Council's data-poor methods. The SSC concluded that: (1) The assessments represent the best available science; (2) they should be accepted as valid data-moderate stock assessments, and; (3) they should be used as the basis for management decisions in 2015-2016. Stocks managed within stock complexes that had new data-moderate assessments or new full assessments for use in 2015-2016 are discussed below.

Nearshore Complexes North and South of 40°10′ N. lat.

Minor Nearshore Rockfish (North of 40°10′ N. lat.)

The proposed OFL for the Minor Nearshore Rockfish north complex is 88 mt in 2015 and in 2016, which is a 20 percent reduction from the 2014 OFL of 94 mt. The decrease is due to new data-moderate assessments for brown, China, and copper rockfish conducted in 2013. In 2015-2016, stocks composing the Minor Nearshore Rockfish north complex will remain the same as in 2013-2014. The Minor Nearshore Rockfish north complex is comprised of: Black rockfish (Sebastes melanops), Black and yellow rockfish (S. chrysomelas), blue rockfish (S. mystinus), brown rockfish (S. auriculatus), calico rockfish (S. dalli), China rockfish (S. nebulosus), copper rockfish (S. caurinus), gopher rockfish (S. carnatus), grass rockfish (S. rastrelliger), kelp rockfish (S. atrovirens), olive rockfish (S. serranoides), quillback rockfish (S. maliger), and treefish (S. serriceps). These stocks are all unassessed with the exception of blue rockfish in California, brown rockfish, China rockfish, copper rockfish, and gopher rockfish in California.

Minor Nearshore Rockfish (South of 40°10′ N. lat.)

The proposed OFL for the Minor Nearshore Rockfish south complex is 1,313 mt in 2015, and is 1,291 mt in 2016 which in 2015 is a 31 percent increase, and in 2016 is a 29 percent increase from the 2014 complex OFL of 1,001 mt. The increase is due to new data-moderate assessments for brown, China, and copper rockfish conducted in 2013. In 2015-2016, stocks composing the Minor Nearshore Rockfish south complex will remain the same as in 2013-2014. The Minor Nearshore south complex is comprised of black and yellow rockfish (S. chrysomelas), China rockfish (S. nebulosus), gopher rockfish, (S. carnatus), grass rockfish (S. rastrelliger), kelp rockfish (S. atrovirens), black rockfish (S. melanops), blue rockfish (S. mystinus), brown rockfish (S. auriculatus), calico rockfish (S. dalli), copper rockfish (S. caurinus), olive rockfish (S. serranoides), quillback rockfish (S. maliger), and treefish (S. serriceps).

Minor Nearshore Rockfish Complex Stocks Assessed in 2013

New coastwide data-moderate assessments were performed for brown, China, and copper rockfish in 2013.

Brown Rockfish

A coastwide data-moderate stock assessment utilizing a XDB-SRA model run was prepared for brown rockfish in 2013. The coastwide brown rockfish stock was estimated to be at 42 percent of unfished spawning biomass. The estimated brown rockfish OFL contribution to the Minor Nearshore Rockfish complex north is 1.9 mt in 2015 and 2016, which is a 65.5 percent decrease from the 2014 contribution OFL of 5.5 mt. The estimated brown rockfish OFL contribution to the Minor Nearshore Rockfish complex south is 163.8 mt in 2015 and 160.2 mt in 2016, which is a 20 percent decrease in 2015, and is a 22 percent decrease in 2016 from the 2014 contribution OFL of 204.6 mt. These estimates are based on the FMSY harvest rate proxy of F50% applied to the exploitable biomass from the 2013 stock assessment.

China Rockfish

An area-specific, data-moderate stock assessment was prepared for China rockfish in 2013. The STAR Panel focused on the XDB-SRA model for China rockfish. The model estimated China rockfish north of 40°10′ N. lat. to be at 37 percent of unfished spawning biomass, which is below the management target, but above the MSST. The China rockfish estimate south of 40°10′ N. lat. was estimated to be at 66 percent depletion of unfished spawning biomass, which is above management target. The estimated China rockfish OFL contribution to the Minor Nearshore Rockfish north complex is 7.2 mt in 2015 and 7.4 mt in 2016, which is a decrease of 26.5 percent in 2015 and 24.5 percent in 2016 from the 2014 OFL contribution of 9.8 mt. The estimated China rockfish OFL contribution to the Minor Nearshore Rockfish south complex is 55.2 mt in 2015 and 52.7 mt in 2016, which is a 232.5 percent increase in 2015 and a 217.5 percent increase in 2016 from the 2014 OFL contribution of 16.6 mt. These estimates are based on the FMSY harvest rate proxy of F50% applied to the exploitable biomass from the 2013 stock assessment.

Copper Rockfish

An area-specific, data-moderate stock assessment was prepared for copper rockfish in 2013. The STAR Panel focused on the XDB-SRA model for copper rockfish. The model estimated copper rockfish north of 34°27′ N. lat. to be at 48 percent of unfished spawning biomass, which is above management target. The copper rockfish estimate south of 34°27′ N. lat. was estimated to be 76 percent depletion of unfished spawning biomass, which is above management target. The estimated copper rockfish contribution OFL to the Minor Nearshore Rockfish north complex is 10.6 mt in 2015 and 10.3 mt in 2016, which is a 59 percent decrease in 2015 and a 60 percent decrease in 2016 from the 2014 contribution OFL of 26 mt. The estimated OFL contribution to the south complex is 301.1 mt in 2015 and 284.3 mt in 2016, which is a 112.7 percent increase in 2015 and a 100.9 percent increase in 2016 from the 2014 OFL contribution of 141.5 mt. These estimates are based on the FMSY harvest rate proxy of F50% applied to the exploitable biomass from the 2013 stock assessment.

Shelf Complexes North and South of 40°10′ N. lat.

Minor Shelf Rockfish (North of 40°10′ N. lat.)

The proposed OFL for the Minor Shelf Rockfish north complex is 2,209 mt in 2015, and is 2,218 mt in 2016 which is a negligible increase in both years from the 2014 complex OFL of 2,195 mt. In 2015-2016, stocks composing the Minor Shelf Rockfish north complex will remain the same as in 2013-2014. The Minor Shelf Rockfish north complex is comprised of: Bronzespotted rockfish (S. gilli), bocaccio (S. paucispinis), chameleon rockfish (S. phillipsi), chilipepper (S. goodie), cowcod (S. levis), dusky rockfish (S. ciliates), dwarf-red (S. rufianus), flag rockfish (S. rubrivinctus), freckled rockfish (S. lentiginosus), greenblotched rockfish (S. rosenblatti), greenspotted rockfish (S. chlorostictus), greenstriped rockfish (S. elongates), halfbanded rockfish (S. semicinctus), harlequin rockfish (S. variegatus), honeycomb rockfish (S. umbrosus), Mexican rockfish (S. macdonaldi), pink rockfish (S. eos), pinkrose rockfish (S. simulator), pygmy rockfish (S. wilsoni), redstripe rockfish (S. proriger), rosethorn rockfish (S. helvomaculatus), rosy rockfish (S. rosaceus), silvergray rockfish (S. brevispinis), speckled rockfish (S. ovalis), squarespot rockfish (S. hopkinsi), starry rockfish (S. constellatus), stripetail rockfish (S. saxicola), swordspine rockfish (S. ensifer), tiger rockfish (S. nigrocinctus), and vermilion rockfish (S. miniatus).

Minor Shelf Rockfish (South of 40°10′ N. lat.)

The proposed OFL for the Minor Shelf Rockfish south complex is 1,917.9 mt in 2015, and is 1,918.9 mt in 2016, which is a negligible increase in both years from the 2014 complex OFL of 1,912.9 mt. In 2015-2016, stocks composing the Minor Shelf Rockfish south complex will remain the same as in 2013-2014. The Minor Shelf Rockfish south complex is comprised of: Bronzespotted rockfish (S. gilli), chameleon rockfish (S. phillipsi), dusky rockfish (S. ciliates), dwarf-red rockfish (S. rufianus), flag rockfish (S. rubrivinctus), freckled (S. lentiginosus), greenblotched rockfish (S. rosenblatti), greenspotted rockfish (S. chlorostictus), greenstriped rockfish (S. elongates), halfbanded rockfish (S. semicinctus), harlequin rockfish (S. variegatus), honeycomb rockfish (S. umbrosus), Mexican rockfish (S. macdonaldi), pink rockfish (S. eos), pinkrose rockfish (S. simulator), pygmy rockfish (S. wilsoni), redstripe rockfish (S. proriger), rosethorn rockfish (S. helvomaculatus), rosy rockfish (S. rosaceus), silvergray rockfish (S. brevispinis), speckled rockfish (S. ovalis), squarespot rockfish (S. hopkinsi), starry rockfish (S. constellatus), stripetail rockfish (S. saxicola), swordspine rockfish (S. ensifer), tiger rockfish (S. nigrocinctus), vermilion rockfish (S. miniatus), and yellowtail rockfish (S. flavidus).

Minor Shelf Rockfish Complex Stocks Assessed in 2013

A new coastwide data-moderate assessment was performed for stripetail rockfish in 2013.

Stripetail Rockfish

Stripetail rockfish was assessed as a coastwide stock. Catches of stripetail rockfish have been negligible since 2000, and the stock has not been previously assessed. The XDB-SRA model was used in a sensitivity analysis to evaluate probable levels of stock status for stripetail rockfish. The STAR Panel noted that stripetail rockfish is rarely caught and appears to be in an essentially unfished state, as indicated by the trawl survey abundance estimates. There is little information in the trawl survey data to estimate catchability, so abundance estimates are extremely uncertain. However, over a broad range of plausible values for trawl survey catchability, stock depletion estimates were relatively consistent, ranging from 75 percent to 95 percent. The STAR Panel recommended that status of stripetail rockfish can be estimated, but that the extreme uncertainty in abundance estimates precludes using assessment results for setting the OFL. With these model limitations considered, stripetail rockfish (coastwide) was estimated to be at 77.5 percent of unfished spawning biomass, which is well above management target. The OFL contribution of stripetail rockfish to the Minor Shelf Rockfish complex OFLSs (north and south of 40°10′ N. lat.) was not able to be estimated using data moderate methods. Therefore, utilizing data-poor DB-SRA methods, the stripetail contribution OFL to the Minor Shelf Rockfish complex north is the same as the 2014 contribution OFL estimates: 40.1 mt in 2015 and 2016. The stripetail contribution OFL to the Minor Shelf Rockfish complex south is the same as the 2014 contribution OFL estimates: 23.6 mt in 2015 and 2016.

Minor Slope Complexes North and South of 40°10′ N. lat.

Minor Slope Rockfish (North of 40°10′ N. lat.)

The proposed OFL for the Minor Slope Rockfish north complex is 1,831 mt in 2015, and is 1,844 mt in 2016, which is roughly a 17 percent increase in 2015 and a 18 percent increase in 2016 from the 2014 northern complex OFL of 1,553 mt. The increase is due to new full assessments for aurora and rougheye/blackspotted rockfish and a data-moderate assessment for sharpchin rockfish conducted in 2013. The Minor Slope Rockfish north complex is comprised of: Aurora rockfish (Sebastes aurora), bank rockfish (S. rufus), blackgill rockfish (S. melanostomus), blackspotted rockfish (S. melanostictus), redbanded rockfish (S. babcocki), rougheye rockfish (S. aleutianus), sharpchin rockfish (S. zacentrus), shortraker rockfish (S. borealis), splitnose rockfish (S. diploproa), sunset rockfish (S. crocotulus) which is a species proposed to be added to the PCGFMP, and yellowmouth rockfish (S. reedi).

Minor Slope Rockfish (South of 40°10′ N. lat.)

The proposed OFL for the Minor Slope Rockfish south complex is 813 mt in 2015, and is 814 mt in 2016, which is roughly an 18 percent increase in 2015 and 2016 from the 2014 southern complex OFL of 685 mt. The increase is due to new full assessments for aurora and rougheye/blackspotted rockfish and a data-moderate assessment for sharpchin rockfish conducted in 2013. The Minor Slope Rockfish south complex is comprised of: Aurora rockfish (Sebastes aurora), bank rockfish (S. rufus), blackgill rockfish (S. melanostomus), blackspotted rockfish (S. melanostictus), Pacific ocean perch (S. alutus), redbanded rockfish (S. babcocki), rougheye rockfish (S. aleutianus), sharpchin rockfish (S. zacentrus), shortraker rockfish (S. borealis), sunset rockfish (S. crocotulus) which is a species proposed to be added to the PCGFMP, and yellowmouth rockfish (S. reedi).

Minor Slope Rockfish Complex Stocks Assessed in 2013

As mentioned above, a new coastwide data-moderate assessment was performed for sharpchin rockfish, and new full coastwide stock assessments for aurora and rougheye/blackspotted rockfish were performed in 2013.

Sharpchin Rockfish

Sharpchin rockfish was assessed as a data-moderate coastwide stock utilizing exSSS in 2013. The coastwide sharpchin rockfish stock was estimated to be 89 percent of unfished spawning biomass, which is well above management target. The proposed sharpchin rockfish OFL contribution to the Minor Slope Rockfish complex north is 332.8 mt in 2015 and 323.2 mt in 2016, which is a 55 percent increase in 2015 and a 50 percent increase in 2016 from the 2014 contribution OFL of 214.5 mt. The proposed sharpchin rockfish OFL contribution to the Minor Slope Rockfish south complex OFL is 83.2 mt in 2015 and 80.8 mt in 2016, which is a roughly 8 percent increase in 2015 and a 5 percent increase in 2016 from the 2014 contribution OFL of 76.4 mt. These estimates are based on the FMSY harvest rate proxy of F50% applied to the exploitable biomass from the 2013 stock assessment.

Aurora Rockfish

A full coastwide stock assessment was prepared in 2013 for aurora rockfish. The coastwide OFL contributions were apportioned north and south of 40°10′ N. lat. based on the average swept area biomass estimates from the triennial survey. The assessment estimated that the spawning stock biomass at the start of 2013 was 1,673 mt, which is 64 percent of its unfished biomass. The proposed OFL contribution to the Minor Slope Rockfish north complex is 17.4 mt for 2015 and 17.5 mt for 2016, which is a 13 percent increase in 2015, and a 13.6 percent increase in 2016 from the 2014 northern contribution OFL of 15.4 mt. The proposed OFL contribution to the Minor Slope Rockfish south complex is 74.3 mt for 2015 and 2016, which is a 184.6 percent increase from the 2014 contribution OFL of 26.1 mt. These OFL contributions are based on the FMSY harvest rate proxy of F50% as applied to the estimated exploitable biomass from the 2013 stock assessment.

Rougheye/Blackspotted Rockfish

A full coastwide stock assessment was prepared in 2013 for rougheye/blackspotted rockfish off Washington, Oregon, and California. The assessment estimated that the spawning stock biomass at the start of 2013 was 2,552 mt and 47 percent of its unfished biomass. The proposed OFL contribution to the Minor Slope Rockfish north complex is 201.9 mt in 2015 and 206.8 in 2016, which is an increase of 184 percent in 2015 and an increase of 191 percent in 2016 from the 2014 contribution OFL of 71.1 mt. The proposed OFL contribution to the Minor Slope Rockfish south complex is 4.1 mt in 2015 and 4.2 in 2016, which is an increase of 925 percent in 2015, and an increase of 950 percent in 2016 from the 2014 contribution OFL of 0.4 mt. These estimates are based on the FMSY harvest rate proxy of F50% as applied to the estimated exploitable biomass from the 2013 stock assessment.

Other Flatfish Complex

The Other Flatfish complex contains most of the flatfish species managed in the PCGFMP (with the exception of arrowtooth flounder, Dover sole, English sole, petrale sole, and starry founder). These species include butter sole (Isopsetta isolepis), curlfin sole (Pleuronichthys decurrens), flathead sole (Hippoglossoides elassodon), Pacific sanddab (Citharichthys sordidus), rex sole (Glyptocephalus zachirus), rock sole (Lepidopsetta bilineata), and sand sole (Psettichthys melanostictus). The proposed OFL for the Other Flatfish complex is 11,453 mt in 2015 and is 9,645 mt in 2016, an increase of 13 percent in 2015 and a decrease of 4 percent in 2016 from the 2014 OFL of 10,060 mt.

Other Flatfish Complex Stocks Assessed in 2013

A new coastwide data-moderate assessment was performed for rex sole, and a full coastwide stock assessment for Pacific sanddab was performed in 2013.

Rex Sole

Rex sole was assessed as a coastwide resource in 2013. The data-moderate exSSS model was selected for the rex sole stock assessment. The STAR Panel concluded that the base model provides an adequate basis for management, but noted that the inability to fit the NWFSC survey index (as one time series) implies some model mis-specification. There is considerably more confidence in stock status estimates than in the biomass scale. With these model limitations considered, rex sole (coastwide) was estimated to be at 79 percent of unfished spawning biomass, which is well above management target. The proposed OFL contribution to the other flatfish complex of 5,764 mt in 2015 and 3,956 mt in 2016 is a 31 percent increase in 2015 and is a 9.5 percent decrease in 2016 from the 2014 OFL contribution of 4,371.5 mt.

Pacific Sanddab

A full coastwide assessment for Pacific sanddab was conducted in 2013, although it did not result in an estimate of depletion as a measure of stock status. Therefore, utilizing data-poor DB-SRA methods, the Pacific sanddab OFL contribution to the Other Flatfish complex is 4,801 mt in 2015 and 2016, which is from the same as the 2014 OFL contribution.

Other Fish Complex

The Other Fish complex contains other species managed in the PCGFMP and changes to this complex are proposed for the 2015-2016 biennium. The Other Fish complex species are proposed to include cabezon (Scorpaenichthys marmoratus) off Washington, kelp greenling (Hexagrammos decagrammus) off Washington, Oregon, and California (as three state-specific stocks), and leopard shark (Triakis semifasciata). Of these five stocks, only kelp greenling off California, cabezon off Washington, and leopard shark have OFL contributions to the Other Fish complex. Spiny dogfish, which were managed within the Other Fish complex in 2013-2014, are proposed for management with species-specific specifications in 2015-2016. The other species managed in the Other Fish complex in 2013-2014 are proposed for designation as EC species. No full or data-moderate stock assessments were performed for any of these stocks in 2013. Only Kelp greenling in California, cabezon in Washington, and leopard shark contribute to the Other Fish complex harvest specifications, while kelp greenling in Oregon and Washington do not, though they are still part of the Other Fish complex. The proposed OFL for the Other Fish complex is 286 mt, which is a 4,104 percent reduction from the 2014 OFL of 6,802 mt due to the proposed reorganization of the complex. The kelp greenling OFL contribution (off California) to the Other Fish complex is proposed to be 118.0 mt, which is the same as in 2014. The leopard shark OFL contribution to the Other Fish complex is proposed to be 167.1 mt, which is the same as in 2014. For more information on the designation of ecosystem component species see the “Amendment 24 to the Pacific Coast Groundfish Fishery Management Plan” section below.

B. Proposed ABCs for 2015 and 2016

The ABC is the stock or stock complex's OFL reduced by an amount associated with scientific uncertainty. The SSC-recommended P star-Sigma approach determines the amount by which the OFL is reduced to establish the ABC. Under this approach, the SSC recommends a sigma (σ) value. The σ value is generally based on the scientific uncertainty in the biomass estimates generated from stock assessments. After the SSC determines the appropriate σ value the Council chooses a P star (P*) based on its chosen level of risk aversion considering the scientific uncertainties. As the P* value is reduced, the probability of the ABC being greater than the “true” OFL becomes lower. In combination, the P* and σ values determine the amount by which the OFL will be reduced to establish the SSC-endorsed ABC.

Since 2011, the SSC has quantified major sources of scientific uncertainty in the estimate of OFL and recommended a σ value of 0.36 for category one stocks, a σ value of 0.72 for category two stocks, and a σ value of 1.44 for category three stocks. For category two and three stocks there is typically greater scientific uncertainty in the estimate of OFL because the stock assessments have less data to inform them. Therefore, the scientific uncertainty buffer is generally greater than that recommended for stocks with quantitative stock assessments. Assuming the same P* is applied, a larger σ value results in a larger reduction from the OFL. For 2015-2016, the Council continued the general policy of using the SSC-recommended σ values for each species category. However, an exception to the general σ values assigned to each category was made for aurora rockfish and widow rockfish, as described below.

The PCGFMP specifies that the upper limit of P* will be 0.45. A P* of 0.5 equates to no additional reduction for scientific uncertainty beyond the sigma value reduction. A lower P* is more risk averse than a higher value, meaning that the probability of the ABC being greater than the “true” OFL is lower. For 2015-2016, the Council largely maintained the P* policies it established for the 2011-2012 and 2013-2014 bienniums. The Council recommended using P* values of 0.45 for all category one species, except sablefish, as described below. Combining the category one σ value of 0.36 the P* value of 0.45 results in a reduction of 4.4 percent from the OFL when deriving the ABC. For individually managed category two and three stocks, the Council's general policy was to use a P* of 0.4, although the Council recommended a P* of 0.45 for all of the stocks managed in complexes (except stocks in the Other Flatfish complex). When combined with the σ values of 0.72 and 1.44 for category two and three stocks, a P* value of 0.40 corresponds to 16.7 percent and 30.6 percent reductions, respectively. Specifically, the Council recommended using P* values of 0.40 for all individually managed category two and three species, except cowcod, English sole, lingcod between 42° and 40°10′ N. lat., and yellowtail rockfish 40°10′ N. lat., as described below.

Additional information about the σ values used for different species categories as well as the P* − σ approach can be found in the proposed and final rules from the 2011-2012 biennium (75 FR 67810, November 3, 2010; 76 FR 27508, May 11, 2011) and the 2013-2014 biennium (77 FR 67974, November 14, 2012; 78 FR 580, January 3, 2013). A discussion of the P* values used in combination with the σ values follows. Tables 1a and 2a of this proposed rule present the harvest specifications for each stock and stock complex, including the proposed ABCs, while the footnotes to these tables describe how the proposed specifications where derived. Details can also be found in Chapter 2.1.2 of the DEIS (see Supplementary Information section above).

1. Overfished Species ABCs

Cowcod

The Council recommended revising the P* values in 2015-2016 for cowcod south of 40°10′ N. lat. from those that have been used since 2011. Cowcod is a category 2 stock in the Conception Area and a category 3 stock in the Monterey Area and has had a P* value lower than or equal to 0.40 since 2011 (0.35 in Conception an 0.40 in Monterey for 2011-2012 and 0.40 in both areas in 2013-2014). A new stock assessment was conducted for cowcod in 2013, however the SSC recommended that cowcod remain a category 2 stock in the Conception Area and a category 3 stock in the Monterey Area. Cowcod ACLs are not based on the ABC, but rather on the rebuilding plan; therefore, the change in P* to 0.45 for cowcod will not impact the ACL or rebuilding but will reduce the reduction from the OFL for scientific uncertainty (from an 16.7 percent reduction to an 8.7 percent reduction in the Conception Area and from a 30.6 percent reduction to a 16.6 percent reduction in the Monterey Area). The proposed cowcod ABCs are 59.9 mt and 61.5 mt in 2015 and 2016, respectively.

2. Non-Overfished Species ABCs for Individually Managed Stocks

Several species changed categories in 2015-2016 as a result of updated stock assessments or due to a new assessment or being assessed for the first time. The σ value and P* for these species was updated accordingly when determining the proposed ABCs for 2015-2016, as described below.

English Sole

The species category for English sole was revised for 2015-2016 from a category one to a category two stock. The previous full assessment for English sole (2007) was a category 1 assessment. The SSC recommended the 2013 data-moderate assessments for English sole for use in management as the best available science, and recommended that it be considered a category two stock based on the data-moderate assessment; therefore, the σ value of 0.72 was used. The Council recommended using the same P* value in 2015-2016 for English sole as was used since 2011. Though the stock was downgraded from category one to category two for 2015-2016, the Council recommended a P* of 0.45 because the stock is healthy (88 percent of its unfished biomass in 2013) and is underutilized (maximum annual catch of English sole from 2009-2012 has been less than 10 percent of the proposed 2015-2016 ABCs). A P* of 0.45 for English sole results in an 8.7 percent reduction from the OFL. The proposed 2015 and 2016 ABCs for English sole are 9,853 mt and 7,204 mt, respectively.

Lingcod

The Council recommended revising the P* values in 2015-2016 for lingcod between 42° and 40°10′ N. lat. from those that have been used since 2011. Lingcod was assessed in 2009 and the SSC recommended that lingcod north of 42° N. lat. be considered a category one stock (σ=0.36) and that lingcod south of 42° N. lat. be considered a category two stock (σ=0.72). Since 2011, the Council recommended P* values corresponding to the category for these two areas: 0.45 north of 42° N. lat. and 0.40 south of 42° N. lat. Since the 2009 assessment, the management line for lingcod shifted from 42° to 40°10′ N. lat. and the harvest specifications were re-apportioned to match the new management line. For 2015-2016, the Council's recommended ABC for lingcod north of 40°10′ N. lat. was calculated using a P* of 0.45 and the ABC south of 40°10′ N. lat. was calculated using a P* of 0.40. Increasing the P* from 0.40 to 0.45 between 42° to 40°10′ N. lat. means a smaller reduction from the OFL for scientific uncertainty. The proposed 2015 and 2016 ABCs for lingcod north of 40°10′ N. lat. are 2,830 mt and 2,719 mt, respectively. The proposed 2015 and 2016 ABCs for lingcod south of 40°10′ N. lat. are 1,004 mt and 946 mt, respectively.

Longspine Thornyhead

The species category for longspine thornyhead was revised for 2015-2016 from a category one to a category two stock. The longspine thornyhead assessment lacks age data and cannot discern year class strength, therefore the SSC recommended longspine thornyhead be considered a category two stock, and the σ value of 0.72 was used. The Council recommended a P* of 0.40 for longspine thornyhead, which results in a 16.7 percent reduction from the OFL for this category two stock. The proposed 2015 and 2016 ABCs for longspine thornyhead are 4,171 mt and 3,968 mt, respectively.

Shortspine Thornyhead

The species category for shortspine thornyhead was revised for 2015-2016 from a category one to a category two stock. The shortspine thornyhead assessment lacks age data and cannot discern year class strength, therefore the SSC recommended shortspine thornyhead be considered a category two stock, and the σ value of 0.72 was used. The Council recommended a P* of 0.40 for shortspine thornyhead, which results in a 16.7 percent reduction from the OFL for this category two stock. The proposed 2015 and 2016 ABCs for shortspine thornyhead are 2,668 mt and 2,640 mt, respectively.

Sablefish

The SSC recommended that sablefish be considered a category 1 stock and recommended the corresponding σ of 0.36. The Council recommended using P* values of 0.45 for all category one species, except sablefish, where the Council recommended continuing use of a more precautionary P* value of 0.40 due to uncertainty in the 2011 assessment. A P* of 0.40 and σ of 0.36 results in an 8.7 percent reduction from the OFL for this category one stock. The proposed 2015 and 2016 ABCs for sablefish, coastwide, are 7,173 mt and 7,784 mt, respectively.

Spiny Dogfish

Spiny dogfish are proposed to be managed with species-specific harvest specifications for the first time in 2015-2016. The Council recommended revising the P* value in 2015-2016 for spiny dogfish from 0.30 to 0.40. For 2013-2014 the Council recommended a precautionary reduction in the P* value greater than for other category 2 stocks because of uncertain catch history of the stock, which are largely discarded in west coast fisheries, and due to the indication in the stock assessment that the FMSY harvest rate proxy of F45% may be too aggressive; the more conservative P* value of 0.30 was used to calculate the ABC contribution of spiny dogfish to the other fish complex ABC (77 FR 67974, November 14, 2012). There has been no new assessment or assessment update for 2015-2016 and spiny dogfish remains a healthy category two stock. However, since the 2011 assessment and decisions on the 2013-2014 harvest specifications, the SSC has completed a meta-analysis of elasmobranch FMSY harvest rates. Given this work, the Council recommended a P* of 0.40 to reflect the improvements in understanding of FMSY, but did not recommend a P* of 0.45 as the stock is considered a category two stock. The P* of 0.40 and σ of 0.72 results in a 16.7 percent reduction from the OFL. The 2015 and 2016 ABCs for spiny dogfish are 2,101 mt and 2,085 mt, respectively.

Widow Rockfish

As in 2013 and 2014 for widow rockfish, the SSC recommended a larger σ value of 0.41 rather than the 0.36 that would typically be used for category one stocks to better represent uncertainty in stock-recruit steepness, which is considered the major source of uncertainty in the widow rockfish assessment. The Council recommended a P* of 0.45, resulting in a 5 percent reduction from the OFL for this category one stock. The 2015 and 2016 ABCs for widow rockfish are 3,929 mt and 3,790 mt, respectively.

Yellowtail Rockfish North of 40°10′ N. Lat.

The species category for yellowtail rockfish north of 40°10′ N. lat. was revised for 2015-2016 from a category one to a category two stock. The previous full assessment for yellowtail rockfish (2004) was a category 1 assessment. The SSC recommended use of the 2013 data-moderate assessments for yellowtail rockfish north of 40°10′ N. lat. for use in management as the best available science, and recommended that it be considered a category two stock based on the data-moderate assessments; therefore, the σ value of 0.72 was used. The Council recommended using the same P* value in 2015-2016 for yellowtail rockfish north of 40°10′ N. lat. as was used since 2011. Though the stock was downgraded from category one to category two for 2015-2016, the Council recommended a P* of 0.45 because the stock is healthy (69 percent of its unfished biomass in 2013) and is underutilized (maximum annual catch of yellowtail rockfish from 2009-2012 has been less than 20 percent of the proposed 2015-2016 ABC). A P* of 0.45 for yellowtail rockfish north of 40°10′ N. lat. results in an 8.7 percent reduction from the OFL. The proposed 2015 and 2016 ABCs for yellowtail rockfish north of 40°10′ N. lat. are 6,590 mt and 6,344 mt, respectively.

3. Stock Complex ABCs

Similar to the past two biennial cycles, the Council applied the two-step σ and P* approach for stocks managed in stock complexes. For each of the stock complexes, the component species ABC contributions were calculated and summed to derive the complex ABC. The Council's SSC categorized and applied the appropriate σ value for individual stocks managed in stock complexes. For all stocks managed in complexes, except aurora rockfish, the SSC-recommended sigma values are assigned to species category. The Council recommended a P* of 0.45 for all of the stocks managed in complexes, except stocks in the Other Flatfish complex, as described below.

Minor Rockfish Complexes

For the six minor rockfish complexes, which are comprised of a mix of all three categories of stocks, the Council recommended a P* of 0.45. ABCs for the six minor rockfish complexes can be found in Table 1a and 2a to Subpart C.

Minor Nearshore Rockfish Complexes North and South of 40°10′ N. Lat.

For all stocks managed in the Minor Nearshore Rockfish complex the SSC-recommended sigma values by species category. Because of new stock assessments the species categories for brown rockfish, China rockfish, and copper rockfish were revised for 2015-2016 from category three stocks to category two stocks. Accordingly, the σ values of 0.72 were used for those species.

For the Minor Nearshore Rockfish complex north of 40°10′ N. lat., a complex ABC of 77 mt is proposed for each year in 2015 and 2016. The proposed ABC for the Minor Nearshore Rockfish south of 40°10′ N. lat. in 2015, is 1,169 mt, while in 2016 the ABC is proposed to be 1,148 mt. The 2015 and 2016 complex ABCs are the summed contributions of the component stocks' ABCs.

Minor Shelf Rockfish Complexes North and South of 40°10′ N. Lat.

For all stocks managed in the Minor Shelf Rockfish complex the SSC-recommended sigma values by species category.

For Minor Shelf Rockfish north of 40°10′ N. lat., the proposed 2015 ABC is 1,944 mt, and the proposed 2016 ABC is 1,953 mt. For Minor Shelf Rockfish south of 40°10′ N. lat., the proposed ABC is 1,625 mt, and the proposed 2016 ABC is 1,626 mt. As with the other stock complexes the 2015 and 2016 ABCs are the summed contributions of the component stocks' ABCs.

Minor Slope Complexes North and South of 40°10′ N. Lat.

For all stocks managed in the Minor Slope Rockfish complex, except aurora rockfish, the SSC-recommended sigma values are assigned by species category. As a result of a new stock assessment the species category for aurora rockfish was revised for 2015-2016 from category three to category one. For aurora rockfish, the SSC recommended a larger σ value of 0.39, rather than the 0.36 that would typically be used for category one stocks, to better represent uncertainty in the estimated spawning biomass caused by sensitivity to the natural mortality rates, which are considered the major source of uncertainty in the aurora rockfish assessment. As a result of new stock assessments, the species categories for rougheye/blackspotted rockfish and sharpchin rockfish were revised for 2015-2016 from category three stocks to category two stocks. Accordingly, the σ values of 0.72 were used.

For Minor slope rockfish north of 40°10′ N. lat., the proposed 2015 ABC is 1,693 mt and the proposed 2016 ABC is 1,706 mt. For Minor slope rockfish south of 40°10′ N. lat., the proposed 2015 ABC is 705 mt and the proposed 2016 ABC is 705 mt.

Other Flatfish Complex

For the Other Flatfish complex, which is comprised mostly of category three stocks (rex sole is category two), a more precautionary P* of 0.40 was recommended. A σ of 0.72 was used for rex sole and a σ of 1.44 was used for all other stocks. The 2015 and 2016 ABCs for the Other Flatfish complex are 8,749 mt and 7,243 mt, respectively.

Other Fish Complex

For the newly reconfigured Other Fish complex (as described in “Stock Complex OFLs” for the “Other Fish Complex” above and in “Stock Complexes” below), which is composed entirely of category three stocks, a P* value of 0.45 was recommended. With the proposed reconfiguration, the species that would remain in the Other Fish complex have more similar life history characteristics, depth distributions, and vulnerabilities to potential overfishing than the Other Fish complex as it was configured in 2014. This reduces the risk of overfishing for species that remain in the Other Fish complex, as some of the stocks that were removed would have inflated the complex-level harvest specifications. While a higher P* was chosen than is usual for category three stocks, the ABC for the newly reconfigured complex was further reduced by the Council's recommendation to only include the contributing OFL/ABC for some of the species for calculating the harvest specifications for the Other Fish complex. Kelp greenling in California, cabezon in Washington, and leopard shark contribute to the complex harvest specifications, while kelp greenling in Oregon and Washington do not, though they are still part of the Other Fish complex. A P* of 0.45 for these category three stocks results in a 16.7 percent reduction from the OFL. The 2015 and 2016 ABCs for the Other Fish complex are 242 mt and 243 mt, respectively.

C. Proposed ACLs for 2015 and 2016

ACLs are specified for each stock and stock complex that is “in the fishery”. An ACL is a harvest specification set equal to or below the ABC to address conservation objectives, socioeconomic concerns, management uncertainty, or other factors necessary to meet management objectives. All sources of fishing related mortality (tribal, commercial groundfish and non groundfish, recreational, and exempted fishing permits (EFPs)), including retained and discard mortality, plus research catch are counted against an ACL. The ACL serves as the basis for invoking accountability measures (AMs). If ACLs are exceeded more than one time in four years, then improvements to or additional AMs, for example catch monitoring and inseason adjustments to fisheries, may need to be implemented.

Under the PCGFMP harvest policies, when a stock's depletion level falls below BMSY or the proxy for BMSY, which is the biomass level that produces MSY (B25% for assessed flatfish, B40% for all other groundfish stocks), but is above the overfished level (MSST- B12.5% for assessed flatfish, B25% for all other groundfish stocks), the stock is said to be in the “precautionary zone” or below the precautionary threshold. In general, when recommending ACLs, the Council follows a risk-averse policy by recommending an ACL that is below the ABC when there is a perception the stock is below its BMSY, or to accommodate management uncertainty, socioeconomic concerns, or other considerations. When a stock is below the precautionary threshold the harvest policies reduce the fishing mortality rate. The further the stock biomass is below the precautionary threshold, the greater the reduction in ACL relative to the ABC, until at B10% for a stock with a BMSY proxy of B40% or B5% for a stock with a BMSY proxy of B25%, the ACL would be set at zero. These policies, known as the 40-10 and 25-5 harvest control rules, respectively, are designed to prevent stocks from becoming overfished and serve as an interim rebuilding policy for stocks that are below the overfished threshold. For stock complexes, the ACL is set for the complex in its entirety and is less than or equal to the sum of the individual component ABCs. The ACL may be adjusted below the sum of component ABCs to address the factors described above. Under the PCGFMP, the Council may recommend setting the ACL at a different level than what the these harvest control rules specify as long as the ACL does not exceed the ABC and complies with the requirements of the MSA. For many of the species or stock complexes “in the fishery”, there is no new information to inform changes to harvest policies, or the Council did not identify a need for a change in policy from updated information. Therefore, for those species or stock complexes the Council chose to maintain the ACL policies from the previous biennial cycle. A summary table of the proposed ACL policies for 2015-2016 is presented below. The following sections discuss proposed ACLs for overfished species, healthy and precautionary zone species, and stock complexes.

1. Overfished Species ACLs

When a stock has been declared overfished a rebuilding plan must be developed and the ACLs for these stocks are therefore set according to the rebuilding plans. The following seven overfished groundfish stocks would be managed under rebuilding plans in 2015-2016: bocaccio south of 40°10′ N. lat.; canary rockfish; cowcod south of 40°10′ N. lat.; darkblotched rockfish, Pacific Ocean Perch (POP), petrale sole, and yelloweye rockfish. The proposed rules for the 2011-2012 (75 FR 67810), 2013-2014 (77 FR 67974) harvest specifications, and management measures contain extensive discussions on the management approach used for overfished species, which are not repeated here. Further, the SAFE document posted on the Council's Web site at http://www.pcouncil.org/groundfish/safe-documents/ contains a detailed description of each overfished species, its status and management as well how rebuilding analyses are conducted. Finally, appendix F to the FMP contains the most recent rebuilding plan parameters as well as a history of each overfished species and can be found at http://www.pcouncil.org/groundfish/fishery-management-plan/.

The proposed SPR or harvest control rule for each stock managed under a rebuilding plan, the resulting ACLs, and summarized information about rebuilding progress are presented below. Detailed information is also available in the relevant stock assessments, stock assessment updates, rebuilding analyses, and the draft EIS for this action, which are all available from NMFS and the Pacific Fishery Management Council (See SUPPLEMENTARY INFORMATION).

Bocaccio

The 2011 rebuilding analysis indicated that bocaccio is showing steady progress towards a rebuilt status under the current rebuilding plan described in 50 CFR 660.40(a). This progress was confirmed by the 2011 update to the rebuilding analysis and the 2013 update. The updated assessment predicted the stock would be rebuilt in 2015. However, the SSC recommended maintaining the rebuilding plan for the 2015-2016 biennium until a full stock assessment can confirm that the stock is rebuilt.

When an SPR harvest rate of 77.7 percent from the current rebuilding plan is applied to the biomass estimate from the 2013 assessment update, it results in the proposed ACLs of 349 mt in 2015 and 362 mt in 2016. Because rebuilding progress is considered adequate, and the 2011 assessment update supports our fundamental understanding of the stock, the Council's recommendation was to maintain the rebuilding plan currently in the FMP and 50 CFR 660.40(a) (i.e., no modifications to TTARGET or SPR harvest rate).

Canary Rockfish

Due to progress on rebuilding and no changes in our understanding of the biology of the stock, the SSC did not recommended preparing a new canary rockfish rebuilding analysis in 2013. A catch report was drafted for canary that showed the 2010-2012 total catches were below the canary rockfish ACL. The Council recommended maintaining the canary rockfish rebuilding plan.

The Council's recommended ACLs are 122 mt in 2015 and 125 mt in 2016, which maintains the current SPR harvest rate of 88.7. The preferred ACLs are intended to provide a level of harvest that rebuilds quickly, yet takes into account the needs of fishing communities. Also, the proposed management measures and catch allocations are projected to result in canary rockfish total catch mortality less than the annual ACLs. Managing the fishery to a level that is less than the annual ACLs is intended to ensure total mortality stays below the ACL, to allow the stock to rebuild faster, and to reduce the likelihood that inseason management changes will be needed to ensure that ACLs are not exceeded. Because the rebuilding progress was considered adequate, no changes to the rebuilding plan are proposed.

Cowcod

Modifications are necessary to the cowcod rebuilding plan because the 2013 rebuilding analysis showed that the estimated TMAX is nine years earlier than the current TTARGET. The Council's recommendation was to maintain the current harvest rate but modify the TTARGET as well as implement an Annual Catch Target (ACT) below the ACL. A full assessment and rebuilding analysis was conducted for cowcod. Because the model used in the assessment (XDB-SRA) is incompatible with spawning potential ratios, harvest control rules were translated into exploitation rates. The 10 mt ACLs proposed for 2015 and 2016 are based on an exploitation rate (catch over age 11+ biomass of 0.007) translated into an equivalent SPR harvest rate of 82.7 percent which results in a median time to rebuild and proposed new TTARGET of 2020. No other rebuilding plan parameter changes were recommended. The 4 mt ACTs proposed for 2015 and 2016 were recommended to accommodate extra mortality in research, which is a large source of uncertainty for cowcod because of the lack of data from the core habitat areas. The ACL contribution for the area north of Point Conception was calculated by using the fishing mortality rate from south of Point Conception applied to the biomass estimate for north of Point Conception from DB-SRA. The SSC recommended this method over the previous method of simply doubling the ACL from south of Pt Conception to calculate the ACL for the entire area because it is more scientifically justified.

Darkblotched Rockfish

The 2013 assessment indicates that darkblotched rockfish is showing steady progress towards rebuilding under the current rebuilding plan (50 CFR 660.40(d)) and is estimated to be rebuilt by the start of 2015. The SSC recommended maintaining the rebuilding plan for the 2015-2016 biennium until a full assessment can be done in 2015 to confirm this result. Because the stock is estimated to be rebuilt in 2015 no new rebuilding analysis was conducted. The proposed ACLs of 338 mt in 2015 and 346 mt in 2016 result from application of the SPR harvest rate of 64.9 percent to information from the 2013 stock assessment, and have a median time to rebuild of 2017, which is one year longer than TF=0. Because the rebuilding progress indicated in the 2011 assessment and rebuilding analysis was considered adequate, and supports our fundamental understanding of the stock, the Council recommendation was to maintain the rebuilding plan currently in the FMP and regulation (i.e., no modifications to TTARGET or SPR harvest rate).

Petrale Sole

The 2013 stock assessment and rebuilding analysis projected the petrale sole biomass to be at 22 percent of its unfished biomass and showing strong progress towards rebuilt status. The stock is predicted to be rebuilt by the start of 2014. The ACLs, derived by applying the 25-5 harvest control rule, proposed in this rule are 2,816 mt and 2,910 mt in 2015 and 2016, respectively. The ACLs derived from the 25-5 harvest control rule are projected to rebuild the stock by 2014, the same year as TF=0. Because the rebuilding progress was considered adequate, and the 2013 assessment supports our fundamental understanding of the stock, the Council recommendation was to maintain the rebuilding plan currently in the PCGFMP and at § 660.40(f) (i.e., no modifications to TTARGET or harvest control rule).

POP

No new rebuilding analysis was conducted for POP. A catch reported was provided in 2013 that indicated 2010-2012 catches were below the ACL.

The Council has recommended maintaining the rebuilding strategy in the current rebuilding plan, with an SPR harvest rate of 86.4 percent, resulting in ACLs of 158 mt in 2015 and 164 mt in 2015. The proposed management measures and catch allocations for 2015-2016 are projected to result in POP total catch mortality less than the annual ACLs. Managing the fishery to a level that is less than the annual ACLs is intended to help ensure total mortality stays below the ACL, to allow the stock to rebuild faster, and to reduce the likelihood that inseason management changes will be needed to keep mortality within the ACL. The ACL for POP has the greatest effect on the northern trawl fishery (both the at-sea Pacific whiting sectors and the Shorebased IFQ Program).

Yelloweye Rockfish

No new rebuilding analysis was conducted for yelloweye rockfish. The 2011 rebuilding analysis was used to inform the rebuilding projections for the 2015-2016 biennium. The 2011 rebuilding analysis indicated that yelloweye rockfish is showing steady progress towards rebuilt status under the current rebuilding plan. The rebuilding analysis estimates that yelloweye rockfish will rebuild to BMSY seven years earlier than the TTARGET of 2074 specified in the current rebuilding plan if the existing harvest control rule (SPR=76.0 percent) remains in place. The proposed ACLs of 18 mt in 2015 and 19 mt in 2016 results from applying an SPR harvest rate of 76.0 percent to current biomass. Because rebuilding progress was considered adequate, and the 2011 assessment supports our fundamental understanding of the stock, the Council recommended maintaining the rebuilding plan currently in the PCGFMP and specified at § 660.40 (i.e., no modifications to TTARGET or SPR harvest rate).

2. Non-Overfished Species ACLs for Individually Managed Stocks

For the following individually managed species the Council maintained the ACL policy from the last biennium to establish the 2015-2016 ACLs: arrowtooth flounder, black rockfish (WA, and OR-CA), cabezon (OR, CA), California scorpionfish, chilipepper south of 40°10′ N. lat., lingcod south of 40°10′ N. lat., longnose skate, Pacific cod, sablefish, splitnose south of 40°10′ N. lat., and starry flounder.

The Council considered new policies or information relative to the ACLs for the following healthy and precautionary zone species: Dover sole, English sole, lingcod south of 40°10′ N. lat. (specifically between 42° N. lat. and 40°10′ N. lat.), longspine thornyhead, shortbelly, shortspine thornyhead, spiny dogfish, widow rockfish, and yellowtail rockfish north of 40°10′ N. lat.

Dover Sole

A Dover sole assessment was done in 2011, which indicated the stock was healthy with a 2011 spawning stock biomass depletion of 83.7 percent of unfished biomass. Rather than set the ACLs equal to the ABCs of 63,929 mt in 2015 and 56,615 mt in 2016, the proposed 2015 and 2016 ACLs maintain a strategy of setting a constant catch level below the ABC. Two ACL alternatives were considered for 2015-2016: 25,000 mt and 50,000 mt. The Council recommended ACLs of 50,000 mt for 2015 and 2016. The stock is projected to remain healthy while accommodating the current level of catch. Higher sablefish ACLs are proposed for 2015 and 2016 and, given that the trawl sablefish allocation can dictate the amount of Dover sole that can be accessed in the IFQ fishery, the Council recommended higher Dover sole ACLs. Additionally, the Council noted that most of the Dover sole catch is from the IFQ fishery, where stringent monitoring is in place to prevent exceeding the ACL.

English Sole

A new data-moderate English sole assessment was done in 2013, which indicated the stock was healthy with a 2013 spawning stock at 88 percent of its unfished biomass. The Council recommended the ACL be set equal to the ABC because the stock is above its target biomass of B25%. The proposed 2015 and 2016 ACLs are 9,853 mt and 7,204 mt, respectively. Since the ACL is set equal to the ABC, proposed changes to how the English sole ABC is calculated, affect a change to the ACL policy. Proposed ABC calculations for English sole are describe above in “Non-overfished species ABCs for individually managed stocks”.

Lingcod

Lingcod are distributed coastwide with harvest specifications based on two area stock assessments that were conducted in 2009 for the areas north and south of the California-Oregon border at 42° N. lat. The stock assessments indicate west coast lingcod stocks are healthy with the stock depletion estimated for lingcod off Washington and Oregon to be at 62 percent of its unfished biomass, and lingcod off California estimated to be at 74 percent of its unfished biomass at the start of 2009. As in 2013-2014, the lingcod ACLs for 2015-2016 are being proposed for the areas north and south of the current 40°10′ N. lat. management line rather than north and south of the California-Oregon border (42° N. lat.), which is where the stock assessment splits the stocks. The adjusted specifications for lingcod were based on the NMFS Northwest Fisheries Science Center trawl survey. The swept area biomass estimates calculated annually (2003-2010) in the NMFS Northwest Fisheries Science Center trawl survey indicated that 48 percent of the lingcod biomass for the stock south of 42° N. lat. occurred between 40°10′ N. lat. and 42° N. lat., and the specifications were adjusted accordingly. Because the stock in both areas is above its target biomass of B40% the proposed 2015 and 2016 lingcod ACLs are set equal to the ABCs of 2,830 mt in 2015 and 2,719 mt in 2016 for the stock north of 40°10′ N. lat. and 1,004 mt in 2015 and 946 mt in 2016 for the stock south of 40°10′ N. lat. Since the ACLs are set equal to the ABCs, proposed changes to how the lingcod ABCs are calculated affect a change to the ACL policy. Proposed ABC calculations for lingcod are describe above in “Non-overfished species ABCs for individually managed stocks”.

Longspine Thornyhead

A new, full longspine thornyhead assessment was done in 2013 that indicated the stock was healthy with a 2013 spawning stock at 75 percent of its unfished biomass. The Council revised its ACL policy for longspine thornyhead and recommended the ACL be set equal to the ABC, but is recommending maintaining the Conception area management line at 34°27′ N. lat. because the stock is above its target biomass of B40% and because ten more years of survey data were used to inform the new 2013 assessment.

Until 2013, the most recent stock assessment for longspine thornyhead was conducted in 2005. The ACL policy for longspine thornyhead in the last cycle took an additional precautionary adjustment (25 percent reduction north of 34°27′ N. lat. and 50 percent reduction south of 34°27′ N. lat.) to reduce the ACLs from the OFLs. This reduction was intended to address concerns that there was a limited amount of fishery independent data used to inform the 2005 assessment, particularly in the Conception area. For the 2005 assessment, the NWFSC combination shelf-slope survey had just begun in its current configuration, so the data from 2003-2004 were used. The NWFSC combination shelf-slope survey now has ten years of observations (2003-2012) incorporated into the 2013 assessments for longspine thornyhead.

As in previous cycles, the Council recommended apportioning the coastwide longspine thornyhead ACLs north and south of 34°27′ N. lat. based on the portion of the biomass estimated to occur north of Point Conception. Apportionment was based on the relative swept-area biomass estimates (2003-2012) from the NMFS NWFSC trawl survey. The Council recommended longspine thornyhead ACLs of 3,170 mt north of 34°27′ N. lat. and 1,001 mt south of 34°27′ N. lat. for 2015 and 3,015 mt north of 34°27′ N. lat. and 952 mt south of 34°27′ N. lat. for 2016. These ACLs are set equal to the ABC and then apportioned north and south of south of 34°27′ N. lat.; 76 percent to the north and 24 percent to the south.

Shortspine Thornyhead

A new, full shortspine thornyhead assessment was done in 2013 that indicated the stock was healthy with a 2013 spawning stock at 74 percent of its unfished biomass. The Council revised its ACL policy for shortspine thornyhead and recommended the ACL be set equal to the ABC, but is recommending maintaining the Conception area management line at 34°27′ N. lat. because the stock is above its target biomass of B40% and because ten more years of survey data were used to inform the new 2013 assessment (see longspine thornyhead discussion above).

Until 2013, the most recent stock assessment for these two stocks was conducted in 2005. The ACL policy for shortspine thornyhead in the last cycle took an additional precautionary adjustment (50 percent reduction south of 34°27′ N. lat.) to reduce the ACL from the OFL to address concerns that there was a limited amount of fishery independent data used to inform the 2005 assessment, particularly in the Conception area.

As in previous cycles, the Council recommended apportioning the coastwide ACL north and south of 34°27′ N. lat. based on the portion of the biomass estimated to occur north of Point Conception. Apportionment was based on the relative swept-area biomass estimates (2003-2012) from the NMFS NWFSC trawl survey. The Council recommended shortspine thornyhead ACLs of 1,745 mt north of 34°27′ N. lat. and 923 mt south of 34°27′ N. lat. for 2015 and 1,726 mt north of 34°27′ N. lat. and 913 mt south of 34°27′ N. lat. for 2016. These ACLs are set equal to the ABC and then apportioned north and south of south of 34°27′ N. lat.; 65 percent to the north and 35 percent to the south.

Shortbelly

A non-quantitative assessment was done in 2007 for shortbelly. Although the assessment does not fully satisfy the Council's terms of reference for groundfish stock assessments, the SSC endorsed the assessment for management purposes. A full discussion of the 2007 assessment and its results is available in the proposed rule for the 2009-2010 biennium (73 FR 80516, December 31, 2008). Beginning in 2009 and continuing in 2015-2016, the Council recommended a constant catch strategy for shortbelly rockfish where the ACL is set well below the ABC since the stock is unexploited and to protect the stock's importance as a forage species in the California current ecosystem. The Council considered two alternative ACLs for 2015-2016: The first alternative maintains the 2014 ACL of 50 mt; and the second increases the ACL to 500 mt. The shortbelly rockfish stock would be expected to increase in abundance under both alternative ACLs. Due to ACL increases for widow rockfish and yellowtail rockfish north of 40°10′ N. lat., the Council recommended a shortbelly ACL of 500 mt to accommodate incidental catch when fishing for these co-occurring healthy stocks, while maintaining the large precautionary reduction in the ACL from the ABC for shortbelly.

Spiny Dogfish

Spiny dogfish was assessed for the first time in 2011. The 2011 assessment indicated that the spiny dogfish stock was healthy with an estimated spawning biomass at 63 percent of its unfished biomass. In 2013-2014 spiny dogfish was managed within the Other Fish complex and did not have species-specific harvest specifications; the 2011 assessment was used to calculate the contribution of spiny dogfish biomass to the Other Fish complex and the sum of the contributing ABCs for stocks in the complex was equal to the ACL for the Other Fish complex. Beginning in 2015, the Council recommended revising the species composition of the Other Fish complex and recommended removing spiny dogfish from the complex to manage it with species-specific harvest specifications. The Council recommended setting the ACL equal to the ABC, as the stock is above its target biomass of B40%. The proposed spiny dogfish ACLs are 2,101 mt in 2015 and 2,085 mt in 2016.

Widow Rockfish

Widow rockfish was assessed in 2011 and indicated the spawning stock biomass was at 51 percent of its unfished biomass at the start of 2011. As the stock status was above the rebuilding threshold, beginning in 2013 and 2014, widow rockfish was managed as a healthy stock. Although the base model is considered to be the best available science, there was considerable uncertainty regarding the new stock assessment's findings. As in 2013-2014, the Council took this into consideration when making the ACL recommendations for 2015-2016. Three ACL alternatives were considered for widow rockfish, all of which maintained a constant catch strategy where the ACL is set below the ABC: 1,500 mt, 2,000 mt, 3,000 mt. For 2015-2016, the Council recommended ACLs of 2,000 mt to accommodate increased opportunity in the Shorebased IFQ Program and the at-sea Pacific whiting fisheries while keeping the spawning stock biomass above the target B40% level for the next 10 years according to the base model. The ACL of 2,000 mt maintains the strategy for more precautionary ACLs for widow rockfish, compared to the general policy of setting the ACL equal to the ABC for healthy stocks (ABC of 3,929 mt in 2015 and 3,790 mt in 2016). The Council recommended a precautionary ACL given the uncertainty in the stock's estimated biomass, relative productivity, and other aspects of the stock's dynamics.

Yellowtail Rockfish North of 40°10′ N. Lat.

A new data-moderate yellowtail rockfish assessment was done in 2013 for the portion of the stock north of 40°10′ N. lat. The new assessment indicated the stock was healthy with a 2013 spawning stock at 69 percent of its unfished biomass. The Council recommended the ACL be set equal to the ABC because the stock is above its target biomass of B40%. The proposed 2015 and 2016 ACLs are 6,590 mt and 6,344 mt, respectively. Since the ACL is set equal to the ABC, proposed changes to how the yellowtail rockfish north of 40°10′ N. lat. ABC is calculated, affect a change to the ACL policy. Proposed ABC calculations for yellowtail rockfish north of 40°10′ N. lat. are described above in “Non-Overfished Species ABCs for Individually Managed Stocks”.

BILLING CODE 3510-22-P

3. Stock Complex ACLs

Stocks may be grouped into complexes for various reasons including where stocks in a multispecies fishery cannot be targeted independent of one another and MSY cannot be defined on a stock-by-stock basis, where there is insufficient data to measure their stock status, or when it is not feasible for fishermen to distinguish individual stocks among their catch. Most groundfish species managed in a stock complex are data-poor stocks without full stock assessments.

All of the ACLs for stock complexes are less than or equal to the summed ABC contributions of each component stock in each complex as described in the following paragraphs.

Minor Nearshore Rockfish North and South of 40°10′ N. Lat.

Minor Nearshore Rockfish are caught predominantly in the non-trawl fisheries (both commercial and recreational). Nearshore rockfish are primarily managed by each state. Annual state harvest guidelines (HGs) for Minor Nearshore Rockfish north of 40°10′ N. lat. are proposed for 2015 and 2016 and discussed in “Management Measures” below. Under the proposed action the Minor Nearshore Rockfish North ACL is a 22 percent reduction from the OFL.

For Minor nearshore rockfish north of 40°10′ N. lat., the preferred 2015 and 2016 complex ACLs of 69 mt are set below the 77 mt ABCs each year. The ACLs are lower than the ABCs because the 40-10 adjustment was applied to the ABC contributions for blue rockfish in California and China rockfish. Then the ACLs were set equal to the 40-10 adjusted ABCs. The 2015 and 2016 complex ABC is the summed contribution of the component stocks' ABCs. For Minor nearshore rockfish south of 40°10′ N. lat., the preferred 2015 and 2016 complex ACLs are less than the ABCs for the complex. In 2015 the Minor nearshore rockfish complex ABC is 1,169 mt, with an ACL of 1,114 mt, while in 2016 the ABC is 1,148 mt and the ACL is 1,006 mt. The ACLs are lower than the ABCs because the 40-10 adjustment was applied to the ABC contributions for blue rockfish north of 34°27′ N. lat. Then the ACLs were set equal to the 40-10 adjusted ABCs.

Minor Shelf Rockfish North and South of 40°10′ N. Lat.

For Minor shelf rockfish north of 40°10′ N. lat., the proposed 2015 ACL of 1,944 mt is same as the ABC, while the 2016 ACL of 1,952 is lower than the ABC of 1,953. The ACL is set equal to the ABC after the 40-10 adjustment was applied to the ABC contributions for greenspotted rockfish in California (the 2015 ACL is slightly less than the 2015 ABC but rounds to the ABC value). For Minor shelf rockfish south of 40°10′ N. lat., the proposed 2015 ACL of 1,624 mt is less than the ABC of 1,625 mt and the 2016 complex ACL of 1,625 mt is less than the ABC of 1,626 mt. The ACLs are lower than the ABCs because the 40-10 adjustment was applied to the ABC contributions for greenspotted rockfish. Then the ACLs were set equal to the 40-10 adjusted ABCs.

Minor Slope Rockfish North and South of 40°10′ N. Lat.

For Minor Slope Rockfish north of 40°10′ N. lat., the proposed 2015 ACL of 1,693 mt is set equal to the ABC and the 2016 proposed ACL of 1,706 mt is set equal to the ABC, as none of the component stocks are in the precautionary zone. For Minor Slope Rockfish south of 40°10′ N. lat., the proposed 2015 ACL of 693 mt is lower than the ABC of 705 mt and the 2016 ACL of 695 mt is lower than the ABC of 705 mt. The ACLs are lower than the ABCs because the 40-10 adjustment was applied to the ABC contributions for blackgill rockfish. Then the ACLs were set equal to the 40-10 adjusted ABCs.

Other Flatfish

The proposed 2015 and 2016 ACLs of 8,749 mt and 7,243 mt, respectively, are equal to the 2015 and 2016 ABCs since all of the assessed stocks (i.e., Pacific sanddabs and rex sole) were above their target biomass of B25%.

Other Fish Complex

The Other Fish complex historically contained non-target species that occurred as bycatch (not retained, landed, sold, or kept for personal use) while targeting other species. For 2015-2016 the Council recommended reorganizing this complex, removing several species and designating them as EC species, and removing spiny dogfish and managing it with species-specific harvest specifications. For a discussion of EC species see “Amendment 24 to the Pacific Coast Groundfish Fishery Management Plan” section.

The Other Fish complex is restructured to include the Washington, Oregon, and California kelp greenling stocks; the Washington cabezon stock; and leopard sharks. The proposed 2015 and 2016 ACLs of 242 mt and 243 mt are set equal to the complex ABCs.

D. Stock Complexes

In preparation for the 2015-2016 biennium, the Council's Groundfish Management Team, with guidance from the Council's SSC, performed an analysis to assess whether any stocks were potentially at risk of experiencing catch in excess of their contribution OFLs within the current stock complexes. Informed by the work of its advisory bodies, staff, and the public, the Council considered whether to recommend any changes to the current stock complex configurations. Ultimately, as discussed further below, the Council recommended reorganizing the Other Fish complex because it contained species of dissimilar life history characteristics and varying vulnerabilities to the fishery. For rougheye/blackspotted and shortraker rockfish, which are managed within the Minor Slope Rockfish complexes, the Council recommended implementing a sorting requirement to improve data collection rather than restructuring the complexes at this time.

1. Minor Nearshore Rockfish Complex North and South of 40°10′ N. lat.

China rockfish are included in the Minor Nearshore Rockfish complexes and are an important species in the nearshore recreational and nearshore commercial fisheries. China rockfish (south of 40°10′ N. lat.) is a healthy stock. In 2015 and 2016, when calculating the Minor Nearshore Rockfish north complex harvest specifications, the 40-10 precautionary adjustment is applied to the China rockfish ABC contribution to determine the China rockfish contribution to the stock complex ACL. Based on the results of the data moderate assessment and concerns about the potential for catch to exceed China rockfish's OFL contribution to the Minor Nearshore Rockfish north OFL, the Council initially considered an analysis of state-specific or regional HGs of China rockfish north of 40°10′ N. lat. However, given the constraints posed on the fisheries from management at the species level and the availability of data to allow a full stock assessment to confirm trends identified in the data-moderate assessment, the Council recommended keeping China rockfish within the Minor Nearshore Rockfish complex until a better understanding of the status of the stock can be determined through a full stock assessment (scheduled to occur in 2015). The reduction in the 2105-2016 Minor Nearshore Rockfish ACLs could result in a corresponding reduction to China rockfish mortality if measures taken to reduce catch of the complex level result in reduced targeting of China rockfish.

2. Minor Shelf Rockfish Complex North and South of 40°10′ N. lat.

No changes to the Minor Shelf Rockfish complexes (north and south of 40°10′ N. lat.) are proposed in 2015-2016. The Council considered reorganization of the Minor Shelf Rockfish complexes, and found no compelling reason to reorganize these complexes, as the species within the complex are similar in life history and distribution, and none are currently at a risk of exceeding contribution OFLs (when combining north and south contributions for a given stock, per SSC guidance).

3. Minor Slope Rockfish Complexes North and South of 40°10′ N. lat.

The Council considered restructuring the Minor Slope Rockfish complexes by removing rougheye/blackspotted and shortraker rockfish and managing these stocks as a new rougheye/blackspotted/shortraker coastwide complex. Doing so might help to reduce any potential risk of exceeding contribution OFLs in the future, but extensive concern was expressed by industry and the Council that restructuring the Minor Slope Rockfish could disrupt limited entry trawl and fixed gear fisheries. Realizing the need to reduce rougheye/blackspotted catch, the Catcher/Processor sector of the Pacific whiting fishery began to pay heightened attention to rougheye/blackspotted catches by their fleet and move away from areas where higher rougheye/blackspotted bycatch was occurring in 2013. Total catch of rougheye/blackspotted in 2013 by the Catcher/Processor sector was 11.2 mt, down significantly from the high 2011 catch of 74.4 mt. Vessels targeting Pacific whiting with midwater trawl gear in the Mothership sector and the Shorebased IFQ Program may be able to enact similar strategies to reduce their impacts. Shortraker rockfish have exceeded their contribution OFLs in recent years, although the stock is on the southern outskirts of its predominant range. However, bottom trawl surveys have not produced sufficient samples of shortraker rockfish for a data moderate assessment, let alone a full stock assessment. Furthermore, NWFSC stock assessment staff are currently working to improve assessment methods for situations where the assessed area covers only a small portion of the stocks' predominant range (i.e., shortraker rockfish).

Industry has also conducted extensive outreach among the various sectors (including bottom trawl and fixed gear sectors) to inform them of the need to reduce rougheye/blackspotted, and shortraker rockfish catch within their sectors. Industry representatives provided a report detailing ongoing voluntary measures to reduce catch of these species at the June 2014 Council meeting.

For 2015-2016 the Council recommended a sorting requirement for rougheye/blackspotted and shortraker for all commercial fisheries. The STAR panel recommended that the 2013 rougheye assessment treat rougheye/blackspotted as one stock due to limitations in available data sets, despite the fact that they are actually two different species. Therefore, fish of these stocks found off the U.S. west coast are assessed as a single “rougheye” unit. In 2015-2016, a sorting requirement is proposed to be implemented for rougheye/blackspotted rockfish (treated as a single unit) and for shortraker rockfish (treated as a separate unit). NMFS anticipates that the sorting requirements for rougheye/blackspotted, and shortraker rockfish will: Reduce ambiguity and species-specific assumptions of catch; aid in annual mortality tracking; aid in inseason catch monitoring; and, improve data available for future stock assessments.

Blackgill rockfish is managed within the Minor slope rockfish complexes. The 2011 assessment for the stock south of 40°10′ N. lat. indicated the stock was in the precautionary zone with spawning biomass depletion estimated to be 30 percent of its unfished biomass at the start of 2011. NMFS established 2013 and 2014 HGs equal to the ACLs calculated for the southern blackgill rockfish stock after the 40-10 adjustment was made. Species specific trip limits were implemented for commercial non-trawl fisheries, and current indications are that this action appears to have had the intended effect of reducing catch of blackgill rockfish. However, there is a limited ability in the current management structure to reduce targeting of blackgill rockfish in the IFQ fishery. The Council has begun considering removing blackgill rockfish from the Minor Slope Rockfish complex and re-evaluating the allocation structure for this species.

Prior to the 2013 full assessment for aurora rockfish, previous biomass estimates were lower than the current, improved understanding of the stock. Under the previous biomass estimates, aurora rockfish harvests were in excess of the OFL contribution estimates. The full aurora rockfish assessment in 2013 found the stock to be in a healthy state outside of the precautionary zone, with recent mortality below the aurora rockfish OFL contribution to the complex.

4. Other Flatfish Complex

The Council considered reorganization of the Other Flatfish complex, and found no compelling reason to reorganize this complex, as species within the complex are similar in life history, and none are currently at a risk of overfishing.

5. Other Fish Complex

The Other Fish complex historically contained non-target species that occurred as bycatch (not retained, landed, sold, or kept for personal use) while targeting other species. Spiny dogfish were managed within the Other Fish complex in 2013 and 2014. For 2015 and 2016, spiny dogfish is proposed to be removed from the Other Fish complex and managed as a single coastwide management unit. Skates (Aleutian skate, Bering/sandpaper skate, roughtail/black skate, and all other skates), Grenadiers (Pacific grenadier, giant grenadier, all other grenadiers), soupfin shark, spotted ratfish, and finescale codling, formerly managed within the Other Fish complex, are proposed for designation as Ecosystem Component (EC) species in 2015-2016. As proposed, the Other Fish complex is restructured to include the Washington, Oregon and California kelp greenling stocks; the Washington Cabezon stock; and leopard sharks. For further discussion regarding rationale for new EC designations of stocks previously managed within the Other Fish complex, see the “Amendment 24 to the Pacific Coast Groundfish Fishery Management Plan” section below. Not all the stocks in the proposed complex contribute to the OFL calculations (See “Other Fish Complex” in the “Proposed OFLs for 2015 and 2016” section for more discussion on the OFL calculation). NMFS acknowledges that keeping leopard sharks in the Other Fish complex keeps a stock in the proposed complex with different life history characteristics than the other stocks. However, leopard shark is consistently at a low risk of overfishing, and catch is consistently below their contribution OFL to the Other Fish complex. NMFS notes that the proposed definition of “Other Fish” at § 660.11 removes Sebastes species not explicitly listed in the PCGFMP from the Other Fish complex and those species would not count towards the landings limits, when specified, for the Other Fish complex.

E. Amendment 24 to the Pacific Coast Groundfish Fishery Management Plan

Amendment 24 consists of three components: (1) Default harvest control rules; (2) a suite of minor changes, including clarification of routine management measures and adjustments to those measures, clarification to the harvest specifications decision making schedule, changes to the description of the biennial management cycle process, updates to make the FMP consistent with SSC guidance on the FMSY proxy for elasmobranchs, and clarifications to definitions; and (3) addition of two rockfish species to the PCGFMP and the designation of EC species.

1. Default Harvest Control Rules, Clarifications, and Adding Species

Over the past three years, the Council has been examining the harvest specifications and management measures decision-making process, and related analytical requirements in an effort to simplify these processes. Several biennial harvest specifications cycles have not met their intended January 1st start date and it was thought that efficiencies could be gained by adjusting Council decision making and the analysis undertaken each biennial cycle. Therefore, the Council undertook Amendment 24 to examine ways to streamline the Council decision-making in each biennium to implement the harvest specifications and management measures. This resulted in several changes being proposed to how the Council will address harvest specifications beginning in the 2017-2018 biennium.

The use of default harvest control rules and their addition to the FMP is intended to simplify the Council's harvest specifications process and acknowledge that the Council generally maintains the policy choices from the previous biennium to annual catch limits for the next biennium. Under Amendment 24, the harvest control rules used to determine the previous biennium's harvest specifications (i.e., OFLs, ABCs, and ACLs), would automatically be applied to the best scientific information available to determine the future biennium's harvest specifications. NMFS would implement harvest specifications based on the default harvest control rules unless the Council makes a different recommendation. Proposed regulations implementing the provisions related to the use of default harvest specifications at § 660.60(b) would not apply to ecosystem component species because they do not have OFLs, ABCs, or ACLs specified, or Pacific whiting because the harvest specifications for Pacific whiting are established annually through a bilateral treaty process with Canada. In addition to the use of defaults to simplify the harvest specifications process, Amendment 24 makes changes to the description of the type of management measures that may be addressed through the biennial process. Clarifying that the management measures should be (1) management measures to be classified as routine the first time these measures are used; (2) adjustments to current management measures that are classified as routine; and (3) new management measures, not previously analyzed. This clarifies the focus of management measures and is intended to simplify the management measures proposed through each biennial cycle.

The PCGFMP includes all species in the genera Sebastes, and specifically lists many of those species individually. Amendment 24 adds two Sebastes species to the list of PCGFMP species. The two species proposed to be added are sunset rockfish (S. crocotulus) and blackspotted rockfish (S. melanostictus). Sunset rockfish is added because best available scientific information indicates that vermillion rockfish (a species currently listed in the PCGFMP) is a stock actually made up of two species: Vermillion rockfish and sunset rockfish. Since these stocks are almost indistinguishable without very detailed examination, the 2013 draft vermillion rockfish stock assessment recommended treating them as a single stock, consisting of two distinct species. Adding sunset rockfish to the PCGFMP recognizes this new information. Blackspotted rockfish are being added to the PCGFMP because a sorting requirement is proposed for blackspotted/rougheye rockfish (See “Minor Slope Rockfish” under the section “Stock Complexes” for more discussion of blackspotted/rougheye rockfish).

2. Designation of Ecosystem Component Species

Finally, Amendment 24 designates several species and species groups as Ecosystem Component (EC) species. The concept of EC species was added to the PCGFMP under Amendment 23, which revised the PCGFMP to comply with the revised MSA National Standard 1 Guidelines. However, no species were designated as EC species at that time. The EC species designation is described in National Standard 1 Guidelines at 50 CFR 600.310(d)(5). Generally, EC species should be a non-target stock, not be subject to overfishing or determined to be overfished, or approaching an overfished condition and not likely to become so in the absence of management measures; and not generally retained for sale or personal use. Amendment 24 proposes to designate the following species, which were already in the PCGFMP, as EC species: big skate, California skate, Pacific grenadier, soupfin shark, spotted ratfish, and finescale codling. Additionally, the following species or species groups are proposed to be added to the PCGFMP as EC species: Aleutian skate, Bering/sandpaper skate, roughtail/black skate, all other skates, giant grenadier, and all other grenadiers. EC species are not considered “in the fishery”, and do not require harvest specifications (e.g. OFLs, ABCs and ACLs).

During development of the 2015-2016 harvest specifications and management measures, the Council considered reorganizing the eight groundfish stock complexes (see “Stock Complex ACL” section). The SSC recommended that the Council prioritize the Other Fish complex for reorganization and an analysis was completed to look at potential ways of restructuring that complex, including consideration of designating some of its species as EC species. That analysis concluded that many of the species that were in the Other Fish complex were good candidates for designation as EC species because they have an extremely low risk of catch exceeding contribution OFLs. The revised Other Fish complex would be composed of shallow-water species often caught within three miles of shore, in state waters. Removing the other species within the Other Fish complex and classifying them as an EC species reduces the risks to the species left in the complex (Cabezon off Washington, kelp greenling and leopard shark). The risk of overfishing is reduced for the remaining stocks because some of the recommended EC species were effectively inflator stocks to the Other Fish complex, with relatively larger OFL contributions. Removing inflator stocks reduces the risk of mortality exceeding contribution OFLs for the stocks managed in the reorganized Other Fish complex.

Species proposed for EC species designation are at a low risk of overfishing for various reasons, including: Best estimates of harvest are relatively low; best estimates of catch do not have an increasing trend; and geographic distribution of some of the species has only a small overlap with the geographic areas of the Pacific coast groundfish fisheries. The goal of designating EC species is to more appropriately categorize them based on their lack of fishing pressure, while acknowledging the limited interaction of these species with the groundfish fisheries and their role in the ecosystem. Catch of EC species will be monitored for increasing trends in landings, primarily through state landings in market categories. This monitoring may aid in identifying emerging fisheries that require evaluation for possible management or may identify potential conservation concerns.

NMFS acknowledges that reclassification of Pacific grenadier from a stock “in the fishery” to an EC species is arguably inconsistent with the NS 1 Guidelines, which state that EC species should not be a target stock and should generally not be retained. Recent Pacific grenadier landings average about 130 mt per year, and Pacific grenadier is landed, marketed, and possibly targeted in some regions, mainly in central California. However, despite relatively high amounts of catch when compared to catch of other proposed EC species, only about 10 percent of the estimated OFL contribution for Pacific grenadier was caught annually between 2009-2011. In addition, because the stocks that are currently in the PCGFMP and are proposed to be reclassified as EC species were previously managed as part of the Other Fish complex rather than as individual species, the EC classification results in very limited changes from existing management practices (e.g., there are no trip limits that appear to affect catches of Pacific grenadier currently). Therefore, it is reasonable to conclude that Pacific grenadier, and the other stocks proposed for EC classification, are not stocks in need of conservation and management. Rather than removing them from the PCGFMP entirely, designation as EC species ensures continued monitoring and evaluation of the stocks' classifications.

For a discussion of how existing fishery management measures do or do not apply to EC species see the “Management Measures” section below. The Notice of Availability for the FMP was published on November 26, 2014 (79 FR 70497).

F. Management Measures

New management measures being proposed for the 2015-2016 biennial cycle would work in combination with current management measures to control fishing. This management structure should ensure that the catch of overfished groundfish species does not exceed the rebuilding ACLs while allowing harvest of healthier groundfish stocks to occur to the extent possible. Routine management measures are used to modify fishing behavior during the fishing year. Routine management measures for the commercial fisheries include trip and cumulative landing limits, time/area closures, size limits, and gear restrictions. Routine management measures for the recreational fisheries include bag limits, size limits, gear restrictions, fish dressing requirements, and time/area closures. The groundfish fishery is managed with a variety of other regulatory requirements that are not routinely adjusted, many of which are not changed through this rulemaking, and are found at 50 CFR 660, subparts C through G. The regulations at 50 CFR 660, subparts C through G, include, but are not limited to, long-term harvest allocations, recordkeeping and reporting requirements, monitoring requirements, license limitation programs, and essential fish habitat (EFH) protection measures. The routine management measures, specified at 50 CFR 660.60 (c), in combination with the entire collection of groundfish regulations, are used to manage the Pacific Coast groundfish fishery during the biennium to achieve harvest guidelines, quotas, or allocations, that result from the harvest specifications identified in this proposed rule, while protecting overfished and depleted stocks.

In addition to changes to routine management measures, this section describes biennial fishery allocations and set-asides, and new management measures proposed for 2015-2016 including: Changes to latitude and longitude coordinates that define the boundaries of the Rockfish Conservation Areas (RCAs); new sorting requirements; and changes to canary sub bag limits in the Oregon recreational fisheries, among others.

The management measures being proposed reflect the Council's recommendations from its June 2014 meeting, as transmitted to NMFS. At its November 2014 meeting, the Council recommended three changes that may be included in the final rule for this action and therefore NMFS is specifically seeking public comment on these items.

First, the Council took final action on the Pacific halibut Catch Sharing Plan (CSP) for the 2015 halibut fisheries. Included in the recommendations was a modification to the CSP that would allow retention of flatfish species (other than halibut) in certain recreational fisheries when halibut are onboard. This change was recommended for the sport fishery in the Columbia River subarea and the Oregon Central Coast subarea. Because this change effects groundfish retention, regulations would be modified to add flatfish, in addition to sablefish and Pacific cod, to the list of species at 660.360(c)(2)(iii)(D) for Washington and at 660.360(c)(1)(i)(D)(3) for Oregon.

Additionally, the Council received reports from the California Department of Fish and Wildlife regarding higher than expected catches of black rockfish and California scorpionfish and recommended two changes to the 2015 California recreational regulations. First, the Council recommended adding a five fish black rockfish sub-bag limit within the ten fish rockfish, cabezon and greenling limit, which would modify regulations at 660.360(c)(3)(v)(A). Second, the Council recommended prohibiting the retention of California scorpionfish in the California recreational fishery from September through December 2015, which would modify regulations at 660.360(c)(3)(ii)(B). NMFS is considering the Council's recommendations and welcomes public comment on the potential changes that may be incorporated in the final rule.

1. Management Measures and Ecosystem Component Species

As described above at “Amendment 24 to the Pacific Coast Groundfish Fishery Management Plan”, the Council recommended and NMFS is proposing to designate EC species in the PCGFMP. Proposed regulations at § 660.11 define the species and species groups that are being designated as EC species as “Groundfish”. By defining EC species as “Groundfish”, Federal regulations that apply to groundfish in general would apply to EC species. In this section, we discuss in more detail how the existing fishery management structure may, or may not, apply to these species and species groups that are not considered to be “in the fishery” but are still defined as a “groundfish” species.

Many regulations at 50 CFR 660, subparts C through G, including, but not limited to, time/area closures, recordkeeping and reporting requirements, monitoring requirements, license limitation programs, and essential fish habitat (EFH) protection measures would apply to vessels taking and retaining any EC species or species groups, even if that is the only groundfish species on board. This is because they are proposed to be defined as a group of species within the more general definition of “groundfish”. Since most of the species proposed to be designated as EC species are largely discarded (i.e. low levels of retention and landing) and are currently in the PCGFMP (i.e. already subject to groundfish regulations as part of the Other Fish complex), retaining the application of most management measures to EC species is not anticipated to impose many, if any, new restrictions to vessels fishing in groundfish fisheries. The following are some specific examples of general fishery regulations that apply to groundfish, and would, therefore, also apply to species and species groups proposed to be designated as EC species: Fishing must occur with legal gear types and in areas where fishing for groundfish with that gear type is not prohibited; fishing for EC species that occurs when the vessel is registered to a permit, including limited entry permits and exempted fishing permits, must be done in compliance with the regulations that apply to that vessel's fishing activities because it is registered to a Federal permit; Federal regulations applying to groundfish, including EC species, would not supersede more restrictive state regulations; vessel must provide departure or cease fishing reports, when required to do so; vessel must carry an observer, when required to do so.

The only instance in which regulations would become applicable to additional fishing vessels is if those vessels are taking and retaining species or species groups that are being brought more explicitly into the PCGFMP for the first time with their designation as EC species (e.g. all grenadiers besides Pacific grenadier, and all skates besides longnose skate, big skate and California skate), and those vessels that are not otherwise fishing groundfish species currently in the PCGFMP. For example, if a vessel wants to retain giant grenadier in Federal waters, it is required to have an active vessel monitoring system mobile transceiver until (VMS MTU) on board the vessel prior to departing on a fishing trip where groundfish would be retained. The requirement for a VMS MTU when retaining giant grenadier in Federal waters would not have applied to this vessel in 2013-2014 unless they were retaining other groundfish species.

No new management measures are proposed specifically for EC species because these species are not at risk of overfishing. Some groundfish regulations apply to specific sectors, gear types, species, or species groups. In those cases where regulations do not generally apply to `groundfish' but apply to specific species, gear types, species groups, or fisheries, it is not anticipated that taking and retaining EC species, alone, would trigger those types of regulations. For example, EC species are not required to be sorted because they do not meet any of the requirements described at § 660.12(a)(8), EC species do not count toward any cumulative or trip limit because no cumulative or trip limits are being established for EC species or species groups at this time. If ever a cumulative limit were established for EC species or species groups, the requirement for sorting of that species or species group would be triggered.

At the start of the Shorebased IFQ Program and during development of the 2011-2012 harvest specifications and management measures, NMFS added the ability to implement trip limits, sub-limits, or aggregate limits for species in the Other Fish complex, some of which are now proposed to be designated as EC species, as a routine measure for the Shorebased IFQ Program. The proposed EC species designations are not intended to change the ability to routinely implement trip limits, sub-limits, or aggregate limits to these EC species for the Shorebased IFQ Program, as described at § 660.60(c)(1)(i). The proposed EC species designations are not intended to require those species be discarded by fishing vessels participating in otherwise legal groundfish fisheries.

As described in the “Amendment 24 to the Pacific Coast Groundfish Fishery Management Plan” section, no harvest specifications or management reference points are required for EC species; however, there is a monitoring requirement to determine changes in their status or their vulnerability to the fishery. If new information shows that an EC species' vulnerability to overfishing has increased, the stock should be reclassified as “in the fishery” through an FMP amendment. As described above, catch of EC species would be subject to the same monitoring requirements as are generally applicable to all groundfish species or species groups. Those monitoring requirements include but are not limited to: Landing receipts and documentation of discards by observers in maximized retention fisheries, among other state requirements.

2. Deductions From the ACLs

Before allocations are made to groundfish fisheries, deductions are made from ACLs to set fish aside fish for certain types of activities. The deductions from the ACL are associated with four distinct sources of groundfish mortality: Harvest in Pacific Coast treaty Indian tribal fisheries; harvest in scientific research activities; harvest in non-groundfish fisheries; and harvest that occurs under exempted fishing permits (EFPs). These deductions from the ACL are described at § 660.55(b) and specified in the footnotes to Tables 1a and 2a to subpart C.

The Council's recommended ACL for cowcod in 2015-2016 is discussed above in “Overfished Species ACLs” section. The Council decided to set an ACT for cowcod in 2015-2016. An Annual Catch Target (ACT) is an accountability measure that is set below the annual catch limit in cases where there is uncertainty in inseason catch monitoring. The goal of using an ACT is to ensure against exceeding an annual catch limit. Since the annual catch target is a target and not a limit it can be used in lieu of harvest guidelines or strategically to accomplish other management objectives. Sector-specific annual catch targets can also be specified to accomplish management objectives.

The Council acknowledged a need for scientific research to inform future stock assessments and management strategies for cowcod and recommended that groundfish fisheries be subject to a lower harvest target set well-below the ACL. To accomplish this management objective, the Council recommended that the deductions for harvest in Pacific Coast treaty Indian tribal fisheries, non-groundfish fisheries, harvest that occurs under EFPs, and mortality from scientific research activities, be deducted from the 10 mt cowcod ACL. The Council then set an ACT of 4 mt for 2015-5016 to use it in a similar way as the fishery harvest guideline; the ACT would be the amount that would be allocated across the groundfish fisheries. If additional harvest of cowcod occurs in scientific research activities, NMFS and the Council have the flexibility to account for that mortality with little risk of exceeding the ACL, because the ACT is set below the ACL. This accounting scheme also mitigates adverse impacts to groundfish fisheries if higher than expected cowcod catch occurs in 2015-2016 scientific research activities.

3. Biennial Fishery Allocations

Two-year trawl and nontrawl allocations are decided during the biennial process for those species without long-term allocations or species where the long-term allocation is suspended because the species was declared overfished. For all species, except sablefish north of 36° N. lat., allocations for the trawl and nontrawl sectors are calculated from the fishery harvest guideline. The fishery harvest guideline is the tonnage that remains after subtracting from the ACL harvest in Tribal fisheries, scientific research activities, non-groundfish fisheries and some activities conducted under exempted fishing permits. The two-year allocations and recreational harvest guidelines are designed to accommodate anticipated mortality in each sector as well as to accommodate variability and uncertainty in those estimates of mortality. Allocations described below are specified in the harvest specification tables appended to part 660, subpart C.

Bocaccio

The following are the Council's recommended allocations for bocaccio in 2015: Limited entry trawl, 81.9 mt; limited entry and open access non-nearshore fixed gears, 79.1 mt; limited entry and open access nearshore fixed gear, 1.0 mt; and California recreational 178.8 mt. The following are the Council's recommended allocations for bocaccio in 2016: Limited entry trawl, 85.0 mt; limited entry and open access non-nearshore fixed gears, 82.1 mt; limited entry and open access nearshore fixed gear, 1.0 mt; California recreational 185.6 mt. These allocations are anticipated to accommodate estimates of mortality of bocaccio, by sector, in 2015-2016 and maintain a similar allocation scheme as in 2014.

Canary Rockfish

The following are the Council's recommended allocations for canary rockfish in 2015: Shorebased IFQ Program, 43.3 mt; at-sea sectors of the Pacific whiting fishery, 13.7 mt (catcher/processor 8.0 mt and mothership 5.7 mt); limited entry and open access non-nearshore fixed gears, 3.8 mt; limited entry and open access nearshore fixed gear, 6.7 mt; Washington recreational, 3.4 mt; Oregon recreational 11.7 mt; and California recreational 24.3 mt. The following are the Council's recommended allocations for canary rockfish in 2016: Shorebased IFQ Program, 44.5 mt; at-sea sectors of the Pacific whiting fishery, 14.0 mt (catcher/processor 8.2 mt and mothership 5.8 mt); limited entry and open access non-nearshore fixed gears, 3.9 mt; limited entry and open access nearshore fixed gear, 6.9 mt; Washington recreational, 3.5 mt; Oregon recreational 12.0 mt; and California recreational 25.0 mt. These allocations are anticipated to accommodate estimates of mortality of canary rockfish, by sector, in 2015-2016 and maintain a similar allocation scheme as in 2014.

Cowcod

For 2015-2016, the Council recommended setting a cowcod ACT at 4 mt and having it function in a similar way as the fishery harvest guideline; it is the amount that would be allocated across groundfish fisheries. The cowcod allocation is proposed to be 34 percent (1.4 mt) trawl and 66 percent (2.6 mt) non-trawl for 2015-2016. NMFS anticipates the proposed allocation structure will keep catch below the 2015-2016 cowcod ACTs without having to make changes to fishery management measures and maintains the same allocation scheme as in 2014.

Petrale Sole

For petrale sole, 35 mt is allocated to the nontrawl fishery and the remainder of the fishery HG is allocated to the trawl fishery. This maintains the same allocation scheme that was in place for petrale sole since 2011.

Yelloweye Rockfish

The following are the Council's recommended allocations for yelloweye rockfish in 2015: Limited entry trawl, 1 mt; limited entry and open access non-nearshore fixed gears, 0.6; limited entry and open access nearshore fixed gear, 1.7; Washington recreational, 2.9; Oregon recreational 2.6 mt; and California recreational 3.4 mt. The following are the Council's recommended allocations for yelloweye rockfish in 2015: Limited entry trawl, 1.1 mt; limited entry and open access non-nearshore fixed gears, 0.7; limited entry and open access nearshore fixed gear, 1.8; Washington recreational, 3.1; Oregon recreational 2.8 mt; and California recreational 3.7 mt. These allocations are anticipated to accommodate estimates of mortality of yelloweye by sector in 2015-2016 and maintain the same allocation scheme that was in place for yelloweye rockfish in 2014.

Black Rockfish off Oregon and California

Oregon and California will continue to have state-specific HGs for black rockfish in 2015-2016. Oregon has a harvest guideline equal to 58 percent of the fishery harvest guideline (579 mt) and California has a harvest guideline equal to 42 percent of the fishery harvest guideline (420 mt), and is apportioned based on black rockfish landings in each state for years leading up to the 2003 black rockfish assessment. This is the same allocation scheme that was in place for black rockfish in Oregon and California since 2004.

Longnose Skate

The Council recommended a two-year trawl and nontrawl HG for longnose skate of 90 percent to the trawl fishery and 10 percent to the nontrawl fishery. The allocation percentages reflect historical catch of longnose skate between the two sectors. This maintains the same allocation scheme that was in place for longnose skate in 2014.

Minor Nearshore Rockfish

California will continue to have a state-specific harvest guideline for blue rockfish. The blue rockfish harvest guideline for the area south of 42° N. lat. is equivalent to: (1) The ABC contribution for the portion of the stock north of 34°27′ N. lat., reduced by the 40-10 adjustment because the stock is in the precautionary zone, plus (2) the ABC contribution for the unassessed portion of the stock south of 34°27′ N. lat.

Beginning in 2015, the states will be monitoring and managing catches of Minor Nearshore Rockfish north of 40°10′ N. lat. according to newly established HGs. Harvest specifications for Minor Nearshore Rockfish north of 40°10′ N. lat. are approximately 27 percent lower in 2015-2016 (69 mt) than in 2014 (94 mt). The states intend to manage catch using state-specific harvest guidelines: 10.5 mt for Washington; 48.4 mt for Oregon, and 23.7 mt for California north of 40°10′ N. lat. However, instead of implementing state specific harvest guidelines in Federal regulations, the state Council representatives from Oregon and Washington committed to heightened inseason communication regarding catches of species managed in the complex relative to the harvest guidelines. Upon attainment of 75 percent of their respective harvest guidelines, the states of Washington and Oregon would consult and decide whether inseason action was needed. In the event inseason action is needed, the states of Washington and Oregon would take action through state regulation. The states of Washington and Oregon can take inseason expeditiously, regardless of whether the harvest guideline is specified in Federal regulations. California will have a Federal harvest guideline for this complex from 42° N. lat. to 40°10′ N. lat. to facilitate inseason action if needed, and has committed to increased catch reporting at Council meetings. In California, the HG of 23.7 mt would be specified in Federal regulation and apply only in the area between 40°10′ N. lat. and 42° N. lat. California, through the Council, could propose changes through Federal regulations. Under state management, landed component species within the Minor Nearshore Rockfish complex must be sorted to species. Because the states may also take inseason action independent of NMFS, the proposed action is not anticipated to result in exceeding the complex ACL in 2015-2016.

Although the Minor Nearshore Rockfish North ACL attainment has been high in recent years, reaching 100 percent in 2011, management measures have prevented the ACL from being exceeded. State nearshore management plans and policies mitigate the risk of overfishing. State HGs and a federal HG for Minor Nearshore Rockfish in the area between 40°10′ and 42° N. lat. under the proposed action will reduce the risk of exceeding the complex ACL.

Minor Shelf Rockfish

Allocations for Minor Shelf Rockfish are recommended by the Council each biennial cycle. For Minor Shelf Rockfish north of 40°10′ N. lat., 1,127 mt (60.2 percent of the fishery harvest guideline) is allocated to the trawl fishery and 745 mt (39.8 percent of the fishery harvest guideline) is allocated to the nontrawl fishery for 2015. For Minor Shelf Rockfish south of 40°10′ N. lat., 192 mt (12.2 percent of the fishery harvest guideline) is allocated to the trawl fishery and 1,383 mt (87.8 percent of the fishery harvest guideline) is allocated to the nontrawl fishery for 2015. For 2016, the same percentages are applied resulting in allocations of 1,132 mt to the trawl fishery and 748 mt to the nontrawl fishery north of 40°10′ N. lat. and 192 mt to the trawl fishery and 1,384 mt to the nontrawl fishery south of 40°10′ N. lat. This maintains the same allocation percentages as were in place for the Minor Shelf Rockfish complexes since 2011.

Minor Slope Rockfish

Minor Slope Rockfish were allocated between the trawl and nontrawl fisheries in PCGFMP Amendment 21. This action applies those Amendment 21 allocation percentages to the updated 2015-2016 fishery harvest guidelines. Blackgill rockfish in California was assessed in 2011 and has continued to be managed within the Minor Slope Rockfish complex, but with a species-specific HG south of 40°10′ N. lat. beginning in 2013. For 2015-2016 the Council recommended a blackgill rockfish harvest guideline equal to the ABC contribution for the portion of the stock south of 40°10′ N. lat., reduced by the 40-10 adjustment because the stock is in the precautionary zone. South of 40°10′ N. lat., the blackgill rockfish harvest guideline is 114 mt in 2015 and 117 mt in 2016.

4. Modifications to the Boundaries Defining RCAs

RCAs are large area closures intended to reduce the catch of a species or species complex by restricting fishing activity at specific depths. The boundaries for RCAs are defined by straight lines connecting a series of latitude and longitude coordinates that approximate depth contours. A set of coordinates define lines that approximate various depth contours. These sets of coordinates, or lines, in and of themselves, are not gear or fishery specific, but are used in combination to define an area. That area may then be described with fishing restrictions implemented for a specific gear and/or fishery.

For the 2015-2016 cycle, changes to refine selected coordinates are being proposed for: The 200 fm line, modified with areas to allow fishing for petrale sole, off Oregon; the 60 fm line off San Diego California, and the 50 fm line in the Northern Channel Islands. Changes to the 200 fm line, modified with areas to allow fishing for petrale sole, are intended to bring the coordinates for this line in the area off Heceta and Stonewall Bank into alignment with the un-modified 200 fm line in the same area.

Changes to the 50 fm line in the Northern Channel Islands were requested by industry and further refined during development of the 2015-2016 harvest specifications and management measures. The Council-recommended changes to the 50 fm line in the Northern Channel Islands are intended to open a small amount of additional fishing area when this line is used as the seaward boundary of the recreational RCA (e.g. no recreational fishing for groundfish deeper than the 50 fm line when fishing around the Northern Channel Islands) and to more closely approximate the 50-fm isobath surrounding the Northern Channel Islands. Changes to the 60 fm line west of San Diego, California were requested by industry to allow better access to the tip of a reef that lies shallower than the 60 fm isobath. The Council-recommended changes to the 60 fm line west of San Diego are intended to open additional fishing area when this line is used as the shoreward boundary of the non-trawl RCA (e.g. no fishing for groundfish with non-trawl gear deeper than the 60 fm line) and to more closely approximate the 60 fm isobath in that area. While the proposed changes to the 50 fm line and the 60 fm line would open additional fishing area, the proposed changes would maintain a boundary line that approximates the 50-fm and 60 fm isobath, respectively. These changes would not allow an extension of fishing effort into deeper habitat where overfished groundfish species encounters might be higher. Opening additional fishing areas where there is little information to inform area-specific bycatch rates poses a risk of increased bycatch of overfished species, however, it is unlikely that catch would be much higher because the proposed changes to the latitude/longitude coordinates that define the 50 fm line in the Northern Channel Islands or the 60 fm line west of San Diego are not opening large areas and are not opening depths deeper than the 50-fm isobath or the 60 fm isobath, respectively. The proposed changes to latitude/longitude coordinates that define these three boundary lines approximating depth contours makes no regulatory changes to how, or for which fisheries, those lines may be used.

5. Sorting Requirements

In the non-whiting groundfish fishery, catch is sorted to species or species group in order to account for catch against the various harvest specifications and management measures that are specific to those species or species groups. Except for vessels participating in the Pacific whiting fishery (see § 660.130(d)(2)(ii) and (d)(3)), groundfish regulations require that species or species groups with a trip limit, size limit, scientific sorting designation, quota, harvest guideline, ACT, or ACL, be sorted (see § 660.12(a)(8)). Except for a new scientific sorting requirement for shortraker rockfish and rougheye/blackspotted rockfish (described in “Stock Complexes” above), the sorting requirements applicable to the groundfish fisheries are unchanged from 2014.

6. Limited Entry Trawl

Limited Entry Trawl Fishery Management Measures

Since the start of 2011, the limited entry trawl fishery has been divided into three distinct sectors (shoreside, mothership, and catcher/processor). An individual fishing quota (IFQ) program was created for the shoreside sector and cooperatives were created for the catcher/processor and mothership sectors. The Council recommended several changes to trawl management measures for the 2015-2016 biennium. In 2013-2014 spiny dogfish did not have species-specific harvest specifications and was managed within the Other Fish complex; at that time, the at-sea set-aside for Other Fish was specified to control catch of spiny dogfish in the at-sea fishery in the absence of species-specific harvest specifications. The Other Fish complex is proposed to be reorganized through this action and no longer includes spiny dogfish. The proposed Other Fish complex for 2015-2016 is comprised of nearshore species that are not caught by the at-sea sector, and so no longer requires a set-aside. Given the low risk of exceeding the spiny dogfish ACL, the Council did not recommend spiny dogfish set-asides nor did they recommend spiny dogfish GCAs for the at-sea sectors. Species being managed under trip limits and without trawl and non-trawl allocations are: Shortbelly rockfish, longspine thornyhead south of 34°27′ N. lat., black rockfish (Washington-Oregon), California scorpionfish, cabezon (California only), spiny dogfish, and the Other Fish complex.

Incidental Trip Limits for IFQ Vessels

For vessels fishing IFQ, with either groundfish trawl gear or non-trawl gears, the following incidentally caught species are managed with trip limits: Minor nearshore rockfish north and south, black rockfish, cabezon (46°16′ to 40°10′ N. lat. and south of 40°10′ N. lat.), spiny dogfish, shortbelly rockfish, Pacific whiting, and the Other Fish complex. No changes to trip limits in the IFQ fishery are proposed for the start of the 2015-2016 biennium; however, changes to trip limits are considered a routine measure under § 660.60(c) and may be implemented or adjusted, if determined necessary, through inseason action.

RCA Configurations for Vessels Using Groundfish Trawl Gear

Based on analysis of West Coast Groundfish Observer Data and vessel logbook data, the boundaries of the RCAs were developed to prohibit groundfish fishing within a range of depths where encounters with overfished species were most likely to occur. The lines that approximate depth contours are defined by latitude and longitude coordinates and may be used to define any of the depth-based area closures, primarily RCAs. The choice of which depth-based line(s) to use to define the RCA boundaries varies by season, latitude, and gear group. Boundaries for limited entry trawl vessels are different from those for the limited entry fixed-gear and open access gears. The trawl RCAs apply to vessels fishing with groundfish trawl gear. The non-trawl RCAs apply to the limited entry fixed-gear and open access gears other than non-groundfish trawl. The non-groundfish trawl RCAs are fishery-specific.

Under Amendment 20 to the PCGFMP, quota pounds associated with a limited entry trawl permit may be harvested with either trawl gear or legal fixed gear. Groundfish regulations specify both trawl and non-trawl RCAs. The type of gear employed determines the applicable gear-specific RCA. As such, vessels that harvest IFQ species with groundfish trawl gear would continue to be regulated by the trawl RCA requirements while vessels that harvest IFQ species with fixed gear would continue to be regulated by the non-trawl RCA requirements.

For 2015-2016 the Council recommended the trawl RCA boundaries that were in place in May 2014 be continued through the biennium except for a modification to the seaward boundary of the trawl RCA between 40°10′ N. lat. and 45°46′ N. lat. from 200 fathoms to the 200 “modified (with petrale cutouts)” year-round. Currently, these areas are intermittently open throughout the year. The goal of this change is to allow greater access to petrale. Because this area is currently open to the trawl fishery intermittently, impacts to benthic habitat associated with allowing year round access are anticipated to be minimal. As the IFQ fishery proceeds and if catch data supports reconsideration of the RCAs, the Council could revise the RCA boundaries through inseason measures.

7. Limited Entry Fixed Gear and Open Access Non-Trawl Fishery Management Measures

Management measures for the limited entry fixed gear (LEFG) and open access (OA) non-trawl fisheries tend to be similar because the majority of participants in both fisheries use hook-and-line gear. Management measures, including area restrictions and trip limits in these non-trawl fisheries, are generally designed to allow harvest of target species while keeping catch of overfished species low. For 2015-2016, changes to management measures include increased sablefish trip limits due to the higher sablefish ACL for the area north of 36° N. lat., opening of lingcod retention in the winter months which have previously been closed, increases in lingcod trip limits, increases in Minor Shelf and bocaccio trip limits in the area south of 34°27′ N. lat., and a change to the shoreward boundary of the non-trawl RCA. The Council also considered the tradeoffs in area restrictions compared to trip limit restrictions for the non-trawl fishery that is prosecuted shoreward of the non-trawl RCA.

Non-Trawl RCAs

The non-trawl RCA applies to vessels that take, retain, possess, or land groundfish using non-trawl gears, unless they are incidental fisheries that are exempt from the non-trawl RCA (e.g. the pink shrimp non-groundfish trawl fishery). The seaward and shoreward boundaries of the non-trawl RCAs vary along the coast, and are divided at various commonly used geographic coordinates, defined in § 660.11, subpart C. In 2009, the shoreward boundary of the non-trawl RCA was established based on fishery information indicating that fishing in some areas in the non-trawl fishery have higher yelloweye rockfish bycatch than in others, and the RCA boundaries were adjusted to reduce mortality of yelloweye rockfish in these areas.

The non-trawl RCA boundaries proposed for 2015-2016 are the same as those in place for the non-trawl fisheries in 2013-2014, except for the shoreward boundary of the non-trawl RCA off northern California. The shoreward boundary of the non-trawl RCA, between 42° N. lat. (Oregon/California border) and 40°10′ N. lat. (North/South Management line), is proposed to be shifted seaward from 20 fm to 30 fm, to open some additional areas to fishing close to shore and make the shoreward boundary of the non-trawl RCA consistent along Oregon and through California to 40°10′ N. lat. These changes allow for some additional fishing opportunity while keeping the mortality of canary and yelloweye rockfish within their nearshore fishery contributions. Opening this area may also increase catch of Minor Nearshore Rockfish north complex which has a decreasing ACL from 2014 to 2015. However, the projected catch of the complex with the increased fishing area is projected to be less than the complex ACL. Therefore, the Council recommended and NMFS is proposing to shift the shoreward boundary of the non-trawl RCA, between 42° N. lat. and 40°10 N. lat., from the line approximating the 20 fm (37 m) depth contour to the line approximating the 30 fm (55 m) depth contour. These boundary lines are defined by latitude and longitude coordinates found at § 660.71, subpart C. The change to the non-trawl RCA boundary in this area opens areas that have been closed since 2009, and may increase fishing efficiency and reduce gear conflicts by spreading the nearshore fleet over a larger fishing area. Opening this area is anticipated to increase overall landings of both target and bycatch species, but mortality is anticipated to be below the allocations or harvest limits for all species.

Non-Trawl Fishery Trip Limits

Trip limits proposed for the non-trawl fisheries in 2015-2016 are similar to those that applied to these fisheries in since 2011. To help achieve but not exceed the allocations of sablefish in the limited entry fixed gear and open access fisheries, proposed trip limits for sablefish in these fisheries are different between 2015 and 2016, with slightly higher limits in 2016 because of the higher sablefish ACL. Changes are also proposed in the limited entry and open access fixed gear fisheries for lingcod, Minor Shelf Rockfish south of 34°27′ N. lat., and bocaccio south of 34°27′ N. lat. Proposed 2015-2016 trip limits for these changes are specified in Table 2 (North), Table 2 (South) to subpart E and in Table 3 (North) and Table 3 (South) to subpart F.

Primary Sablefish Fishery Tier Limits

Some limited entry fixed gear permits are endorsed to receive annual sablefish quota, or “tier limits,” and vessels registered with one, two, or up to three of these permits may participate in the primary sablefish fishery, described at § 660.231. Tier limits proposed for the limited entry fixed gear primary sablefish fleet are higher than in 2013-2014, reflecting the higher sablefish harvest specifications for 2015-2016. The proposed tier limits are as follows: In 2015, Tier 1 at 41,175lb (18,676 kg), Tier 2 at 18,716 lb (8,489 kg), and Tier 3 at 10,695 lb (4,851 kg). For 2016, Tier 1 at 45,053 lb (20,435 kg), Tier 2 at 20,479 lb (9,289 kg), and Tier 3 at 11,702 lb (5,307 kg). These tier limits are found in groundfish regulations at § 660.231.

Lingcod Trip Limits and Retention in Periods 1, 2, and 6

This rule proposes to allow lingcod retention in the limited entry and open access fixed gear fisheries during the previously closed months from December to April (cumulative limit Periods 1, 2, and 6). The original intent of the closure was to minimize impacts on lingcod when it was overfished because lingcod spawn from December to April. Lingcod has been declared rebuilt and removing the closure will allow greater access to the stock.

For the limited entry fishery in the area north of 40°10′ N. lat. this rule proposes several changes. First, periods 1 and 2 (January-April) and the month of December are proposed to be opened; periods 1 and 2 are proposed with a 200 lb per 2 month limit; December is proposed to have a 200 lb per month limit. Second, the trip limit in periods 3, 4 and 5 (May-October), is proposed to be increased from 800 lb per 2 months to 1,200 lb per 2 months. Finally this rule proposes to increase the November trip limit from 400 lb a month of 600 lb a month. For the limited entry fishery in the area south of 40°10′ N. lat., period 1 (January-February) and the month of December are proposed to be opened; period 1 is proposed to have a 200 lb per 2 month limit; and December is proposed with a 200 lb per month limit. For the open access fishery in the area north of 40°10′ N. lat., periods 1 and 2 (January-April) and the month of December are proposed to be open with a 100 lb per month limit. The trip limit in period 3, 4, and 5 (May-October) and the month of November are proposed to be increased from 400 lb per month to 600 lb per month. For the open access fishery south of 40°10′ N. lat. period 1 and the month of December are proposed to be open with 100 lb per month limits. Trip limit increases in combination with newly open periods are anticipated to more fully utilize the lingcod ACL, which has not been fully utilized in recent years. Total mortality of lingcod in the area north of 42° N. lat. was 25 percent of the 2011 ACL, 34 percent of the 2012 ACL, and 28 percent of the 2013 ACL. In the area south of 42° N. lat. total mortality was 13 percent of the 2011 ACL, 16 percent of the 2012 ACL, and 39 percent of the 2013 ACL. While the lingcod ACL is decreasing from 2014 to 2015, the increase in catch is projected to remain under the proposed ACL. The new trip limits are proposed to minimize impacts to co-occurring overfished species and are designed to reduce discarding but not result in targeting.

Minor Shelf Rockfish South of 34°27′ N. lat.

Specifications for the complex are established for the area south of 40°10′ N. lat. however the changes proposed in this rule are only for the area south of 34°27′ N. lat. This increase is intended to provide greater access to a small number of commercial vessels in this area. This rule proposes increases to trip limits in both the limited entry and open access fixed gear fisheries as a result of an increase in the non-trawl allocation from 587 mt in 2014 to 1,383 mt in 2015.

Bocaccio South of 34°27′ N. lat.

This rule proposes increases to the bocaccio trip limits in both the limited entry and open access fixed gear fisheries resulting from an increase in the non-trawl harvest guideline from 249.6 mt in 2014 to 258.8 mt in 2015. Most bocaccio landings in this area are from sablefish targeted trips. While increasing trip limits may increase impacts to bocaccio the impacts are not expected to delay rebuilding under the current rebuilding plan or come close to the harvest guideline. As this stock rebuilds encounters are likely to increase and increasing the trip limits may help to turn discards into retained fish, increasing landings. While the non-trawl allocation is for the area south of 40′10° N. lat., trip limit increases are only for the area south of 34°27′ N. lat. because bocaccio is managed within the trip limits for the Minor Shelf Rockfish complex in the area from 40°10′ N. lat.-34°27′ N. lat.

8. Recreational Fisheries Management Measures

This section describes the recreational fisheries management measures proposed for 2015-2016. Most of the changes to recreational management measures are modification to existing measures. Changes to recreational management measures are discussed below for each state and include: (1) Modifications of recreational season structures in all states; (2) new 1 canary rockfish sub-bag limit in Oregon; (3) removal of the cabezon seasonal sub-bag limit in Oregon, (4) modification of a lingcod closure area in Washington; (5) elimination of the lingcod retention prohibition in Washington; (6) allowance of retention of bottom fish during all depth recreational halibut seasons in Washington and Oregon; (7) changes in the California Southern Management Area seaward boundary line; and, (8) changes to the lingcod bag limit in California.

Recreational fisheries management measures are designed to limit catch of overfished species and provide fishing opportunity for anglers targeting nearshore groundfish species. Overfished species that are taken in recreational fisheries include bocaccio, cowcod, canary, and yelloweye rockfish. Because sport fisheries are more concentrated in nearshore waters, the 2015-2016 recreational fishery management measures are intended to constrain catch of nearshore species such as Minor Nearshore Rockfish, black rockfish, blue rockfish, and cabezon. These protections are particularly important for fisheries off California, where the majority of West Coast recreational fishing occurs. Depth restrictions and GCAs are the primary tools used to keep overfished species impacts under the prescribed harvest levels for the California recreational fishery.

Washington, Oregon, and California each proposed, and the Council recommended, different combinations of seasons, bag limits, area closures, and size limits, to best fit the requirements to rebuild overfished species found in their regions, and the needs and constraints of their particular recreational fisheries.

Recreational fisheries management measures for Washington, Oregon, and California in 2015-2016 are proposed to be similar to the recreational fishery management measures that were in place during 2013-2014. Recreational fisheries off Oregon, and Washington are limited by the need to reduce yelloweye rockfish impacts. Changes to recreational fishery management measures off Washington, Oregon, and California are in response to: Updated fishery and modeling information in a manner that allows increased harvest of underutilized healthy stocks while keeping impacts to overfished species within their rebuilding ACLs. The following sections describe the recreational management measures proposed in each state.

Washington

Off Washington, recreational fishing for groundfish and Pacific halibut, as proposed, will continue to be prohibited inside the North Coast Recreational YRCA, a C-shaped closed area off the northern Washington coast, the South Coast Recreational YRCA, and the Westport Offshore YRCA. Coordinates for YRCAs are defined at § 660.70. Similar to 2014, this proposed rule includes the Washington State lingcod recreational fishing closure area off Washington Marine Areas 1 and 2, a portion of which are closed to lingcod fishing, except on days that the Pacific halibut fishery is open. However, for 2015-2016, refinement of the southern boundary of this lingcod area closure is shifted three miles north (from 46°25′ N. lat. to 46°28′ N. lat.) to continue reduced encounters with co-occurring yelloweye rockfish and canary rockfish (compared to before the lingcod closure area was enacted in December 2011, 76 FR 79122). The aggregate groundfish bag limits off Washington will continue to be 12 fish. The rockfish and lingcod sub-limits will remain the same as in 2013-2014: 10 rockfish sub-limit with no retention of canary or yelloweye rockfish; two lingcod sub-limit, with the lingcod minimum size of 22 inches (56 cm); cabezon sub-limits and size limits. As in 2013-2014, the Washington recreational fishery for groundfish is open year-round with seasonal depth restrictions for specific groundfish species. The RCA for recreational fishing off Washington is proposed to be the same as in 2014 with the following exceptions: In Marine Areas 3 and 4, where overfished species interactions are prevalent, the dates of the seasonal depth closure (closed deeper than 20 fm) are slightly shorter to reduce overfished species impacts; in Marine Area 2, the seasonal depth restriction for lingcod retention is removed, allowing lingcod to be retained in all depths year-round, except within the lingcod area closure.

Changes to the restrictions on groundfish retention during the Pacific halibut season are proposed for 2015-2016, including modifications to the groundfish retention rules during the Pacific halibut openings, due to changes in the Council's 2014 Area 2A Pacific halibut Catch Sharing Plan. Proposed changes to allowance of retention of bottom fish during all depth recreational Pacific halibut seasons in Washington are as follows. Starting from Leadbetter point in Washington Marine Area 1, when the nearshore incidental halibut fishery is open, taking, retaining, possessing or landing incidental Pacific halibut on groundfish trips will be allowed only in the nearshore area on days not open to all-depth Pacific halibut fisheries in the area shoreward of the boundary line approximating the 30 fm (55 m) depth contour extending from Leadbetter Point, WA to the Washington-Oregon border and from there, connecting to the boundary line approximating the 40 fm (73 m) depth contour in Oregon. The nearshore incidental halibut fishery would be open Monday through Wednesday following the opening of the early season all-depth fishery, until the nearshore Pacific halibut allocation is taken.

Oregon

Oregon recreational fisheries would operate under the same season structures and GCAs as 2013-2014. Aggregate bag limits and size limits in Oregon recreational fisheries remain the same as in 2013-2014: Three lingcod per day, with a minimum size of 22 inches (56 cm); 25 flatfish per day, excluding Pacific halibut; and a marine fish aggregate bag limit of 10 fish per day, where cabezon have a minimum size of 16 inches (41 cm) and kelp greenling have a minimum size of 10 inches (25 cm). However, the marine fish bag limit is modified for 2015-2016 to add a one fish sub-bag limit for canary rockfish and remove the one fish sub-bag limit for cabezon. Also, similar to the changes described above for Washington recreational fisheries, changes to the restrictions on groundfish retention during the Pacific halibut season are proposed for 2015-2016. Details of these changes to canary and cabezon sub-bag limits and Pacific halibut retention regulations are described below.

Canary Rockfish Sub-Bag Limit

In recreational fisheries, due to its overfished status, canary rockfish retention has been prohibited to prevent non-trawl harvest guidelines from being exceeded. During development of the 2015-2016 harvest specifications and management measures, the Council considered allowing limited retention of canary rockfish in recreational fisheries to gather additional information on abundance in rocky reef habitats, gather additional biological information to inform population structure and recruitment events, improve species identification and catch estimates, and reduce regulatory discards of incidentally caught canary rockfish. Initially, the Council considered allowing limited retention of canary rockfish in recreational fisheries off Washington, Oregon, and California, but ultimately recommended instituting a sub-bag limit for canary rockfish only in the Oregon recreational fishery to aid in the data used for future canary rockfish stock assessments.

The 2009 canary rockfish assessment indicated that additional information on the relationship between canary rockfish distribution and habitat features could provide more precise estimates of abundance from existing survey data. Recreational fishery catch rates could be used to provide an index of relative abundance (catch per unit effort; CPUE) of canary rockfish in rocky reef habitat. Additionally, since recreational fishery gears catch smaller and younger canary rockfish than trawls, biological data from the recreational fishery could be used to better detect recruitment events. Canary rockfish retention may reduce confusion of canary rockfish with other rockfish species that have a similar appearance, such as vermillion rockfish. More accurate discard information reported by recreational fishing participants may improve canary rockfish (and other commonly confused species) discard mortality estimates.

Allowing retention of canary rockfish is intended to turn canary rockfish that would otherwise be encountered and discarded into landed catch to help inform abundance and recruitment for canary rockfish. This will improve the accuracy of canary rockfish removal estimates because landed catch can be verified by dockside creel with a higher level of accuracy than angler reported discard information. This may reduce uncertainty in discard mortality estimates from angler reported data, potentially allowing for a recreational index of abundance to be incorporated into future canary rockfish assessments.

The Council considered the risk that allowing canary rockfish retention may increase total mortality of canary rockfish in the Oregon recreational fishery. Limiting the recreational canary rockfish sub-bag limit in Oregon to one per angler per day, is intended to provide minimal incentive for anglers to target them. Allowing retention of those canary rockfish that are incidentally encountered could also aid anglers in filling their bag limit for marine fish with less time on the water. Even if total mortality estimates of canary rockfish in the Oregon recreational fishery were to increase, it is extremely unlikely that the canary rockfish rebuilding ACL would be exceeded when harvest in the Oregon recreational fishery is combined with mortality of canary rockfish in other fisheries, because the Oregon recreational fishery currently only obtains a fraction of their harvest guideline (e.g., 29 percent of the Oregon recreational harvest guideline in 2013). Therefore, the Council recommended and NMFS is proposing adding a one-fish sub-bag limit for canary rockfish within the 10 marine fish aggregate limit for 2015-2016.

Cabezon Sub-Bag Limit

The seasonal one fish sub-bag limit for cabezon which was in place in 2013-2014 is proposed to be removed during 2015-2016 to allow ODFW increased flexibility for initiating inseason changes. Cabezon mortality will be limited via state regulations, which may be more restrictive than Federal regulations.

Pacific Halibut Retention

As explained above (See “Washington” under “Recreational Fisheries Management Measures”), changes to the restrictions on groundfish retention during the Pacific halibut season are proposed for 2015-2016, including modifications to the groundfish retention rules during the Pacific halibut openings, due to changes to the Councils 2014 Area 2A Pacific halibut Catch Sharing Plan. Taking, retaining, possessing or landing incidental halibut on groundfish trips will be allowed only in the Columbia River nearshore area on days not open to all-depth Pacific halibut fisheries in the area shoreward of the boundary line approximating the 30 fm (55 m) depth contour extending from Leadbetter Point, WA to the Washington-Oregon border and from there, connecting to the boundary line approximating the 40 fm (73 m) depth contour in Oregon. The nearshore incidental halibut fishery would be open Monday through Wednesday following the opening of the early season all-depth fishery, until the nearshore Pacific halibut allocation is taken.

California

For 2015-2016, recreational fisheries off California will continue to be managed as five separate areas, to reduce complexity while retaining flexibility in minimizing impacts on overfished stocks. Season and area closures differ between California regions to better prevent incidental catch of overfished species according to where those species occur and where fishing effort is greatest, while providing as much fishing opportunity as possible. California recreational fisheries would operate under the same GCAs as 2013-2014, with the following exceptions: due to lower yelloweye rockfish encounter rates in recent years, the dates of allowable fishing opportunities within the seasonal RCA closures described in § 660.350(c)(3)(i)(A) would be extended to a moderate extent in the Mendocino, San Francisco, and Central Management Areas to allow for increased recreational opportunity and to provide more stable season structures between biennial specification cycles. In addition, the RCA boundary in the Southern Management Area would be modified from the boundary line approximating the 50 fm (91 m) contour to the boundary line approximating the 60 fm (110 m) contour. The change in the depth restriction will allow greater recreational anglers access to deeper depths in the Southern Management area, and inseason action will continue to be available to the Council if overfished species impacts begin to track higher than anticipated. Although bocaccio and cowcod encounters have increased in recent years, making it more difficult to model projected mortality, the mortality of cowcod and bocaccio in the Southern Management Area are projected to be far below the respective harvest guidelines. Submersible surveys at the northern end of the Southern California Bight indicate that juvenile cowcod are most common from 49 fm (90 m) to 82 fm (150 m), and adults were most common at depths of 66 fm (121 m) to 115 fm (210 m). Therefore, although some increase in overfished species impacts may occur, these impacts are still projected to stay well within their respective harvest guidelines and ACLs. The boundaries and season lengths for the recreational RCA in the Northern Management Area are unchanged from 2013-2014 to keep catch of Minor Nearshore Rockfish complex species within the harvest guideline for this management area.

The bag limits and hook limits for the Rockfish-Cabezon-Greenling (RCG) Complex, the Other Flatfish complex, and California scorpionfish remain the same as in 2013-2014. For lingcod, the hook limits and size limits remain the same as in 2013-2014, but the lingcod bag limit is increased from two fish to three fish to more fully utilize the non-trawl lingcod allocation, which has been far below the non-trawl allocation south of 42° N. lat. When combined with projected mortality in other non-trawl fisheries, is not expected to exceed the lingcod non-trawl allocation or ACL south of 42° N. lat. If anglers spend more time on the water fishing for an additional lingcod, the number of encounters with overfished species may increase. While some increase in overfished species mortality can be expected, sufficient buffer is available to accommodate the increased impacts (if realized) without exceeding the respective recreational HGs or the non-trawl allocation for cowcod or other overfished species.

Finally, a minor change is proposed to the California recreational regulations at § 660.350(c)(3)(v)(A)(4) to make references to the “Southern Management Area” consistent.

9. Tribal Fisheries Management Measures

Tribes implement management measures for tribal fisheries both separately and cooperatively with those management measures that are described in the Federal regulations. The tribes may adjust their tribal fishery management measures, inseason, to stay within the overall harvest targets and estimated impacts to overfished species. Trip limits are the primary management measure that the tribes specify in Federal regulations at § 660.50, subpart C.

Continued from previous cycles, the tribes proposed trip limit management in tribal fisheries during 2015-2016 for several species including: spiny dogfish; several rockfish species and species groups, including thornyheads; and flatfish species and species groups. For spiny dogfish, tribal fisheries in 2015-2016 will continue to be restricted to a cumulative limit of “60,000 lbs (27,216 kg) per two month period;” the same trip limit that is in place for vessels fishing in the Shorebased IFQ Program. For rockfish species, tribal regulations will continue to require the 2015-2016 tribal fisheries to fully retain all overfished rockfish species and marketable non-overfished rockfish species. No changes to trip and cumulative limits are proposed for the Tribal fisheries from those that were in place in 2014. The tribes will continue to develop management measures, including depth, area, and time restrictions, in the directed tribal Pacific halibut fishery in order to minimize incidental catch of yelloweye rockfish. Tribal fishing regulations, as recommended by the tribes and the Council, and adopted by NMFS, are in Federal regulations at § 660.50, subpart C.

10. Housekeeping Measures

Several non-substantive revisions are made to regulations to improve consistency, remove unnecessary redundancies, remove subpart references, group similar regulations, and to add clarifying cross-references.

At § 660.11, paragraph (2)(v) of the definition for “North-South management area” is revised to change the name of the 46°16′ N. lat. commonly used geographic coordinate from “Washington/Oregon border” to “Columbia River.” This revision resolves an inconsistency with Washington state regulations that define the Washington/Oregon border at 46°15′ N. lat. For consistency, this change was also made at § 660.360 (c)(1)(i)(D)(3). The revision does not change how or why the geographic coordinate of 46°16′ N. lat. is used, fishing locations, etc. In the same section, the definition of the “Office of Law Enforcement” and “Regional Administrator” are updated to reflect recent changes to the organizational structure of NMFS.

The term “DTS complex” is proposed to be removed in the three places that it occurs in Part 660, Subparts C through G. Before the groundfish bottom trawl fishery was rationalized in 2011, fishery managers sometimes referred to the group of species Dover sole, shortspine and longspine thornyheads and sablefish as the “DTS complex” because they were often caught together. In recent years the term has fallen out of use as a functional management unit, and became irrelevant once all four of these species transitioned to IFQ species in 2011. As described above, the Council and NMFS are making changes to stock complexes and this change removes antiquated regulations that are no longer relevant. Therefore, NMFS is proposing to remove the definition of “DTS complex” at § 660.11, and references to the DTS complex where they are used as non-substantive regulatory examples at § 660.130 (e)(4)(iv), and § 660.330 (d)(13)(iii). These non-substantive changes do not change how all other regulations in Part 660, Subparts C through G apply to Dover sole, shortspine thornyhead, longspine thornyhead, or sablefish.

Several housekeeping changes are proposed to Table 1 North, 2 North and South, and 3 North and South. A footnote is proposed to be added to Table 1, clarifying trip limits for the Pacific whiting fishery in the Eureka area. This regulation has been in place since 2011 at § 660.131(d), the proposed footnote allows the public to have one location in Table 1 for all of the trip limits that affect the Pacific whiting fishery. This non-substantive addition makes no changes to trip limits that currently apply to the Pacific whiting fishery, and is being made to improve consistency and transparency in the regulations.

The changes proposed for Tables 2 and 3 North and South are to clarify how the combined flatfish trip limits are applied for the limited entry and open access fisheries. The format for how the flatfish species listed is proposed to be revised to combine all the species listed (dover sole, arrowtooth flounder, petrale sole, English sole, starry flounder, Other flatfish). This change is necessary to more accurately reflect that this limit is for all the species combined, not for each species individually. Formatting showing each species in its own row even though they are subject to a combined trip limit has been in place since 2002. No changes are proposed to how the limit is applied; this change simply makes the limit clearer and makes the listing of species included under the combined trip limit consistent with other combined species trip limits in this table.

As described above in “Modifications to the Boundaries Defining RCAs,” several sections of the groundfish regulations are composed of long lists of latitude and longitude coordinates that are used to define RCAs. In addition to the modifications described above for § 660.72 and § 660.74, NMFS is proposing to revise one point on the boundary line approximating the 100 fm (183-m) contour at § 660.73(a)(123). NMFS has discovered that this point on the 100 fm line is farther westward than the modified 200 line. Therefore, the paragraph is re-designated so that the 100 fm line is eastward of the modified 200 fm line by a distance of approximately 420 meters. The new point is proposed to remove the cross-over and to give adequate width to the closed area between the 100 fm line and the modified 200 fm line for improved enforceability, given the level of error allowed in type-approved vessel monitoring systems. This will reduce confusion that may be caused and improve enforceability of the 100 fm line designation that is currently in the CFR for paragraph (a)(123).

III. Classification

At this time, NMFS has made a preliminary determination that the 2015-2016 groundfish harvest specifications and management measures in this proposed rule are consistent with PCGFMP, the MSA, and other applicable law. In making its final determination, NMFS will take into account the complete record, including the data, views, and comments received during the comment period.

A DEIS was prepared for the 2015-2016 groundfish harvest specifications and management measures. The DEIS includes socio-economic information that was used to prepare the RIR and IRFA. The Environmental Protection Agency published a notice of availability for the draft EIS on October 24, 2014 (79 FR 63622). A copy of the DEIS is available online at http://www.pcouncil.org/.

The Regulatory Flexibility Act (RFA), 5 U.S.C. 603 et seq., requires government agencies to assess the effects that regulatory alternatives would have on small entities, including small businesses, and to determine ways to minimize those effects. When an agency proposes regulations, the RFA requires the agency to prepare and make available for public comment an Initial Regulatory Flexibility Analysis (IRFA) that describes the impact on small businesses, non-profit enterprises, local governments, and other small entities. The IRFA is to aid the agency in considering all reasonable regulatory alternatives that would minimize the economic impact on affected small entities. After the public comment period, the agency prepares a Final Regulatory Flexibility Analysis (FRFA) that takes into consideration any new information or public comments. A summary of the IRFA is provided below. The reasons why action by the agency is being considered, the objectives and legal basis for this rule are described above.

As described above, this rule concerns the following major areas: Amend the PCGFMP to Describe Default Harvest Control Rules and Management Measures Considered during the Biennial Decision Cycle (Amendment 24): The major effects of using default harvest control rules is to make the process more efficient, possibly reduce administrative costs, and to aid business planning by minimizing potential disruption to the industry. Reorganizing the Other Fish and Minor Slope Rockfish Complexes and Designating Ecosystem Component Species: Changing the composition of the Minor Slope Rockfish and Other Fish complexes, creating a new stock complex for some component species of the Minor Slope Rockfish complexes, removing stocks from the Other Fish complex for single stock management or designation as EC species, and designating species not already in the PCGFMP as EC species. The major effects of the proposed alternative concern potential sorting requirements and the potential need for some vessels to carry VMS. The goal of reorganization of the complexes is to prevent overfishing. The slope rockfish complexes contain species with different relative vulnerabilities to overfishing, including two stocks with catches that have been in excess of OFL contributions—rougheye/blackspotted rockfish and shortraker rockfish. There are concerns about the data, particularly as it is very difficult to visually distinguish between the rougheye and blackspotted species in the field. A new sorting requirement to reduce the catch of shortraker and rougheye/blackspotted rockfish by all commercial sectors is proposed in this rule to prevent overfishing. Council deliberations focused on concerns with fishing mortality on rougheye/blackspotted rockfish; a new stock assessment (Hicks, et al. 2013) indicates that spawning biomass declined relatively steeply in the 1980s and 1990s while cumulative coastwide catch since 2008 has exceeded the rougheye/blackspotted OFL contribution to the Minor Slope Rockfish complexes. Concerns about associated costs of sorting were raised by the Council's Groundfish Advisory Panel and Groundfish Management Team. NMFS anticipates that these sorting requirements will reduce the ambiguity and species-specific assumptions of catch, aid in annual mortality tracking, aid in inseason catch monitoring, and improve data available for future stock assessments. However, it is not clear if these sorting requirements, when added to the numerous numbers of species already sorted by state port samplers, processors, and fishing vessel crew, will add significant costs to the state agencies and industry. NMFS believes that there will be minimal impacts to the states and industry because we are adding a small number of species to the requirements. Therefore, NMFS is specifically requesting comments on whether the conservation benefits of these sorting requirements outweigh the costs.

To analyze the effects of designating EC species, NMFS reviewed 2013 and available 2014 data through September 2014 to assess whether there would be vessels affected by the designation of EC species. These would be vessels that landed proposed EC species and did not at any point participate in a fishery that requires VMS. Data for 2014 is incomplete, fish ticket data is about 90 percent complete through June, and less so for the following months. It is noted that the landings amounts of these species are uncertain as they may be landed in unspecified market categories and estimates based on compositional sampling of these landings. The chief effect on these vessels would be the need to carry a VMS MTU. For the new EC species, there were no reported landings of Alaska skate, Aleutian skate, black/roughtail skate, or giant grenadier. Data on “unspecified” grenadiers, “other” skates, and “unspecified” skates were also reviewed. All of the unspecified grenadier landings were associated with vessels that at some time of the year, participated in the limited entry fishery, where VMS is required. These vessels did not harvest groundfish but harvested “unspecified” skates, or because their groundfish landings were so small and that these landings could be made up of mostly “other” skates. Within these vessels there are six California registered vessels. These vessels were not U.S. Coast Guard documented. These same vessels typically also have very low total ex vessel revenues. Being state registered, not having a federal limited entry permit, not being U.S. Coast Guard documented, and having low revenues are all characteristics of vessels that typically do not fish beyond three miles and thus would not need to carry VMS. As a check on this analysis, NMFS also reviewed 2011 and 2012 data and expanded the analysis to other species. Based on these analyses, NMFS estimates there are about 10-20 vessels that potentially could be affected, largely vessels that fish for Highly Migratory Species (HMS). To land EC groundfish species, these vessels will have to acquire VMS MTUs. Until June 30, 2015, they can be reimbursed for up to $3,100 for the purchase, installation, and activation of a NOAA type-approved VMS MTU. Should vessels wish to avoid carrying VMS, these vessels will need to discard and not land EC groundfish species. For affected HMS vessels, NMFS has published two proposed rules concerning vessel monitoring requirements in the HMS fisheries. These vessels may have to obtain VMS MTUs if they participate in the the Drift Gillnet Fishery (79 FR 54950) or they target any fish of the genus Thunnus or of the species Euthynnus (Katsuwonus) pelamis (skipjack tuna) (79 FR 7152).

Harvest Specifications and Management Measures for the 2015-2016 Biennial Period

Economic Effects

Chapter 4 of the DEIS assesses the biological and socio-economic impacts of the alternatives. Chapter 4 also discusses the effects of the alternatives upon Essential Fish Habitat, the California Coastal Current Ecosystem, and protected species. Socio-economic effects were assessed by fishery, including shorebased IFQ, non-nearshore fixed gear, Pacific whiting, nearshore fixed gear, recreational fisheries, tribal fisheries, buyers and processors, and fishing communities. Effects on non-market/non-use values, vessel safety, and community social welfare were briefly summarized.

This analysis draws upon the major economic indicators used in Chapter 4 of the DEIS to assess the impacts of the alternatives: Ex-vessel revenues, recreational trips, net accounting revenue (an indicator of profits), and personal income. Personal income impact captures earnings received by harvesters, processors, local input suppliers, and some retail businesses in the communities. Personal income impact results are also used to project the average change in employment and overall unemployment rates in each community under the alternatives.

Four major alternatives were evaluated. They differ in terms of P*, and the ACLs associated with Dover sole, widow rockfish, and shortbelly rockfish. Most of the proposed ABCs are calculated using the sigma-P* process. The primary difference between the ABC under each alternatives is the use of different P* values to derive the ABC. Alternative 1 ABCs are based on a P* value of 0.45, Alternative 2 ABCs are based on a P* value of 0.25. The preferred alternative ABCs are based on a P* value of 0.45 with the exception of arrowtooth flounder, lingcod, longspine thornyhead, sablefish, shortspine thornyhead, spiny dogfish, starry flounder and Other Flatfish, which were based on a P* of 0.40. This is in contrast to no action where ABCs were based on a P* of 0.45 with the exception of arrowtooth, longspine thornyhead, sablefish, starry flounder, Other Flatfish, and Other Fish which were based on a P* of 0.40, and spiny dogfish with a P* of 0.30. The ACLs for Dover sole change from 25,000 under no action to 50,000 mt under the preferred alternative; widow rockfish from 1,500 mt under the no action alternative to 2,000 mt under the preferred alternative, and shortbelly rockfish from 50 mt under the no action alternative to 500 mt under the preferred alternative.

No Action-P* Varied Among Species, Dover Sole (25,000 mt), Widow Rockfish (1,500 mt), and Shortbelly Rockfish (50 mt)

The no action harvest specifications are those that were in place in 2014. When setting harvest specifications the Council generally proposes the same harvest control rules applied during the previous biennial period. Harvest control rules are the various rules and definitions used by the Council to establish ABCs and ACLs. For example, the ABC harvest control rule most consistently used by the Council is the application of P* and sigma values to an estimate of the overfishing level for a stock; the “40-10” and “25-5” precautionary adjustments are considered ACL harvest control rules. Default harvest control rules are not currently described in the PCGFMP. Under no action, total shoreside ex-vessel revenues from groundfish landings of $82.3 million are projected in 2014. This total includes the following projections for the shoreside groundfish sectors: Whiting trawl $22.5 million; non-whiting trawl and non-trawl IFQ $28.9 million; limited entry fixed gear $11.8 million; nearshore open access $3.5 million; non-nearshore open access $4.9 million; tribal groundfish (including shoreside tribal whiting) $10.7 million; and incidental open access $0.1 million. In addition, $31.5 million ex-vessel revenue equivalent from at-sea non-tribal whiting (combined Motherships and Catcher Processors), and $9.1 million ex-vessel revenue equivalent from at-sea tribal whiting (Mothership) fisheries are projected under no action. These same amounts for the tribal and non-tribal at-sea whiting fisheries are also projected under all the action alternatives. There is no projected change from no action for groundfish landings by the incidental open access and at-sea whiting sectors under the action alternatives. Therefore, discussion of results for these sectors is omitted from the summary of impacts, below. Also, note that a small amount of revenue projected from groundfish landings by EFP and miscellaneous fisheries has been omitted from the tables and the relevant discussion of impacts.

Total shoreside directed groundfish net accounting revenues (“profits”) for participating groundfish sectors are estimated to be $19.7 million under no action. Sectors with greatest estimated net revenues under no action are whiting ($10 million), non-whiting trawl ($6.7 million), and limited entry fixed gear ($1.8 million). Projected angler effort levels under the no action alternative are derived from estimates developed independently by each state. No action for Washington's recreational fishery is based on total bottomfish plus Pacific halibut marine-area angler boat trips taken in 2012. For Oregon's fishery, the annual average of marine area bottomfish plus Pacific halibut angler boat trips recorded during 2010 to 2012 is used to quantify no action. California's angler effort level under no action is based on average annual bottomfish boat trips recorded during 2011-2012. Under no action, 835,500 groundfish and Pacific halibut trips are projected coastwide. 62 percent of these are charter boat trips with the remainder taken on private boats. The breakdown by state is: Washington 33,600 trips (18,100 charter + 15,500 private), Oregon 90,200 trips (38,500 charter + 51,600 private), and California 711,800 (465,100 charter + 246,600 private).

Preferred Alternative: P* Value of 0.45 for Most Species. Dover Sole (50,000 mt), Widow Rockfish (2,000 mt), and Shortbelly Rockfish (500 mt)

The ACLs for most species are determined based on the ACLs being set equal to the ABCs with a P* value of 0.45. The ACLs for arrowtooth, lingcod south of 40°10 N. lat., longspine thornyhead north and south of 34°27′ N. lat., sablefish north and south of 36° N. lat., shortspine thornyhead north and south of 34°27′ N. lat., spiny dogfish, and starry flounder would be determined based on the ACLs being set equal to the ABCs with a P* value of 0.40. As described above for Alternative 1, ACLs may be set below the ABC, in which case the P* value does not necessarily determine the ACL. The impacts of adjusting and implementing new management measures (described in Section 2.1.2 of the DEIS) in response to the harvest specifications under preferred alternative are presented by fishery in Section 4.2 of the DEIS.

The preferred alternative changes the ACLs for Dover sole, widow rockfish, and shortbelly rockfish; from the no action constant catch strategies of 25,000 mt, 1,500 mt, and 50 mt respectively for the three species to 50,000 mt, 2,000 mt, and 500 mt respectively. An additional ACL alternative of 3,000 mt for widow rockfish is analyzed in Chapter 4. The status quo Minor Slope Rockfish complexes north and south of 40°10′ N. lat. are preferred; however, unlike status quo, a new management measure in the form of a sorting requirement would be specified for rougheye and blackspotted rockfish. An alternative structure for the Minor Slope Rockfish complexes where rougheye/blackspotted and shortraker rockfish are removed from the current complexes and managed in a new coastwide complex is analyzed in this EIS within Chapter 4.1.5. The preferred alternative for the Other Fish complex also differs from No Action. Spiny dogfish is removed from the status quo Other Fish complex and managed with stock-specific harvest specifications. All the skates and Pacific grenadier currently managed under the Other Fish complex, along with all other endemic skates (other than longnose skate) and grenadiers are designated as EC species. Additionally, spotted ratfish, soupfin shark, and finescale codling are designated as EC species under the preferred alternative. The remaining stocks managed under the preferred Other Fish complex are the California, Oregon, and Washington stocks of kelp greenling; the Washington stock of cabezon; and leopard shark.

The preferred alternative includes additional items resulting from actions taken at the June 2014 Council meeting including (1) increases in tribal set asides for English sole, Pacific cod, widow rockfish and yellowtail rockfish; (2) change in yelloweye rockfish allocations between non-nearshore and nearshore, addressed through RCA adjustments; (3) elimination of the winter spawning closure for lingcod north of 40°10′ N. lat. (reduction in length of closure time in California); (4) change in Minor Slope Rockfish trip limits for the non-nearshore sector; (5) the adopted harvest guideline (HG) and management scheme for Minor Nearshore Rockfish north of 40°10′ N. lat.; and (6) some adjustments and changes to RCA lines.

Total shoreside sectors' ex-vessel revenue under the preferred alternative is projected to be the highest among the action alternatives. Compared with no action, total shoreside ex-vessel revenue under the preferred alternative is projected to increase by $16 million (20 percent) in 2015. Projected revenues are higher than under no action for every shorebased groundfish sector. The greatest absolute and percentage increase in revenue is projected for the IFQ sector: $12.8 million (45 percent) in 2015. Total shoreside directed groundfish net accounting revenues (“profits”) for participating groundfish sectors are projected to be $8.8 million higher under the preferred alternative than under no action. The sector with greatest estimated absolute change in net revenues over no action is non-whiting trawl, which increases by $6.7 million (100 percent). The largest increase in percentage terms is open access nearshore, which increases by $0.5 million (132 percent).

Under the preferred alternative, an increase of 11,600 angler trips is projected from no action coastwide. All of the increase occurs in California. Trips increase by 1,600 (20 percent) in the Mendocino region, 5,600 (11 percent) in the San Francisco region and 4,400 (4 percent) in the Central region. No change from no action is projected for California's Northern and Southern management areas or for recreational fisheries in Washington and Oregon.

Alternative 1—Use a P* Value of 0.45. Dover Sole (25,000 mt), Widow Rockfish (1,500 mt), and Shortbelly Rockfish (50 mt)

Where applicable, ABCs are determined based on a P* value of 0.45, and the ACL is set equal to the ABC. The rightmost column in Table 2-4 shows the ACL Harvest Control Rule (HCR) for each stock under Alternative 1. For several stocks, the ACL is set below the ABC and so the P* value does not necessarily determine the ACL. Instances where the ACL is below the ACL include specification of a fixed or constant catch level, precautionary adjustments using the 40-10 and 25-5 rules, and the use of the harvest rate specified in a rebuilding plan. The impacts of adjusting and implementing new management measures (described in Section 2.1.2) in response to the harvest specifications under Alternative 1 are presented by fishery in Section 4.2. The no action ACLs of 25,000 mt and 1,500 mt for Dover sole and widow rockfish respectively are analyzed under Alternative 1. The Minor Slope Rockfish and Other Fish complexes under Alternative 1 are structured the same as under the preferred alternative. Under this alternative projected revenues are higher than no action for every shorebased groundfish sector. The greatest absolute increase in revenue is projected for the IFQ sector: $4.9 million (17 percent) in 2015. The greatest percentage increase in revenue is projected for the nearshore open access sector: $0.8 million (24 percent) in 2015. Total shoreside directed groundfish net accounting revenues (“profits”) for participating groundfish sectors are projected to be $4.1 million higher under the Alternative than under no action. The sector with greatest estimated absolute change in net revenues over no action is non-whiting trawl, which increases by $2 million (29 percent). The largest increase in percentage terms is open access nearshore, which increases by $0.5 million (132 percent).

Alternative 2—Use a P* Value of 0.25. Dover Sole (25,000 mt), Widow Rockfish (1,500 mt), and Shortbelly Rockfish (50 mt)

Where applicable, ACLs are determined based on the ACLs being set equal to the ABCs with a P* value of 0.25. As described above for alternative 1, ACLs may be set below the ABC, in which case the P* value does not necessarily determine the ACL. Instances where the ACL is below the ABC include specification of a fixed or constant catch level, precautionary adjustments using the 40-10 and 25-5 rules, and the use of the harvest rate specified in a rebuilding plan. The impacts of adjusting and implementing new management measures (described in Section 2.1.2) in response to the harvest specifications under alternative 2 are presented by fishery in Section 4.2. The no action ACLs of 25,000 mt and 1,500 mt for Dover sole and widow rockfish respectively are analyzed under Alternative 2. The Minor Slope Rockfish and Other Fish complexes under alternative 2 are structured the same as under the preferred alternative, but the ACLs are based on setting the contribution ABCs of component stocks. Total aggregated shoreside sectors' ex-vessel revenue under alternative 2 is projected to be the lowest among the action alternatives. Compared with no action, under alternative 2 total shoreside ex-vessel revenue is projected to decrease by $0.4 million (-1 percent) in 2015, and increase by $1.8 million (2 percent) in 2016. Projected revenue changes from no action under alternative 2 across groundfish sectors are mixed. The greatest absolute increase in revenue for 2015 is projected for the nearshore open access sector at $0.5 million (13 percent). In 2016, the largest increases are projected for the nearshore open access sector at $0.5 million (13 percent) and limited entry fixed gear sector at $0.5 million (4 percent). The greatest absolute decrease in revenue for 2015 is projected for the limited entry fixed gear sector at -$0.6 million (-5 percent) in 2015, and the non-whiting IFQ sector at -$0.1 million (-0.2 percent) in 2016. The largest percentage increase in both 2015 and 2016 is projected for the nearshore open access sector at 13 percent ($0.5 million). The largest percentage decreases are for the non-nearshore open access sector in 2015 at -5 percent (-$0.3 million), and the non-whiting IFQ sector at -0.2 percent (-$0.1 million) in 2016.

Total shoreside directed groundfish net accounting revenues (“profits”) for participating groundfish sectors are projected to be $0.1 million lower under the alternative in 2015 than under no action. The sector with greatest estimated absolute decline in net revenues over no action is non-whiting trawl, which decreases by $0.3 million (-4 percent). The sector with greatest estimated increase in net revenues over no action in both absolute and percentage terms is open access nearshore, which increases by $0.3 million (70 percent). The sector with the largest decrease in percentage terms is open access non-nearshore, which decreases by $0.1 million (-23 percent).

Under the preferred alternative coastwide non-whiting ex-vessel revenue is projected to increase by $16 million in 2015 compared to no action 2014 ACLs and management measures. This represents a $19.3 million increase from annual average inflation-adjusted ex-vessel revenue from 2003-2012. Recreational angler trips are expected to increase between 167,000 and 3.9 million marine angler trips depending on the management option chosen under the preferred alternative. Coastwide combined commercial plus recreational fishery income impacts under the preferred alternative are projected to increase over no action by $27.3 million (11 percent) under California recreational option 1 and by $26.3 million (10 percent) under California recreational option 2, but decrease by $49.2 million (-19 percent) under California recreational option 3. The main differences between California options concern season lengths in the five recreational management areas (See Table 4-152 in the DEIS). Generally speaking, option 1 has greater season lengths than no action, extending all five areas to 10 month seasons. Option 2, slightly reduces these seasons, while option 3 reduces seasons to for all five areas to 3 month periods.

In summary, for commercial fisheries, alternatives were compared using ex-vessel revenues and net accounting revenues (“profits”). In comparison to the no action alternative, the preferred alternative increases ex-vessel revenues by $16 million and net accounting revenues by $9 million. Alternative 1 increases ex-vessels revenues by $5 million and net accounting revenues by $4 million. Alternative 2 leads to a negligible decrease in ex-vessel revenues and net accounting benefits.

For recreational fisheries, under the preferred alternative, a coastwide increase of 11,600 angler trips is projected compared to the no action alternative. All of the increase occurs in California. Trips increase by 1,600 (20 percent) in the Mendocino region, 5,600 (11 percent) in the San Francisco region and 4,400 (4 percent) in the Central region. No change from no action is projected for California's Northern and Southern management areas or for recreational fisheries in Washington and Oregon. For Alternatives 1 and 2, three California recreational sub-options were analyzed. Generally speaking, option 1 has greater season lengths. The season length for Mendocino, San Francisco, and Central regions are increased to 10 month seasons. Option 2, slightly reduces these seasons, while option 3 reduces seasons for all five areas to 3 month periods. Of these options, only alternative 1 combined with option 1 or option 2 led to higher levels of recreational trips than the preferred alternative. Under alternative 1, an increase of 25,800 angler trips is projected from no action coastwide. All of the increase occurs in California. Trips increase by 4,400 (22 percent) in the Northern region, 3,700 (47 percent) in the Mendocino region, 8,900 (18 percent) in the San Francisco region and 8,800 (8 percent) in the Central region. No change from no action is projected for California's Southern region or for recreational fisheries in Washington and Oregon. Alternative 1 when combined with option 2 leads to a projected an increase of 16,700 angler trips is projected in comparison to no action, all in California. Trips increase by 2,700 (13 percent) in the Northern region, 2,900 (37 percent) in the Mendocino region, 6,700 (13 percent) in the San Francisco region and 4,400 (4 percent) in the Central region. No change from no action is projected for California's Southern region or for recreational fisheries in Washington and Oregon. For both alternatives 1 and 2, option 3 led to a loss in about 400 trips compared to no action.

Although the general intent is to provide increased recreational opportunities where possible, there are concerns about ensuring that recreational catch of overfished species remain within appropriate limits. The preferred alternative reflects a season structure that prioritizes increasing season lengths when possible, but maintains a precautionary approach, while, in particular, recognizing the constraints imposed from preventing the overfishing of canary and minor nearshore rockfish. Compared to the 2014 season structure, the proposal for 2015-2016 season structure would provide a modest increase in season length in the Mendocino management area (2 months), the San Francisco management area (6 weeks) and the Central management area (one month), while the Southern management area would maintain its season length but allow for an increase in allowable fishing depth to 60 fathoms. The Northern area would remain at status-quo seasons and depths.

The economic impact (commercial and recreational income and jobs) of the preferred alternative is about 11 percent higher than that of the no action alternative. The preferred alternative leads to $286 million in coastal income and 5,700 jobs. Alternative 1 and option 1, leads to a 7 percent increase in economic impact compared to no action and alternative 2 and option 1 leads to no change in economic impact from no action. All community groups show an increase in income and jobs. Most communities, under the preferred alternative are projected to have a double-digit increase in income and jobs.

To determine the number of small entities potentially affected by this rule, NMFS reviewed analyses of fish ticket data and limited entry permit data, the DEIS associated with this rulemaking, which includes information on charterboat, tribal, and open access fleets, and available cost-earnings data developed by the NMFS Northwest Fisheries Science Center, responses associated with the permitting process for the trawl rationalization program where applicants were asked if they considered themselves a small business based on SBA definitions. This rule will regulate businesses that harvest groundfish.

NMFS makes the following conclusions based primarily on analyses associated with fish ticket data, limited entry permit data, previous analysis of the charterboat and tribal fleets, NMFS expertise, and the DEIS associated with this rule making. As part of the permitting process for Trawl rationalization program or to participate in non- trawl limited entry permit fisheries, applicants were asked if they considered themselves a small business. NMFS reviewed the ownership and affiliation relationships of quota share permit holders, vessel account holders, catcher processor permits, mothership processing, and first receiver/shore processor permits. Based on this review, there are an estimated 102 unique small businesses and 21 large businesses that participate in this Trawl Rationalization Program. In the non-trawl limited entry program, there are 222 small businesses. Open access vessels are not federally permitted so counts based on landings can provide an estimate of the affected. The DEIS analysis for the 2013-2014 Pacific Groundfish Specifications and Management Measures contained the following assessment which are deemed reasonable estimates for this rule, as these fisheries have not changed significantly in recent years. In 2011, 682 directed open access vessels fished while 284 incidental open access vessels fished for a total of 966 vessels. Over the 2005-2010 period, 1,583 different directed open access vessels fished and 837 different incidental open access vessels fished for a total of 2,420 different vessels. According to the DEIS, over the 2008-2010 period, 447 to 470 charterboats participated in the groundfish fishery. The four tribal fleets sum to a total of 54 longline vessels, 5 whiting trawlers, and 5 non-whiting trawlers, for a grand total of 64 vessels. Available information on average revenue per vessel suggests that all the entities in these groups can be considered small.

The above analysis suggests that there are approximately 1,400 small entities involved in the fishery. The economic impact (commercial and recreational income and jobs) of the preferred alternative is about 11 percent higher than that of the no action alternative. Therefore, NMFS believes this rule will have a positive impact on both small and large entities. Through the rulemaking process associated with this action, we are requesting comments on this conclusion.

There are no Federal reporting and recordkeeping requirements associated with this action. There are no relevant Federal rules that may duplicate, overlap, or conflict with this action.

NMFS issued Biological Opinions under the Endangered Species Act (ESA) on August 10, 1990, November 26, 1991, August 28, 1992, September 27, 1993, May 14, 1996, and December 15, 1999 pertaining to the effects of the PCGFMP fisheries on Chinook salmon (Puget Sound, Snake River spring/summer, Snake River fall, upper Columbia River spring, lower Columbia River, upper Willamette River, Sacramento River winter, Central Valley spring, California coastal), coho salmon (Central California coastal, southern Oregon/northern California coastal), chum salmon (Hood Canal summer, Columbia River), sockeye salmon (Snake River, Ozette Lake), and steelhead (upper, middle and lower Columbia River, Snake River Basin, upper Willamette River, central California coast, California Central Valley, south/central California, northern California, southern California). These biological opinions have concluded that implementation of the PCGFMP is not expected to jeopardize the continued existence of any endangered or threatened species under the jurisdiction of NMFS, or result in the destruction or adverse modification of critical habitat.

NMFS issued a Supplemental Biological Opinion on March 11, 2006 concluding that neither the higher observed bycatch of Chinook in the 2005 whiting fishery nor new data regarding salmon bycatch in the groundfish bottom trawl fishery required a reconsideration of its prior “no jeopardy” conclusion. NMFS also reaffirmed its prior determination that implementation of the PCGFMP is not likely to jeopardize the continued existence of any of the affected ESUs. Lower Columbia River coho (70 FR 37160, June 28, 2005) and Oregon Coastal coho (73 FR 7816, February 11, 2008) were recently relisted as threatened under the ESA. The 1999 biological opinion concluded that the bycatch of salmonids in the Pacific whiting fishery were almost entirely Chinook salmon, with little or no bycatch of coho, chum, sockeye, and steelhead.

NMFS has reinitiated section 7 consultation on the PCGFMP with respect to its effects on listed salmonids. In the event the consultation identifies either reasonable and prudent alternatives to address jeopardy concerns or reasonable and prudent measures to minimize incidental take, NMFS would exercise necessary authorities in coordination to the extent possible with the Council to put such additional alternatives or measures into place. After reviewing the available information, NMFS has concluded that, consistent with sections 7(a)(2) and 7(d) of the ESA, this action will not jeopardize any listed species, would not adversely modify any designated critical habitat, and will not result in any irreversible or irretrievable commitment of resources that would have the effect of foreclosing the formulation or implementation of any reasonable and prudent alternative measures.

On December 7, 2012, NMFS completed a biological opinion concluding that the groundfish fishery is not likely to jeopardize non-salmonid marine species including listed eulachon, green sturgeon, humpback whales, Steller sea lions, and leatherback sea turtles. The opinion also concludes that the fishery is not likely to adversely modify critical habitat for green sturgeon and leatherback sea turtles. An analysis included in the same document as the opinion concludes that the fishery is not likely to adversely affect green sea turtles, olive ridley sea turtles, loggerhead sea turtles, sei whales, North Pacific right whales, blue whales, fin whales, sperm whales, Southern Resident killer whales, Guadalupe fur seals, or the critical habitat for Steller sea lions.

On November 21, 2012, the U.S. Fish and Wildlife Service (FWS) issued a biological opinion concluding that the groundfish fishery will not jeopardize the continued existence of the short-tailed albatross. The (FWS) also concurred that the fishery is not likely to adversely affect the marbled murrelet, California least tern, southern sea otter, bull trout, nor bull trout critical habitat.

This proposed rule would not alter the effects on marine mammals over what has already been considered for the fishery. West Coast pot fisheries for sablefish are considered Category II fisheries under the MMPA's List of Fisheries, indicating occasional interactions. All other West Coast groundfish fisheries, including the trawl fishery, are considered Category III fisheries under the MMPA, indicating a remote likelihood of or no known serious injuries or mortalities to marine mammals. On February 27, 2012, NMFS published notice that the incidental taking of Steller sea lions in the West Coast groundfish fisheries is addressed in NMFS' December 29, 2010 Negligible Impact Determination (NID) and this fishery has been added to the list of fisheries authorized to take Steller sea lions (77 FR 11493, February 27, 2012). On September 4, 2013, based on its negligible impact determination dated August 28, 2013, NMFS issued a permit for a period of three years to authorize the incidental taking of humpback whales by the sablefish pot fishery (78 FR 54553, September 4, 2013).

Pursuant to Executive Order 13175, this proposed rule was developed after meaningful consultation and collaboration with tribal officials from the area covered by the PCGFMP. Under the Magnuson-Stevens Act at 16 U.S.C. 1852(b)(5), one of the voting members of the Pacific Council must be a representative of an Indian tribe with federally recognized fishing rights from the area of the Council's jurisdiction. In addition, regulations implementing the PCGFMP establish a procedure by which the tribes with treaty fishing rights in the area covered by the PCGFMP request new allocations or regulations specific to the tribes, in writing, before the first of the two meetings at which the Council considers groundfish management measures. The regulations at 50 CFR 660.324(d) further state “the Secretary will develop tribal allocations and regulations under this paragraph in consultation with the affected tribe(s) and, insofar as possible, with tribal consensus”. The tribal management measures in this proposed rule have been developed following these procedures. The tribal representative on the Council made a motion to adopt the non-whiting tribal management measures, which was passed by the Council. Those management measures, which were developed and proposed by the tribes, are included in this proposed rule.

This proposed rule has been determined to be not significant for purposes of Executive Order 12866.

List of Subjects in 50 CFR Part 660

Fisheries, Fishing, Indian Fisheries.

Dated: December 18, 2014.
Samuel D. Rauch III,
Deputy Assistant Administrator for Regulatory Programs, National Marine Fisheries Service.

For the reasons set out in the preamble, 50 CFR part 660 is proposed to be amended as follows:

PART 660—FISHERIES OFF WEST COAST STATES

1. The authority citation for part 660 continues to read as follows:

Authority: 16 U.S.C. 1801 et seq. and 16 U.S.C. 773 et seq.

2. In § 660.11 revise the definitions in alphabetical order for “Groundfish” paragraphs (1), (2), (5), introductory (7), introductory (7)(i), and paragraphs (7)(ii), (7)(iii), (9) and (10), “North-South management area” definition paragraph (2)(v), and the definitions for “Office of Law Enforcement”, “Regional Administrator”, and “Sustainable Fisheries Division” to read as follows:

§ 660.11 General definitions.

* * * * *

Groundfish means species in the PCGFMP, specifically:

(1) Sharks: Leopard shark, Triakis semifasciata; soupfin shark, Galeorhinus zyopterus; spiny dogfish, Squalus suckleyi.

(2) Skates: “Skates” in the PCGFMP include all genera and species in the family Arhynchobatidae that occur off Washington, Oregon, and California, including but not limited to Aleutian skate, Bathyraja aleutica; Bering/sandpaper skate, B. interrupta; big skate, Raja binoculata; California skate, R. inornata; longnose skate, R. rhina; roughtail/black skate, B. trachura.

* * * * *

(5) Grenadiers: “Grenadiers” in the PCGFMP include all genera and species in the family Macrouridae that occur off Washington, Oregon, and California, including but not limited to Giant grenadier, Albatrossia pectoralis; Pacific grenadier, Coryphaenoides acrolepis.

* * * * *

(7) Rockfish: “Rockfish” in the PCGFMP include all genera and species of the family Scorpaenidae that occur off Washington, Oregon, and California, even if not listed below, including longspine thornyhead, Sebastolobus altivelis, and shortspine thornyhead, S. alascanus. Where species below are listed both in a geographic category (nearshore, shelf, slope) and as an area-specific listing (north or south of 40°10′ N. lat.) those species are managed within a “minor” rockfish complex in that area-specific listing.

(i) Nearshore rockfish includes black rockfish, Sebastes melanops and the following nearshore rockfish species managed in “minor rockfish” complexes:

* * * * *

(ii) Shelf rockfish includes bocaccio, Sebastes paucispinis; canary rockfish, S. pinniger; chilipepper, S. goodei; cowcod, S. levis; shortbelly rockfish, S. jordani; widow rockfish, S. entomelas; yelloweye rockfish, S. ruberrimus; yellowtail rockfish, S. flavidus and the following shelf rockfish species managed in “minor rockfish” complexes:

(A) Shelf Rockfish North of 40°10′ N. lat.: Bronzespotted rockfish, S. gilli; bocaccio, S. paucispinis; chameleon rockfish, S. phillipsi; chilipepper, S. goodei; cowcod, S. levis; dusky rockfish, S. ciliatus; dwarf-red rockfish, S. rufianus; flag rockfish, S. rubrivinctus; freckled rockfish, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; sunset rockfish, S. crocotulus; swordspine rockfish, S. ensifer; tiger rockfish, S. nigrocinctus; vermilion rockfish, S. miniatus.

(B) Shelf Rockfish South of 40°10′ N. lat.: Bronzespotted rockfish, S. gilli; chameleon rockfish, S. phillipsi; dusky rockfish, S. ciliatus; dwarf-red rockfish, S. rufianus; flag rockfish, S. rubrivinctus; freckled rockfish, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; sunset rockfish, S. crocotulus; swordspine rockfish, S. ensifer; tiger rockfish, S. nigrocinctus; vermilion rockfish, S. miniatus; yellowtail rockfish, S. flavidus.

(iii) Slope rockfish includes darkblotched rockfish, S. crameri; Pacific ocean perch, S. alutus; splitnose rockfish, S. diploproa; and the following slope rockfish species managed in “minor rockfish” complexes:

(A) Slope Rockfish North of 40°10′ N. lat.: Aurora rockfish, Sebastes aurora; bank rockfish, S. rufus; blackgill rockfish, S. melanostomus; blackspotted rockfish, S. melanostictus; redbanded rockfish, S. babcocki; rougheye rockfish, S. aleutianus; sharpchin rockfish, S. zacentrus; shortraker rockfish, S. borealis; splitnose rockfish, S. diploproa; yellowmouth rockfish, S. reedi.

(B) Slope Rockfish South of 40°10′ N. lat.: Aurora rockfish, Sebastes aurora; bank rockfish, S. rufus; blackgill rockfish, S. melanostomus; blackspotted rockfish, S. melanostictus; Pacific ocean perch, S. alutus; redbanded rockfish, S. babcocki; rougheye rockfish, S. aleutianus; sharpchin rockfish, S. zacentrus; shortraker rockfish, S. borealis; yellowmouth rockfish, S. reedi.

* * * * *

(9) “Other fish”: kelp greenling (Hexagrammos decagrammus), leopard shark (Trakis semifasciata), and cabezon (Scorpaenichthys marmoratus) in waters off Washington.

(10) “Ecosystem component species” means species that are included in the PCGFMP but are not “in the fishery” and therefore not actively managed and do not require harvest specifications. Ecosystem component species are not targeted in any fishery, not generally retained for sale or personal use, and are not determined to be subject to overfishing, approaching an overfished condition, or overfished, nor are they likely to become subject to overfishing or overfished in the absence of conservation and management measures. Ecosystem component species include: All skates listed here in paragraph (2), except longnose skate; all grenadiers listed here in paragraph (5); soupfin shark; ratfish; and finescale codling.

* * * * *

North-South management area

(2) * * *

(v) Columbia River—46°16.00′ N. lat.

* * * * *

Office of Law Enforcement or OLE refers to the National Marine Fisheries Service, Office of Law Enforcement, Western Division.

* * * * *

Regional Administrator means the Administrator, West Coast Region, NMFS.

* * * * *

Sustainable Fisheries Division or SFD means the Assistant Regional Administrator, Sustainable Fisheries Division, West Coast Regional Office, NMFS, or a designee.

* * * * *

3. In § 660.40, paragraph (c) is revised to read as follows:

§ 660.40 Overfished species rebuilding plans.

* * * * *

(c) Cowcod. Cowcod was declared overfished in 2000. The target year for rebuilding the cowcod stock south of 40°10′ N. lat. to BMSY is 2020. The harvest control rule to be used to rebuild the cowcod stock is an annual SPR harvest rate of 82.7 percent.

* * * * *

4. In § 660.50, revise paragraphs (f)(2)(ii), (f)(5), and (7) and add paragraph (f)(8) to read as follows:

§ 660.50 Pacific Coast treaty Indian fisheries.

* * * * *

(f) * * *

(2) * * *

(ii) The Tribal allocation is 479 mt in 2015 and 524 mt in 2016 per year. This allocation is, for each year, 10 percent of the Monterey through Vancouver area (North of 36° N. lat.) ACL. The Tribal allocation is reduced by 1.6 percent for estimated discard mortality.

* * * * *

(5) Pacific cod. There is a tribal harvest guideline of 500 mt of Pacific cod per year. The tribes will manage their fisheries to stay within this harvest guideline.

* * * * *

(7) Yellowtail rockfish. Yellowtail rockfish taken in the directed tribal mid-water trawl fisheries are subject to a catch limit of 1,000 mt for the entire fleet, per year.

(8) Spiny dogfish. Spiny dogfish taken in the treaty fisheries are subject to an overall expected total spiny dogfish catch of 275 mt per year.

* * * * *

5. In § 660.60, add paragraphs (b)(i) and (ii) and revise paragraph (c)(1)(i) to read as follows:

§ 660.60 Specifications and management measures.

* * * * *

(b) * * *`

(i) Except for Pacific whiting, every biennium, NMFS will implement OFLs, ABCs, and ACLs, if applicable, for each species or species group based on the harvest controls used in the previous biennium (referred to as default harvest control rules) applied to the best available scientific information. The default harvest control rules for each species or species group are listed in Appendix F to the PCGFMP and the biennial SAFE document. NMFS may implement OFLs, ABCs, and ACLs, if applicable, that vary from the default harvest control rules based on a Council recommendation.

(ii) [Reserved]

* * * * *

(c) * * *

(1) * * *

(i) Trip landing and frequency limits, size limits, all gear. Trip landing and frequency limits have been designated as routine for the following species or species groups: widow rockfish, canary rockfish, yellowtail rockfish, Pacific ocean perch, yelloweye rockfish, black rockfish, blue rockfish, splitnose rockfish, blackgill rockfish in the area south of 40°10′ N. lat., chilipepper, bocaccio, cowcod, minor nearshore rockfish or shallow and deeper minor nearshore rockfish, shelf or minor shelf rockfish, and minor slope rockfish; Dover sole, sablefish, shortspine thornyheads, and longspine thornyheads; petrale sole, rex sole, arrowtooth flounder, Pacific sanddabs, and the other flatfish complex, which is composed of those species plus any other flatfish species listed at § 660.11; Pacific whiting; lingcod; Pacific cod; spiny dogfish; longnose skate; cabezon in Oregon and California and “other fish” as a complex described at § 660.11. In addition to the species and species groups listed above, sub-limits or aggregate limits may be specified, specific to the Shorebased IFQ Program, for the following species: big skate, California skate, California scorpionfish, leopard shark, soupfin shark, finescale codling, Pacific rattail (grenadier), ratfish, kelp greenling, shortbelly, and cabezon in Washington. Size limits have been designated as routine for sablefish and lingcod. Trip landing and frequency limits and size limits for species with those limits designated as routine may be imposed or adjusted on a biennial or more frequent basis for the purpose of keeping landings within the harvest levels announced by NMFS, and for the other purposes given in paragraphs (c)(1)(i)(A) and (B) of this section.

* * * * *

6. In § 660.72:

a. Redesignate paragraphs (f)(199) through (f)(211) as paragraphs (f)(200) through (f)(212);

b. Revise paragraph (c) and newly redesignated paragraph (f)(207);

c. Add paragraph (f)(199) to read as follows:

§ 660.72 Latitude/longitude coordinates defining the 50 fm (91 m) through 75 fm (137 m) depth contours.

* * * * *

(c) * * *

(1) 34°08.40′ N. lat., 120°33.78′ W. long.;

(2) 34°07.80′ N. lat., 120°30.99′ W. long.;

(3) 34°08.42′ N. lat., 120°27.92′ W. long.;

(4) 34°09.31′ N. lat., 120°27.81′ W. long.;

(5) 34°05.85′ N. lat., 120°17.13′ W. long.;

(6) 34°05.73′ N. lat., 120°05.93′ W. long.;

(7) 34°06.14′ N. lat., 120°04.86′ W. long.;

(8) 34°05.70′ N. lat., 120°03.17′ W. long.;

(9) 34°05.67′ N. lat., 119°58.98′ W. long.;

(10) 34°06.34′ N. lat., 119°56.78′ W. long.;

(11) 34°05.57′ N. lat., 119°51.35′ W. long.;

(12) 34°07.08′ N. lat., 119°52.43′ W. long.;

(13) 34°04.49′ N. lat., 119°35.55′ W. long.;

(14) 34°04.73′ N. lat., 119°32.77′ W. long.;

(15) 34°02.02′ N. lat., 119°19.18′ W. long.;

(16) 34°01.03′ N. lat., 119°19.50′ W. long.;

(17) 33°59.45′ N. lat., 119°22.38′ W. long.;

(18) 33°58.68′ N. lat., 119°32.36′ W. long.;

(19) 33°56.43′ N. lat., 119°41.13′ W. long.;

(20) 33°56.04′ N. lat., 119°48.20′ W. long.;

(21) 33°57.32′ N. lat., 119°51.96′ W. long.;

(22) 33°59.32′ N. lat., 119°55.59′ W. long.;

(23) 33°57.52′ N. lat., 119°55.19′ W. long.;

(24) 33°56.26′ N. lat., 119°54.29′ W. long.;

(25) 33°54.30′ N. lat., 119°54.83′ W. long.;

(26) 33°50.97′ N. lat., 119°57.03′ W. long.;

(27) 33°50.25′ N. lat., 120°00.00′ W. long.;

(28) 33°50.03′ N. lat., 120°03.00′ W. long.;

(29) 33°51.06′ N. lat., 120°03.73′ W. long.;

(30) 33°54.49′ N. lat., 120°12.85′ W. long.;

(31) 33°58.90′ N. lat., 120°20.15′ W. long.;

(32) 34°00.71′ N. lat., 120°28.21′ W. long.;

(33) 34°02.20′ N. lat., 120°30.37′ W. long.;

(34) 34°03.60′ N. lat., 120°30.60′ W. long.;

(35) 34°06.96′ N. lat., 120°34.22′ W. long.;

(36) 34°08.01′ N. lat., 120°35.24′ W. long.; and

(37) 34°08.40′ N. lat., 120°33.78′ W. long.

* * * * *

(f) * * *

(199) 32°56.00′ N. lat., 117°19.16′ W. long.;

* * * * *

(207) 32°44.89′ N. lat., 117°21.89′ W. long.;

* * * * *

7. In § 660.73, paragraph (a)(123) is revised to read as follows:

§ 660.73 Latitude/longitude coordinates defining the 100 fm (183 m) through 150 fm (274 m) depth contours.

* * * * *

(a) * * *

(123) 43° 56.07′ N. lat., 124° 55.41′ W. long.;

* * * * *

8. In § 660.74:

a. Remove paragraphs (l)(80) through (l)(82);

b. Redesignate paragraphs (l)(83) through (l)(245) as (l)(87) through (l)(249);

c. Add paragraphs (l)(80) through (l)(86) to read as follows:

§ 660.74 Latitude/longitude coordinates defining the 180 fm (329 m) through 250 fm (457 m) depth contours.

* * * * *

(l) * * *

(80) 44°48.25′ N. lat., 124°40.61′ W. long.;

(81) 44°42.24′ N. lat., 124°48.05′ W. long.;

(82) 44°41.35′ N. lat., 124°48.03′ W. long.;

(83) 44°40.27′ N. lat., 124°49.11′ W. long.;

(84) 44°38.52′ N. lat., 124°49.11′ W. long.;

(85) 44°21.73′ N. lat., 124°49.82′ W. long.;

(86) 44°17.57′ N. lat., 124°55.04′ W. long.;

* * * * *

9. Tables 1a through 1d, Subpart C are revised to read as follows:

a/ Annual catch limits (ACLs), annual catch targets (ACTs) and harvest guidelines (HGs) are specified as total catch values.

b/ Fishery harvest guidelines means the harvest guideline or quota after subtracting Pacific Coast treaty Indian tribes allocations and projected catch, projected research catch, deductions for fishing mortality in non-groundfish fisheries, and deductions for EFPs from the ACL or ACT.

c/ Bocaccio. A bocaccio stock assessment update was conducted in 2013 for the bocaccio stock between the U.S.-Mexico border and Cape Blanco. The stock is managed with stock-specific harvest specifications south of 40°10′ N. lat. and within the Minor Shelf Rockfish complex north of 40°10 N. lat. A historical catch distribution of approximately 6 percent was used to apportion the assessed stock to the area north of 40°10′ N. lat. The bocaccio stock was estimated to be at 31.4 percent of its unfished biomass in 2013. The OFL of 1,444 mt is projected in the 2013 stock assessment using an FMSY proxy of F50%. The ABC of 1,380 mt is a 4.4 percent reduction from the OFL (σ=0.36/P*=0.45) as it's a category 1 stock. The 349 mt ACL is based on the current rebuilding plan with a target year to rebuild of 2022 and an SPR harvest rate of 77.7 percent. 8.3 mt is deducted from the ACL to accommodate the incidental open access fishery (0.7 mt), EFP catch (3.0 mt) and research catch (4.6 mt), resulting in a fishery HG of 340.7 mt. The California recreational fishery has an HG of 178.8 mt.

d/ Canary rockfish. A canary rockfish stock assessment update was conducted in 2011 and the stock was estimated to be at 23.2 percent of its unfished biomass coastwide in 2011. The coastwide OFL of 733 mt is projected in the 2011 rebuilding analysis using an FMSY proxy of F50%. The ABC of 701 mt is a 4.4 percent reduction from the OFL (σ=0.36/P*=0.45) as it's a category 1 stock. The ACL of 122 mt is based on the current rebuilding plan with a target year to rebuild of 2030 and an SPR harvest rate of 88.7 percent. 15.2 mt is deducted from the ACL to accommodate the Tribal fishery (7.7 mt), the incidental open access fishery (2 mt), EFP catch (1.0 mt) and research catch (4.5 mt) resulting in a fishery HG of 106.8 mt. Recreational HGs are: 3.4 mt (Washington); 11.7 mt (Oregon); and 24.3 mt (California).

e/ Cowcod. A stock assessment for the Conception Area was conducted in 2013 and the stock was estimated to be at 33.9 percent of its unfished biomass in 2013. The Conception Area OFL of 55.0 mt is projected in the 2013 rebuilding analysis using an FMSY proxy of F50%. The OFL contribution of 11.6 mt for the unassessed portion of the stock in the Monterey area is based on depletion-based stock reduction analysis. The OFLs for the Monterey and Conception areas were summed to derive the south of 40°10′ N. lat. OFL of 66.6 mt. The ABC for the area south of 40°10′ N. lat. is 59.9 mt. The assessed portion of the stock in the Conception Area is considered category 2, with a Conception area contribution to the ABC of 50.2 mt, which is an 8.7 percent reduction from the Conception area OFL (σ=0.72/P*=0.45). The unassessed portion of the stock in the Monterey area is considered a category 3 stock, with a contribution to the ABC of 9.7 mt, which is a 16.6 percent reduction from the Monterey area OFL (σ=1.44/P*=0.45). A single ACL of 10.0 mt is being set for both areas combined. The ACL of 10.0 mt is based on the rebuilding plan with a target year to rebuild of 2020 and an SPR harvest rate of 82.7 percent, which is equivalent to an exploitation rate (catch over age 11+ biomass) of 0.007. 2.0 mt is deducted from the ACL to accommodate EFP fishing (less than 0.02 mt) and research activity (2.0 mt), resulting in a fishery HG of 8.0 mt. Any additional mortality in research activities will be deducted from the ACL. A single ACT of 4.0 mt is being set for both areas combined.

f/ Darkblotched rockfish. A 2013 stock assessment estimated the stock to be at 36 percent of its unfished biomass in 2013. The OFL of 574 mt is projected in the 2013 stock assessment using an FMSY proxy of F50%. The ABC of 549 mt is a 4.4 percent reduction from the OFL (σ=0.36/P*=0.45) as it's a category 1 stock. The ACL of 338 mt is based on the current rebuilding plan with a target year to rebuild of 2025 and an SPR harvest rate of 64.9 percent. 20.8 mt is deducted from the ACL to accommodate the Tribal fishery (0.2 mt), the incidental open access fishery (18.4 mt), EFP catch (0.1 mt) and research catch (2.1 mt), resulting in a fishery HG of 317.2 mt.

g/ Pacific Ocean Perch. A POP stock assessment was conducted in 2011 and the stock was estimated to be at 19.1 percent of its unfished biomass in 2011. The OFL of 842 mt for the area north of 40°10′ N. lat. is projected in the 2011 rebuilding analysis using an F50% FMSY proxy. The ABC of 805 mt is a 4.4 percent reduction from the OFL (σ=0.36/P*=0.45) as it's a category 1 stock. The ACL of 158 mt is based on the current rebuilding plan with a target year to rebuild of 2051 and an SPR harvest rate of 86.4 percent. 15 mt is deducted from the ACL to accommodate the Tribal fishery (9.2 mt), the incidental open access fishery (0.6 mt), and research catch (5.2 mt), resulting in a fishery HG of 143.0 mt.

h/ Petrale sole. A 2013 stock assessment estimated the stock to be at 22.3 percent of its unfished biomass in 2013. The OFL of 2,946 mt is projected in the 2013 assessment using an F30% FMSY proxy. The ABC of 2,816 mt is a 4.4 percent reduction from the OFL (σ=0.36/P*=0.45) as it's a category 1 stock. The ACL is based on the 25-5 harvest control rule specified in the current rebuilding plan; since the stock is projected to be rebuilt at the start of 2014, the ACL is set equal to the ABC. 236.6 mt is deducted from the ACL to accommodate the Tribal fishery (220 mt), the incidental open access fishery (2.4 mt), and research catch (14.2 mt), resulting in a fishery HG of 2,579.4 mt.

i/ Yelloweye rockfish. A stock assessment update was conducted in 2011. The stock was estimated to be at 21.4 percent of its unfished biomass in 2011. The 52 mt coastwide OFL was projected in the 2011 rebuilding analysis using an FMSY proxy of F50%. The ABC of 43 mt is a 16.7 percent reduction from the OFL (σ=0.72/P*=0.40) as it's a category 2 stock. The 18 mt ACL is based on the current rebuilding plan with a target year to rebuild of 2074 and an SPR harvest rate of 76.0 percent. 5.8 mt is deducted from the ACL to accommodate the Tribal fishery (2.3 mt), the incidental open access fishery (0.2 mt), EFP catch (0.03 mt) and research catch (3.3 mt) resulting in a fishery HG of 12.2 mt. Recreational HGs are: 2.9 mt (Washington); 2.6 mt (Oregon); and 3.4 mt (California).

j/ Arrowtooth flounder. The arrowtooth flounder stock was last assessed in 2007 and was estimated to be at 79 percent of its unfished biomass in 2007. The OFL of 6,599 mt is derived from the 2007 assessment using an F30% FMSY proxy. The ABC of 5,497 mt is a 16.7 percent reduction from the OFL (σ=0.72/P*=0.40) as it's a category 2 stock. The ACL is set equal to the ABC because the stock is above its target biomass of B25%. 2,087 mt is deducted from the ACL to accommodate the Tribal fishery (2,041 mt), the incidental open access fishery (30 mt), and research catch (16.4 mt), resulting in a fishery HG of 3,410 mt.

k/ Black rockfish south (Oregon and California). A stock assessment was conducted for black rockfish south of 45°46′ N. lat. (Cape Falcon, Oregon) to Central California (i.e., the southern-most extent of black rockfish, Love et al. 2002) in 2007. The biomass in the south was estimated to be at 70 percent of its unfished biomass in 2007. The OFL from the assessed area is derived from the 2007 assessment using an FMSY harvest rate proxy of F50% plus 3 percent of the OFL from the stock assessment conducted for black rockfish north of 45°46′ N. lat., to cover the portion of the stock occurring off Oregon north of Cape Falcon (the 3% adjustment is based on historical catch distribution). The resulting OFL for the area south of 46°16′ N. lat. is 1,176 mt. The ABC of 1,124 mt is a 4.4 percent reduction from the OFL (σ=0.36/P*=0.45) as it's a category 1 stock. The 2015 ACL is 1,000 mt, which maintains the constant catch strategy designed to keep the stock above its target biomass of B40%. 1 mt is deducted from the ACL to accommodate EFP catch, resulting in a fishery HG of 999 mt. The black rockfish ACL, in the area south of 46°16′ N. lat. (Columbia River), is subdivided with separate HGs for waters off Oregon (579 mt/58 percent) and for waters off California (420 mt/42 percent).

l/ Black rockfish north (Washington). A stock assessment was conducted for black rockfish north of 45°46′ N. lat. (Cape Falcon, Oregon) in 2007. The biomass in the north was estimated to be at 53 percent of its unfished biomass in 2007. The OFL from the assessed area is derived from the 2007 assessment using an FMSY harvest rate proxy of F50%. The resulting OFL for the area north of 46°16′ N. lat. is 421 mt and is 97 percent of the OFL from the assessed area based on the area distribution of historical catch. The ABC of 402 mt for the north is a 4.4 percent reduction from the OFL (σ=0.36/P*=0.45) as it's a category 1 stock. The ACL is set equal to the ABC since the stock is above its target biomass of B40%. 14 mt is deducted from the ACL to accommodate the Tribal fishery, resulting in a fishery HG of 388 mt.

m/ Cabezon (California). A cabezon stock assessment was conducted in 2009. The cabezon spawning biomass in waters off California was estimated to be at 48.3 percent of its unfished biomass in 2009. The OFL of 161 mt is calculated using an FMSY proxy of F45%. The ABC of 154 mt is based on a 4.4 percent reduction from the OFL (σ=0.36/P*=0.45) as it's a category 1 stock. The ACL is set equal to the ABC because the stock is above its target biomass of B40%. There are no deductions from the ACL so the fishery HG is equal to the ACL of 154 mt.

n/ Cabezon (Oregon). A cabezon stock assessment was conducted in 2009. The cabezon spawning biomass in waters off Oregon was estimated to be at 52 percent of its unfished biomass in 2009. The OFL of 49 mt is calculated using an FMSY proxy of F45%. The ABC of 47 mt is based on a 4.4 percent reduction from the OFL (σ=0.36/P*=0.45) as it's a category 1 species. The ACL is set equal to the ABC because the stock is above its target biomass of B40%. There are no deductions from the ACL so the fishery HG is also equal to the ACL of 47 mt.

o/ California scorpionfish was assessed in 2005 and was estimated to be at 79.8 percent of its unfished biomass in 2005. The OFL of 119 mt is projected in the 2005 assessment using an FMSY harvest rate proxy of F50%. The ABC of 114 mt is a 4.4 percent reduction from the OFL (σ=0.36/P*=0.45) as it's a category 1 stock. The ACL is set equal to the ABC because the stock is above its target biomass of B40%. 2 mt is deducted from the ACL to accommodate the incidental open access fishery, resulting in a fishery HG of 112 mt.

p/ Chilipepper. The coastwide chilipepper stock was assessed in 2007 and estimated to be at 70 percent of its unfished biomass in 2006. Chilipepper are managed with stock-specific harvest specifications south of 40°10 N. lat. and within the Minor Shelf Rockfish complex north of 40°10′ N. lat. Projected OFLs are stratified north and south of 40°10′ N. lat. based on the average 1998-2008 assessed area catch, which is 93 percent for the area south of 40°10′ N. lat. and 7 percent for the area north of 40°10′ N. lat. The OFL of 1,703 mt for the area south of 40°10′ N. lat. is projected in the 2007 assessment using an FMSY proxy of F50%. The ABC of 1,628 mt is a 4.4 percent reduction from the OFL (σ=0.36/P*=0.45) as it's a category 1 stock. The ACL is set equal to the ABC because the stock is above its target biomass of B40%. 24 mt is deducted from the ACL to accommodate the incidental open access fishery (5 mt), EFP fishing (10 mt), and research catch (9 mt), resulting in a fishery HG of 1,604 mt.

q/ Dover sole. A 2011 Dover sole assessment estimated the stock to be at 83.7 percent of its unfished biomass in 2011. The OFL of 66,871 mt is projected in the 2011 stock assessment using an FMSY proxy of F30%. The ABC of 63,929 mt is a 4.4 percent reduction from the OFL (σ=0.36/P*=0.45) as it's a category 1 stock. The ACL could be set equal to the ABC because the stock is above its target biomass of B25%. However, the ACL of 50,000 mt is set at a level below the ABC and higher than the maximum historical landed catch. 1,594 mt is deducted from the ACL to accommodate the Tribal fishery (1,497 mt), the incidental open access fishery (55 mt), and research catch (41.9 mt), resulting in a fishery HG of 48,406 mt.

r/ English sole. A 2013 stock assessment was conducted, which estimated the stock to be at 88 percent of its unfished biomass in 2013. The OFL of 10,792 mt is projected in the 2013 assessment using an FMSY proxy of F30%. The ABC of 9,853 mt is an 8.7 percent reduction from the OFL (σ=0.72/P*=0.45) as it is a category 2 stock. The ACL is set equal to the ABC because the stock is above its target biomass of B25%. 213 mt is deducted from the ACL to accommodate the Tribal fishery (200 mt), the incidental open access fishery (7 mt) and research catch (5.8 mt), resulting in a fishery HG of 9,640 mt.

s/ Lingcod north. A lingcod stock assessment was conducted in 2009. The lingcod spawning biomass off Washington and Oregon was estimated to be at 62 percent of its unfished biomass in 2009. The OFL for Washington and Oregon of 1,898 mt is calculated using an FMSY proxy of F45%. The OFL is re-apportioned by adding 48% of the OFL from California, resulting in an OFL of 3,010 mt for the area north of 40°10′ N. lat. The ABC of 2,830 mt is based on a 4.4 percent reduction from the OFL (σ=0.36/P*=0.45) for the area north of 42° N. lat. as it's a category 1 stock, and an 8.7 percent reduction from the OFL (σ=0.72/P*=0.45) for the area between 42° N. lat. and 40°10′ N. lat. as it's a category 2 stock. The ACL is set equal to the ABC. 278 mt is deducted from the ACL for the Tribal fishery (250 mt), the incidental open access fishery (16 mt), EFP catch (0.5 mt) and research catch (11.7 mt), resulting in a fishery HG of 2,552 mt.

t/ Lingcod south. A lingcod stock assessment was conducted in 2009. The lingcod spawning biomass off California was estimated to be at 74 percent of its unfished biomass in 2009. The OFL for California of 2,317 mt is projected in the assessment using an FMSY proxy of F45%. The OFL is re-apportioned by subtracting 48% of the OFL, resulting in an OFL of 1,205 mt for the area south of 40°10′ N. lat. The ABC of 1,004 mt is based on a 16.7 percent reduction from the OFL (σ=0.72/P*=0.40) as it's a category 2 stock. The ACL is set equal to the ABC since the stock is above its target biomass of B40%. 9 mt is deducted from the ACL to accommodate the incidental open access fishery (7 mt), EFP fishing (1 mt), and research catch (1.1 mt), resulting in a fishery HG of 995 mt.

u/ Longnose skate. A stock assessment was conducted in 2007 and the stock was estimated to be at 66 percent of its unfished biomass. The OFL of 2,449 mt is derived from the 2007 stock assessment using an FMSY proxy of F50%. The ABC of 2,341 mt is a 4.4 percent reduction from the OFL (σ=0.36/P*=0.45) as it's a category 1 stock. The ACL of 2,000 mt is a fixed harvest level that provides greater access to the stock and is less than the ABC. 73 mt is deducted from the ACL to accommodate the Tribal fishery (56 mt), incidental open access fishery (3.8 mt), and research catch (13.2 mt), resulting in a fishery HG of 1,927 mt.

v/ Longspine thornyhead. A 2013 longspine thornyhead coastwide stock assessment estimated the stock to be at 75 percent of its unfished biomass in 2013. A coastwide OFL of 5,007 mt is projected in the 2013 stock assessment using an F50% FMSY proxy. The ABC of 4,171 mt is a 16.7 percent reduction from the OFL (σ=0.72/P*=0.40) as it's a category 2 stock. For the portion of the stock that is north of 34°27′ N. lat., the ACL is 3,170 mt, and is 76 percent of the coastwide ABC based on the average swept-area biomass estimates (2003-2012) from the NMFS NWFSC trawl survey. 47 mt is deducted from the ACL to accommodate the Tribal fishery (30 mt), the incidental open access fishery (3 mt), and research catch (13.5 mt) resulting in a fishery HG of 3,124 mt. For that portion of the stock south of 34°27′ N. lat. the ACL is 1,001 mt and is 24 percent of the coastwide ABC based on the average swept-area biomass estimates (2003-2012) from the NMFS NWFSC trawl survey. 3 mt is deducted from the ACL to accommodate the incidental open access fishery (2 mt), and research catch (1 mt) resulting in a fishery HG of 998 mt.

w/ Pacific cod. The 3,200 mt OFL is based on the maximum level of historic landings. The ABC of 2,221 mt is a 30.6 percent reduction from the OFL (σ=1.44/P*=0.40) as it's a category 3 stock. The 1,600 mt ACL is the OFL reduced by 50 percent as a precautionary adjustment. 509 mt is deducted from the ACL to accommodate the Tribal fishery (500 mt), research catch (7 mt), and the incidental open access fishery (2.0 mt), resulting in a fishery HG of 1,091 mt.

x/ Pacific whiting. Pacific whiting are assessed annually. The final specifications will be determined consistent with the U.S.-Canada Pacific Whiting Agreement and will be announced after the Council's April 2015 meeting.

y/ Sablefish north. A coastwide sablefish stock assessment was conducted in 2011. The coastwide sablefish biomass was estimated to be at 33 percent of its unfished biomass in 2011. The coastwide OFL of 7,857 mt is projected in the 2011 stock assessment using an FMSY proxy of F45%. The ABC of 7,173 mt is an 8.7 percent reduction from the OFL (σ=0.36/P*=0.40). The 40-10 adjustment is applied to the ABC to derive a coastwide ACL value because the stock is in the precautionary zone. This coastwide ACL value is not specified in regulations. The coastwide ACL value is apportioned north and south of 36° N. lat., using the 2003-2010 average estimated swept area biomass from the NMFS NWFSC trawl survey, with 73.6 percent apportioned north of 36° N. lat. and 26.4 percent apportioned south of 36° N. lat. The northern ACL is 4,793 mt and is reduced by 479 mt for the tribal allocation (10 percent of the ACL north of 36° N. lat.). The 479 mt Tribal allocation is reduced by 1.6 percent to account for discard mortality. Detailed sablefish allocations are shown in Table 1c.

z/ Sablefish south. The ACL for the area south of 36° N. lat. is 1,719 mt (26.4 percent of the calculated coastwide ACL value). 5 mt is deducted from the ACL to accommodate the incidental open access fishery (2 mt) and research catch (3 mt), resulting in a fishery HG of 1,714 mt.

aa/ Shortbelly rockfish. A non-quantitative shortbelly rockfish assessment was conducted in 2007. The spawning stock biomass of shortbelly rockfish was estimated to be 67 percent of its unfished biomass in 2005. The OFL of 6,950 mt is based on the estimated MSY in the 2007 stock assessment. The ABC of 5,789 mt is a 16.7 percent reduction of the OFL (σ=0.72/P*=0.40) as it's a category 2 stock. The 500 mt ACL is set to accommodate incidental catch when fishing for co-occurring healthy stocks and in recognition of the stock's importance as a forage species in the California Current ecosystem. 2 mt is deducted from the ACL to accommodate research catch, resulting in a fishery HG of 498 mt.

bb/ Shortspine thornyhead. A 2013 coastwide shortspine thornyhead stock assessment estimated the stock to be at 74.2 percent of its unfished biomass in 2013. A coastwide OFL of 3,203 mt is projected in the 2013 stock assessment using an F50% FMSY proxy. The coastwide ABC of 2,668 mt is a 16.7 percent reduction from the OFL (σ=0.72/P*=0.40) as it's a category 2 stock. For the portion of the stock that is north of 34°27′ N. lat., the ACL is 1,745 mt. The northern ACL is 65.4 percent of the coastwide ABC based on the average swept-area biomass estimates (2003-2012) from the NMFS NWFSC trawl survey. 59 mt is deducted from the ACL to accommodate the Tribal fishery (50 mt), the incidental open access fishery (2 mt), and research catch (7 mt) resulting in a fishery HG of 1,686 mt for the area north of 34°27′ N. lat. For that portion of the stock south of 34°27′ N. lat. the ACL is 923 mt. The southern ACL is 35.6 percent of the coastwide ABC based on the average swept-area biomass estimates (2003-2012) from the NMFS NWFSC trawl survey. 42 mt is deducted from the ACL to accommodate the incidental open access fishery (41 mt) and research catch (1 mt), resulting in a fishery HG of 881 mt for the area south of 34°27′ N. lat.

cc/ Spiny dogfish. A coastwide spiny dogfish stock assessment was conducted in 2011. The coastwide spiny dogfish biomass was estimated to be at 63 percent of its unfished biomass in 2011. The coastwide OFL of 2,523 mt is derived from the 2011 assessment using an FMSY proxy of F50%. The coastwide ABC of 2,101 mt is a 16.7 percent reduction from the OFL (σ=0.72/P*=0.40) as it's a category 2 stock. The ACL is set equal to the ABC because the stock is above its target biomass of B40%. 338 mt is deducted from the ACL to accommodate the Tribal fishery (275 mt), the incidental open access fishery (49.5 mt), EFP catch (1 mt), and research catch (12.5 mt), resulting in a fishery HG of 1,763 mt.

dd/ Splitnose rockfish. A splitnose rockfish coastwide assessment was conducted in 2009 that estimated the stock to be at 66 percent of its unfished biomass in 2009. Splitnose rockfish in the north is managed in the Minor Slope Rockfish complex and with species-specific harvest specifications south of 40°10′ N. lat. The coastwide OFL is projected in the 2009 assessment using an FMSY proxy of F50%. The coastwide OFL is apportioned north and south of 40°10′ N. lat. based on the average 1916-2008 assessed area catch resulting in 64.2 percent of the coastwide OFL apportioned south of 40°10′ N. lat., and 35.8 percent apportioned for the contribution of splitnose rockfish to the northern Minor Slope Rockfish complex. The southern OFL of 1,794 mt results from the apportionment described above. The southern ABC of 1,715 mt is a 4.4 percent reduction from the southern OFL (σ=0.36/P*=0.45) as it's a category 1 stock. The ACL is set equal to the ABC because the stock is estimated to be above its target biomass of B40%. 10.5 mt is deducted from the ACL to accommodate research catch (9 mt) and EFP catch (1.5 mt), resulting in a fishery HG of 1,705 mt.

ee/ Starry Flounder. The stock was assessed in 2005 and was estimated to be above 40 percent of its unfished biomass in 2005 (44 percent in Washington and Oregon, and 62 percent in California). The coastwide OFL of 1,841 mt is derived from the 2005 assessment using an FMSY proxy of F30%. The ABC of 1,534 mt is a 16.7 percent reduction from the OFL (σ=0.72/P*=0.40) as it's a category 2 stock. The ACL is set equal to the ABC because the stock is estimated to be above its target biomass of B25%. 10.3 mt is deducted from the ACL to accommodate the Tribal fishery (2 mt), and the incidental open access fishery (8.3 mt), resulting in a fishery HG of 1,524 mt.

ff/ Widow rockfish. The widow rockfish stock was assessed in 2011 and was estimated to be at 51.1 percent of its unfished biomass in 2011. The OFL of 4,137 mt is projected in the 2011 stock assessment using an F50% FMSY proxy. The ABC of 3,929 mt is a 5 percent reduction from the OFL (σ=0.41/P*=0.45). A unique sigma of 0.41 was calculated for widow rockfish since the variance in estimated biomass was greater than the 0.36 used as a proxy for other category 1 stocks. The ACL could be set equal to the ABC because the stock is above its target biomass of B40%. However, the ACL of 2,000 mt is less than the ABC due to high uncertainty in estimated biomass, yet this level of allowable harvest will allow access to healthy co-occurring species, such as yellowtail rockfish. 120.2 mt is deducted from the ACL to accommodate the Tribal fishery (100 mt), the incidental open access fishery (3.3 mt), EFP catch (9 mt), and research catch (7.9 mt), resulting in a fishery HG of 1,880 mt.

gg/ Yellowtail rockfish. A 2013 yellowtail rockfish stock assessment was conducted for the portion of the population north of 40°10′ N. lat. The estimated stock depletion is 69 percent of its unfished biomass in 2013. The OFL of 7,218 mt is projected in the 2013 stock assessment using an FMSY proxy of F50%. The ABC of 6,590 mt is an 8.7 percent reduction from the OFL (σ=0.72/P*=0.45) as it is a category 2 stock. The ACL is set equal to the ABC because the stock is above its target biomass of B40%. 1,029.6 mt is deducted from the ACL to accommodate the Tribal fishery (1,000 mt), the incidental open access fishery (3 mt), EFP catch (10 mt), and research catch (16.6 mt), resulting in a fishery HG of 5,560 mt.

hh/ Minor Nearshore Rockfish north. The OFL for Minor Nearshore Rockfish north of 40°10′ N. lat. of 88 mt is the sum of the OFL contributions for the component species managed in the complex. The ABCs for the minor rockfish complexes are based on a sigma value of 0.72 for category 2 stocks (i.e., blue rockfish in California, brown rockfish, China rockfish, and copper rockfish) and a sigma value of 1.44 for category 3 stocks (all others) with a P* of 0.45. The resulting ABC of 77 mt is the summed contribution of the ABCs for the component species. The ACL of 69 mt is the sum of contributing ABCs of healthy assessed stocks and unassessed stocks plus the ACL contributions for blue rockfish in California and China rockfish where the 40-10 adjustment was applied to the ABC contributions for these two stocks, because those stocks are in the precautionary zone. No deductions are made to the ACL, thus the fishery HG is equal to the ACL, which is 69 mt. Between 40°10′ N. lat. and 42° N. lat. the Minor Nearshore Rockfish complex north has a harvest guideline of 23.7 mt. Blue rockfish south of 42° N. lat. has a species-specific HG, described in footnote kk/.

ii/ Minor Shelf Rockfish north. The OFL for Minor Shelf Rockfish north of 40°10′ N. lat. of 2,209 mt is the sum of the OFL contributions for the component species within the complex. The ABCs for the minor rockfish complexes are based on a sigma value of 0.72 for category 2 stocks (i.e., greenspotted rockfish between 40°10′ and 42° N. lat. and greenstriped rockfish) and a sigma value of 1.44 for category 3 stocks (all others) with a P* of 0.45. The resulting ABC of 1,944 mt is the summed contribution of the ABCs for the component species. The ACL of 1,944 mt is the sum of contributing ABCs of healthy assessed stocks and unassessed stocks, plus the ACL contribution of greenspotted rockfish in California where the 40-10 adjustment was applied to the ABC contribution because the stock is in the precautionary zone (the ACL is slightly less than the ABC but rounds to the ABC value). 72 mt is deducted from the ACL to accommodate the Tribal fishery (30 mt), the incidental open access fishery (26 mt), EFP catch (3 mt), and research catch (13.4 mt), resulting in a fishery HG of 1,872 mt.

jj/ Minor Slope Rockfish north. The OFL for Minor Slope Rockfish north of 40°10′ N. lat. of 1,831 mt is the sum of the OFL contributions for the component species within the complex. The ABCs for the Minor Slope Rockfish complexes are based on a sigma value of 0.39 for aurora rockfish, a sigma value of 0.36 for other category 1 stocks (i.e., splitnose rockfish), a sigma value of 0.72 for category 2 stocks (i.e., rougheye rockfish, blackspotted rockfish and sharpchin rockfish), and a sigma value of 1.44 for category 3 stocks (all others) with a P* of 0.45. A unique sigma of 0.39 was calculated for aurora rockfish since the variance in estimated spawning biomass was greater than the 0.36 used as a proxy for other category 1 stocks. The resulting ABC of 1,693 mt is the summed contribution of the ABCs for the component species. The ACL is set equal to the ABC because all the assessed component stocks are above the target biomass of B40%. 64 mt is deducted from the ACL to accommodate the Tribal fishery (36 mt), the incidental open access fishery (19 mt), EFP catch (1 mt), and research catch (8.1 mt), resulting in a fishery HG of 1,629 mt.

kk/ Minor Nearshore Rockfish south. The OFL for the Minor Nearshore Rockfish complex south of 40°10′ N. lat. of 1,313 mt is the sum of the OFL contributions for the component species within the complex. The ABC for the southern Minor Nearshore Rockfish complex is based on a sigma value of 0.36 for category 1 stocks (i.e., gopher rockfish north of 34°27′ N. lat.), a sigma value of 0.72 for category 2 stocks (i.e., blue rockfish north of 34°27′ N. lat., brown rockfish, China rockfish, and copper rockfish), and a sigma value of 1.44 for category 3 stocks (all others) with a P* of 0.45. The resulting ABC of 1,169 mt is the summed contribution of the ABCs for the component species. The ACL of 1,114 mt is the sum of contributing ABCs of healthy assessed stocks and unassessed stocks, plus the ACL contribution for blue rockfish north of 34°27′ N. lat. where the 40-10 adjustment was applied to the ABC contribution for this stock because it is in the precautionary zone. 4 mt is deducted from the ACL to accommodate the incidental open access fishery (1.4 mt) and research catch (2.6 mt), resulting in a fishery HG of 1,110 mt. Blue rockfish south of 42° N. lat. has a species-specific HG set equal to the 40-10-adjusted ACL for the portion of the stock north of 34°27′ N lat. (133.6 mt) plus the ABC contribution for the unassessed portion of the stock south of 34°27′ N lat. (60.8 mt). The California (i.e., south of 42° N. lat.) blue rockfish HG is 194.4 mt.

ll/ Minor Shelf Rockfish south. The OFL for the Minor Shelf Rockfish complex south of 40°10′ N. lat. of 1,918 mt is the sum of the OFL contributions for the component species within the complex. The ABCs for the southern Minor Shelf Rockfish complex is based on a sigma value of 0.72 for category 2 stocks (i.e., greenspotted and greenstriped rockfish) and a sigma value of 1.44 for category 3 stocks (all others) with a P* of 0.45. The resulting ABC of 1,625 mt is the summed contribution of the ABCs for the component species. The ACL of 1,624 mt is the sum of contributing ABCs of healthy assessed stocks and unassessed stocks, plus the ACL contribution of greenspotted rockfish in California where the 40-10 adjustment was applied to the ABC contribution for this stock because it is in the precautionary zone. 49 mt is deducted from the ACL to accommodate the incidental open access fishery (9 mt), EFP catch (30 mt), and research catch (9.6 mt), resulting in a fishery HG of 1,575 mt.

mm/ Minor Slope Rockfish south. The OFL for the Minor Slope Rockfish complex south of 40°10′ N. lat. of 813 mt is the sum of the OFL contributions for the component species within the complex. The ABC for the southern Minor Slope Rockfish complex is based on a sigma value of 0.39 for aurora rockfish, a sigma value of 0.72 for category 2 stocks (i.e., blackgill rockfish, rougheye rockfish, blackspotted rockfish, and sharpchin rockfish), and a sigma value of 1.44 for category 3 stocks (all others) with a P* of 0.45. A unique sigma of 0.39 was calculated for aurora rockfish since the variance in estimated biomass was greater than the 0.36 used as a proxy for other category 1 stocks. The resulting ABC of 705 mt is the summed contribution of the ABCs for the component species. The ACL of 693 mt is the sum of contributing ABCs of healthy assessed stocks and unassessed stocks, plus the ACL contribution of blackgill rockfish where the 40-10 adjustment was applied to the ABC contribution for this stock because it is in the precautionary zone. 20 mt is deducted from the ACL to accommodate the incidental open access fishery (17 mt), EFP catch (1 mt), and research catch (2 mt), resulting in a fishery HG of 673 mt. Blackgill rockfish has a species-specific HG set equal to the species' contribution to 40-10-adjusted ACL. The blackgill rockfish HG is 114 mt.

nn/ Other Flatfish. The Other Flatfish complex is comprised of flatfish species managed in the PCGFMP that are not managed with species-specific OFLs/ABCs/ACLs. Most of the species in the Other Flatfish complex are unassessed and include butter sole, curlfin sole, flathead sole, Pacific sanddab (assessed in 2013 but the assessment results were too uncertain to inform harvest specifications), rock sole, sand sole, and rex sole (assessed in 2013). The Other Flatfish OFL of 11,453 mt is based on the sum of the OFL contributions of the component stocks. The ABC of 8,749 mt is based on a sigma value of 0.72 for category 2 stocks (i.e., rex sole) and a sigma value of 1.44 for category 3 stocks (all others) with a P* of 0.40. The ACL is set equal to the ABC since all of the assessed stocks (i.e., Pacific sanddabs and rex sole) were above their target biomass of B25%. 204 mt is deducted from the ACL to accommodate the Tribal fishery (60 mt), the incidental open access fishery (125 mt), and research catch (19 mt), resulting in a fishery HG of 8,545 mt.

oo/ Other Fish. The Other Fish complex is comprised of kelp greenling coastwide, cabezon off Washington, and leopard shark coastwide. These species are unassessed. The OFL of 291 mt is the sum of the OFL contributions for kelp greenling off California (the SSC has not approved methods for calculating the OFL contributions for kelp greenling off Oregon and Washington), cabezon off Washington, and leopard shark coastwide. The ABC of 242 mt is the sum of ABC contributions for kelp greenling off California, cabezon off Washington and leopard shark coastwide calculated by applying a P* of 0.45 and a sigma of 1.44 to the OFL contributions for those stocks. The ACL is set equal to the ABC. There are no deductions from the ACL so the fishery HG is equal to the ACL of 242 mt.

BILLING CODE 3510-22-P

* * * * *

10. Tables 2a through 2d, Subpart C, are revised to read as follows:

BILLING CODE 3510-22-P

ᵃ Annual catch limits (ACLs), annual catch targets (ACTs) and harvest guidelines (HGs) are specified as total catch values.

ᵇ Fishery harvest guidelines means the harvest guideline or quota after subtracting Pacific Coast treaty Indian tribes allocations and projected catch, projected research catch, deductions for fishing mortality in non-groundfish fisheries, and deductions for EFPs from the ACL or ACT.

ᶜ Bocaccio. A bocaccio stock assessment update was conducted in 2013 for the bocaccio stock between the U.S.-Mexico border and Cape Blanco. The stock is managed with stock-specific harvest specifications south of 40°10′ N. lat. and within the Minor Shelf Rockfish complex north of 40°10′ N. lat. A historical catch distribution of approximately 6 percent was used to apportion the assessed stock to the area north of 40°10′ N. lat. The bocaccio stock was estimated to be at 31.4 percent of its unfished biomass in 2013. The OFL of 1,351 mt is projected in the 2013 stock assessment using an FMSY proxy of F50%. The ABC of 1,291 mt is a 4.4 percent reduction from the OFL (σ=0.36/P*=0.45) as it's a category 1 stock. The 362 mt ACL is based on the current rebuilding plan with a target year to rebuild of 2022 and an SPR harvest rate of 77.7 percent. 8.3 mt is deducted from the ACL to accommodate the incidental open access fishery (0.7 mt), EFP catch (3.0 mt) and research catch (4.6 mt), resulting in a fishery HG of 353.7 mt. The California recreational fishery has an HG of 185.6 mt.

ᵈ Canary rockfish. A canary rockfish stock assessment update was conducted in 2011 and the stock was estimated to be at 23.2 percent of its unfished biomass coastwide in 2011. The coastwide OFL of 729 mt is projected in the 2011 rebuilding analysis using an FMSY proxy of F50%. The ABC of 697 mt is a 4.4 percent reduction from the OFL (σ=0.36/P*=0.45) as it's a category 1 stock. The ACL of 125 mt is based on the current rebuilding plan with a target year to rebuild of 2030 and an SPR harvest rate of 88.7 percent. 15.2 mt is deducted from the ACL to accommodate the Tribal fishery (7.7 mt), the incidental open access fishery (2 mt), EFP catch (1.0 mt) and research catch (4.5 mt) resulting in a fishery HG of 109.8 mt. Recreational HGs are: 3.5 mt (Washington); 12.0 mt (Oregon); and 25.0 mt (California).

ᵉ Cowcod. A stock assessment for the Conception Area was conducted in 2013 and the stock was estimated to be 33.9 percent of its unfished biomass in 2013. The Conception Area OFL of 56.4 mt is projected in the 2013 rebuilding analysis using an FMSY proxy of F50%. The OFL of 12.0 mt for the unassessed portion of the stock in the Monterey area is based on depletion-based stock reduction analysis. The OFLs for the Monterey and Conception areas were summed to derive the south of 40°10′ N. lat. OFL of 68.4 mt. The ABC for the area south of 40°10′ N. lat. is 61.5 mt. The assessed portion of the stock in the Conception Area is considered category 2, with a Conception Area contribution to the ABC of 51.5 mt, which is an 8.7 percent reduction from the Conception area OFL (σ=0.72/P*=0.45). The unassessed portion of the stock in the Monterey area is considered a category 3 stock, with a contribution to the ABC of 10.0 mt, which is a 17 percent reduction from the Monterey area OFL (σ=1.44/P*=0.45). A single ACL of 10.0 mt is being set for both areas combined. The ACL of 10.0 mt is based on the rebuilding plan with a target year to rebuild of 2020 and an SPR harvest rate of 82.7 percent, which is equivalent to an exploitation rate (catch over age 11+ biomass) of 0.007. 2.0 mt is deducted from the ACL to accommodate EFP fishing (less than 0.02 mt) and research activity (2.0 mt), resulting in a fishery HG of 8.0 mt. Any additional mortality in research activities will be deducted from the ACL. A single ACT of 4.0 mt is being set for both areas combined.

ᶠ Darkblotched rockfish. A 2013 stock assessment estimated the stock to be at 36 percent of its unfished biomass in 2013. The OFL of 580 mt is projected in the 2013 stock assessment using an FMSY proxy of F50%.The ABC of 554 mt is a 4.4 percent reduction from the OFL (σ=0.36/P*=0.45) as it's a category 1 stock. The ACL of 346 mt is based on the current rebuilding plan with a target year to rebuild of 2025 and an SPR harvest rate of 64.9 percent. 20.8 mt is deducted from the ACL to accommodate the Tribal fishery (0.2 mt), the incidental open access fishery (18.4 mt), EFP catch (0.1 mt) and research catch (2.1 mt), resulting in a fishery HG of 325.2 mt.

ᵍ Pacific Ocean Perch. A POP stock assessment was conducted in 2011 and the stock was estimated to be at 19.1 percent of its unfished biomass in 2011. The OFL of 850 mt for the area north of 40°10′ N. lat. is projected in the 2011 rebuilding analysis using an F50% FMSY proxy. The ABC of 850 mt is a 4.4 percent reduction from the OFL (σ=0.36/P*=0.45) as it's a category 1 stock. The ACL of 164 mt is based on the current rebuilding plan with a target year to rebuild of 2051 and an SPR harvest rate of 86.4 percent. 15 mt is deducted from the ACL to accommodate the Tribal fishery (9.2 mt), the incidental open access fishery (0.6 mt), and research catch (5.2 mt), resulting in a fishery HG of 149.0 mt.

ʰ Petrale sole. A 2013 stock assessment estimated the stock to be at 22.3 percent of its unfished biomass in 2013. The OFL of 3,044 mt is projected in the 2013 assessment using an F30% FMSY proxy. The ABC of 2,910 mt is a 4.4 percent reduction from the OFL (σ=0.36/P*=0.45) as it's a category 1 stock. The ACL is based on the 25-5 harvest control rule specified in the current rebuilding plan; since the stock is projected to be rebuilt at the start of 2014, the ACL is set equal to the ABC. 236.6 mt is deducted from the ACL to accommodate the Tribal fishery (220 mt), the incidental open access fishery (2.4 mt), and research catch (14.2 mt), resulting in a fishery HG of 2,673.4 mt.

ⁱ Yelloweye rockfish. A stock assessment update was conducted in 2011. The stock was estimated to be at 21.4 percent of its unfished biomass in 2011. The 52 mt coastwide OFL was projected in the 2011 rebuilding analysis using an FMSY proxy of F50%. The ABC of 43 mt is a 16.77 percent reduction from the OFL (σ=0.72/P*=0.40) as it's a category 2 stock. The 19 mt ACL is based on the current rebuilding plan with a target year to rebuild of 2074 and an SPR harvest rate of 76.0 percent. 5.8 mt is deducted from the ACL to accommodate the Tribal fishery (2.3 mt), the incidental open access fishery (0.2 mt), EFP catch (0.03 mt) and research catch (3.3 mt) resulting in a fishery HG of 13.2 mt. Recreational HGs are being established: 3.1 mt (Washington); 2.8 mt (Oregon); and 3.7 mt (California).

ʲ Arrowtooth flounder. The arrowtooth flounder stock was last assessed in 2007 and was estimated to be at 79 percent of its unfished biomass in 2007. The OFL of 6,396 mt is derived from the 2007 assessment using an F30% FMSY proxy. The ABC of 5,328 mt is a 16.7 percent reduction from the OFL (σ=0.72/P*=0.40) as it's a category 2 stock. The ACL is set equal to the ABC because the stock is above its target biomass of B25%. 2,087 mt is deducted from the ACL to accommodate the Tribal fishery (2,041 mt), the incidental open access fishery (30 mt), and research catch (16.4 mt), resulting in a fishery HG of 3,241 mt.

ᵏ Black rockfish south (Oregon and California). A stock assessment was conducted for black rockfish south of 45°46′ N. lat. (Cape Falcon, Oregon) to Central California (i.e., the southern-most extent of black rockfish, Love et al. 2002) in 2007. The biomass in the south was estimated to be at 70 percent of its unfished biomass in 2007. The OFL from the assessed area is derived from the 2007 assessment using an FMSY harvest rate proxy of F50% plus 3 percent of the OFL from the stock assessment conducted for black rockfish north of 45°46′ N. lat., to cover the portion of the stock occurring off Oregon north of Cape Falcon (the 3% adjustment is based on historical catch distribution). The resulting OFL for the area south of 46°16′ N. lat. is 1,183 mt. The ABC of 1,131 mt is a 4.4 percent reduction from the OFL (σ=0.36/P*=0.45) as it's a category 1 stock. The 2016 ACL is 1,000 mt, which maintains the constant catch strategy designed to keep the stock above its target biomass of B40%. 1 mt is deducted from the ACL to accommodate EFP catch, resulting in a fishery HG of 999 mt. The black rockfish ACL, in the area south of 46°16′ N. lat. (Columbia River), is subdivided with separate HGs for waters off Oregon (579 mt/58 percent) and for waters off California (420 mt/42 percent).

ˡ Black rockfish north (Washington). A stock assessment was conducted for black rockfish north of 45°46′ N. lat. (Cape Falcon, Oregon) in 2007. The biomass in the north was estimated to be at 53 percent of its unfished biomass in 2007. The OFL from the assessed area is derived from the 2007 assessment using an FMSY harvest rate proxy of F50%. The resulting OFL for the area north of 46°16′ N. lat. is 423 mt and is 97 percent of the OFL from the assessed area based on the area distribution of historical catch. The ABC of 404 mt for the north is a 4.4 percent reduction from the OFL (σ=0.36/P*=0.45) as it's a category 1 stock. The ACL is set equal to the ABC since the stock is above its target biomass of B40%. 14 mt is deducted from the ACL to accommodate the Tribal fishery, resulting in a fishery HG of 390 mt.

ᵐ Cabezon (California). A cabezon stock assessment was conducted in 2009. The cabezon spawning biomass in waters off California was estimated to be at 48.3 percent of its unfished biomass in 2009. The OFL of 158 mt is calculated using an FMSY proxy of F45%. The ABC of 151 mt is based on a 4.4 percent reduction from the OFL (σ=0.36/P*=0.45) as it's a category 1 stock. The ACL is set equal to the ABC because the stock is above its target biomass of B40%. There are no deductions from the ACL so the fishery HG is equal to the ACL of 151 mt.

ⁿ Cabezon (Oregon). A cabezon stock assessment was conducted in 2009. The cabezon spawning biomass in waters off Oregon was estimated to be at 52 percent of its unfished biomass in 2009. The OFL of 49 mt is calculated using an FMSY proxy of F45%. The ABC of 47 mt is based on a 4.4 percent reduction from the OFL (σ=0.36/P*=0.45) as it's a category 1 species. The ACL is set equal to the ABC because the stock is above its target biomass of B40%. There are no deductions from the ACL so the fishery HG is also equal to the ACL of 47 mt.

ᵒ California scorpionfish was assessed in 2005 and was estimated to be at 79.8 percent of its unfished biomass in 2005. The OFL of 117 mt is projected in the 2005 assessment using an FMSY harvest rate proxy of F50%. The ABC of 111 mt is a 4.4 percent reduction from the OFL (σ=0.36/P*=0.45) as it's a category 1 stock. The ACL is set equal to the ABC because the stock is above its target biomass of B40%. 2 mt is deducted from the ACL to accommodate the incidental open access fishery, resulting in a fishery HG of 109 mt.

ᵖ Chilipepper. The coastwide chilipepper stock was assessed in 2007 and estimated to be at 70 percent of its unfished biomass in 2006. Chilipepper are managed with stock-specific harvest specifications south of 40°10′ N. lat. and within the Minor Shelf Rockfish complex north of 40°10′ N. lat. Projected OFLs are stratified north and south of 40°10′ N. lat. based on the average 1998-2008 assessed area catch, which is 93 percent for the area south of 40°10′ N. lat. and 7 percent for the area north of 40°10′ N. lat. The OFL of 1,694 mt for the area south of 40°10′ N. lat. is projected in the 2007 assessment using an FMSY proxy of F50%. The ABC of 1,619 mt is a 4.4 percent reduction from the OFL (σ=0.36/P*=0.45) as it's a category 1 stock. The ACL is set equal to the ABC because the stock is above its target biomass of B40%. 24 mt is deducted from the ACL to accommodate the incidental open access fishery (5 mt), EFP fishing (10 mt), and research catch (9 mt), resulting in a fishery HG of 1,595 mt.

q Dover sole. A 2011 Dover sole assessment estimated the stock to be at 83.7 percent of its unfished biomass in 2011. The OFL of 59,221 mt is projected in the 2011 stock assessment using an FMSY proxy of F30%. The ABC of 56,615 mt is a 4.4 percent reduction from the OFL (σ=0.36/P*=0.45) as it's a category 1 stock. The ACL could be set equal to the ABC because the stock is above its target biomass of B25%. However, the ACL of 50,000 mt is set at a level below the ABC and higher than the maximum historical landed catch. 1,594 mt is deducted from the ACL to accommodate the Tribal fishery (1,497 mt), the incidental open access fishery (55 mt), and research catch (41.9 mt), resulting in a fishery HG of 48,406 mt.

ʳ English sole. A 2013 stock assessment was conducted, which estimated the stock to be at 88 percent of its unfished biomass in 2013. The OFL of 7890 mt is projected in the 2013 assessment using an FMSY proxy of F30%. The ABC of 7,204 mt is an 8.7 percent reduction from the OFL (σ=0.72/P*=0.45) as it is a category 2 stock. The ACL could be set equal to the ABC because the stock is above its target biomass of B25%. 213 mt is deducted from the ACL to accommodate the Tribal fishery (200 mt), the incidental open access fishery (7 mt) and research catch (5.8 mt), resulting in a fishery HG of 6,991 mt.

ˢ Lingcod north. A lingcod stock assessment was conducted in 2009. The lingcod spawning biomass off Washington and Oregon was estimated to be at 62 percent of its unfished biomass in 2009. The OFL for Washington and Oregon of 1,842 mt is calculated using an FMSY proxy of F45%. The OFL is re-apportioned by adding 48% of the OFL from California, resulting in an OFL of 2,891 mt for the area north of 40°10′ N. lat. The ABC of 2,719 mt is based on a 4.4 percent reduction from the OFL (σ=0.36/P*=0.45) for the area north of 42° N. lat. as it's a category 1 stock, and an 8.7 percent reduction from the OFL (σ=0.72/P*=0.45) for the area between 42° N. lat. and 40°10′ N. lat., as it's a category 2 stock. The ACL is set equal to the ABC since the stock is above its target biomass of B40%. 278 mt is deducted from the ACL to accommodate the Tribal fishery (250 mt), the incidental open access fishery (16 mt), EFP catch (0.5 mt) and research catch (11.7 mt), resulting in a fishery HG of 2,441 mt.

ᵗ Lingcod south . A lingcod stock assessment was conducted in 2009. The lingcod spawning biomass off California was estimated to be at 74 percent of its unfished biomass in 2009. The OFL for California of 2,185 mt is projected in the assessment using an FMSY proxy of F45%. The OFL is re-apportioned by subtracting 48% of the OFL, resulting in an OFL of 1,136 mt for the area south of 40°10′ N. lat. The ABC of 946 mt is based on a 16.7 percent reduction from the OFL (σ=0.72/P*=0.40) as it's a category 2 stock. The ACL is set equal to the ABC since the stock is above its target biomass of B40%. 9 mt is deducted from the ACL to accommodate the incidental open access fishery (7 mt), EFP fishing (1 mt), and research catch (1.1 mt), resulting in a fishery HG of 937 mt.

ᵘ Longnose skate. A stock assessment was conducted in 2007 and the stock was estimated to be at 66 percent of its unfished biomass. The OFL of 2,405 mt is derived from the 2007 stock assessment using an FMSY proxy of F50%. The ABC of 2,299 mt is a 4.4 percent reduction from the OFL (σ=0.36/P*=0.45) as it's a category 1 stock. The ACL of 2,000 mt is a fixed harvest level that provides greater access to the stock and is less than the ABC. 73 mt is deducted from the ACL to accommodate the Tribal fishery (56 mt), incidental open access fishery (3.8 mt), and research catch (13.2 mt), resulting in a fishery HG of 1,927 mt.

ᵛ Longspine thornyhead. A 2013 longspine thornyhead coastwide stock assessment estimated the stock to be at 75 percent of its unfished biomass in 2013. A coastwide OFL of 4,763 mt is projected in the 2013 stock assessment using an F50% FMSY proxy. The ABC of 3,968 mt is a 16.7 percent reduction from the OFL (σ=0.72/P*=0.40) as it's a category 2 stock. For the portion of the stock that is north of 34°27′ N. lat., the ACL is 3,015 mt, and is 76 percent of the coastwide ABC based on the average swept-area biomass estimates (2003-2012) from the NMFS NWFSC trawl survey. 46 mt is deducted from the ACL to accommodate the Tribal fishery (30 mt), the incidental open access fishery (3 mt), and research catch (13.5 mt) resulting in a fishery HG of 2,969 mt. For that portion of the stock south of 34°27′ N. lat. the ACL is 952 mt and is 24 percent of the coastwide ABC based on the average swept-area biomass estimates (2003-2012) from the NMFS NWFSC trawl survey. 3 mt is deducted from the ACL to accommodate the incidental open access fishery (2 mt), and research catch (1 mt) resulting in a fishery HG of 949 mt.

ʷ Pacific cod. The 3,200 mt OFL is based on the maximum level of historic landings. The ABC of 2,221 mt is a 30.6 percent reduction from the OFL (σ=1.44/P*=0.40) as it's a category 3 stock. The 1,600 mt ACL is the OFL reduced by 50 percent as a precautionary adjustment. 509 mt is deducted from the ACL to accommodate the Tribal fishery (500 mt), research catch (7 mt), and the incidental open access fishery (2.0 mt), resulting in a fishery HG of 1,091 mt.

ˣ Pacific whiting. Pacific whiting are assessed annually. The final specifications will be determined consistent with the U.S.-Canada Pacific Whiting Agreement and will be announced after the Council's April 2016 meeting.

ʸ Sablefish north. A coastwide sablefish stock assessment was conducted in 2011. The coastwide sablefish biomass was estimated to be at 33 percent of its unfished biomass in 2011. The coastwide OFL of 8,526 mt is projected in the 2011 stock assessment using an FMSY proxy of F45%. The ABC of 7,784 mt is an 8.7 percent reduction from the OFL (σ=0.36/P*=0.40). The 40-10 adjustment was applied to the ABC to derive a coastwide ACL value because the stock is in the precautionary zone. This coastwide ACL value is not specified in regulations. The coastwide ACL value is apportioned north and south of 36° N. lat., using the 2003-2010 average estimated swept area biomass from the NMFS NWFSC trawl survey, with 73.6 percent apportioned north of 36° N. lat. and 26.4 percent apportioned south of 36° N. lat. The northern ACL is 5,241 mt and is reduced by 524 mt for the tribal allocation (10 percent of the ACL north of 36° N. lat.). The 524 mt Tribal allocation is reduced by 1.6 percent to account for discard mortality. Detailed sablefish allocations are shown in Table 1c.

ᶻ Sablefish south. The ACL for the area south of 36° N. lat. is 1,880 mt (26.4 percent of the calculated coastwide ACL value). 5 mt is deducted from the ACL to accommodate the incidental open access fishery (2 mt) and research catch (3 mt), resulting in a fishery HG of 1,875 mt.

ᵃᵃ Shortbelly rockfish. A non-quantitative shortbelly rockfish assessment was conducted in 2007. The spawning stock biomass of shortbelly rockfish was estimated to be 67 percent of its unfished biomass in 2005. The OFL of 6,950 mt is based on the estimated MSY in the 2007 stock assessment. The ABC of 5,789 mt is a 16.7 percent reduction of the OFL (σ=0.72/P*=0.40) as it's a category 2 stock. The 500 mt ACL is set to accommodate for incidental catch when fishing for co-occurring healthy stocks and in recognition of the stock's importance as a forage species in the California Current ecosystem. 2 mt is deducted from the ACL to accommodate research catch, resulting in a fishery HG of 498 mt.

ᵇᵇ Shortspine thornyhead. A 2013 coastwide shortspine thornyhead stock assessment estimated the stock to be at 74.2 percent of its unfished biomass in 2013. A coastwide OFL of 3,169 mt is projected in the 2013 stock assessment using an F50% FMSY proxy. The coastwide ABC of 2,640 mt is a 16.7 percent reduction from the OFL (σ=0.72/P*=0.40) as it's a category 2 stock. For the portion of the stock that is north of 34°27′ N. lat., the ACL is 1,726 mt. The northern ACL is 65.4 percent of the coastwide ABC based on the average swept-area biomass estimates (2003-2012) from the NMFS NWFSC trawl survey 59 mt is deducted from the ACL to accommodate the Tribal fishery (50 mt), the incidental open access fishery (2 mt), and research catch (7 mt) resulting in a fishery HG of 1,667 mt for the area north of 34°27′ N. lat. For that portion of the stock south of 34°27′ N. lat. the ACL is 913 mt. The southern ACL is 35.6 percent of the coastwide ABC based on the average swept-area biomass estimates (2003-2012) from the NMFS NWFSC trawl survey. 42 mt is deducted from the ACL to accommodate the incidental open access fishery (41 mt) and research catch (1 mt), resulting in a fishery HG of 871 mt for the area south of 34°27′ N. lat.

ᶜᶜ Spiny dogfish. A coastwide spiny dogfish stock assessment was conducted in 2011. The coastwide spiny dogfish biomass was estimated to be at 63 percent of its unfished biomass in 2011. The coastwide OFL of 2,503 mt is derived from the 2011 assessment using an FMSY proxy of F50%. The coastwide ABC of 2,085 mt is a 16.7 percent reduction from the OFL (σ=0.72/P*=0.40) as it's a category 2 stock. The ACL is set equal to the ABC because the stock is above its target biomass of B40%. 338 mt is deducted from the ACL to accommodate the Tribal fishery (275 mt), the incidental open access fishery (49.5 mt), EFP catch (1 mt), and research catch (12.5 mt), resulting in a fishery HG of 1,747 mt.

ᵈᵈ Splitnose rockfish. A splitnose rockfish coastwide assessment was conducted in 2009 that estimated the stock to be at 66 percent of its unfished biomass in 2009. Splitnose rockfish in the north is managed in the Minor Slope Rockfish complex and with species-specific harvest specifications south of 40°10′ N. lat. The coastwide OFL is projected in the 2009 assessment using an FMSY proxy of F50%. The coastwide OFL is apportioned north and south of 40°10′ N. lat. based on the average 1916-2008 assessed area catch resulting in 64.2 percent of the coastwide OFL apportioned south of 40°10′ N. lat., and 35.8 percent apportioned for the contribution of splitnose rockfish to the northern Minor Slope Rockfish complex. The southern OFL of 1,826 mt results from the apportionment described above. The southern ABC of 1,746 mt is a 4.4 percent reduction from the southern OFL (σ=0.36/P*=0.45) as it's a category 1 stock. The ACL is set equal to the ABC because the stock is estimated to be above its target biomass of B40%. 110.5 mt is deducted from the ACL to accommodate research catch (9 mt) and EFP catch (1.5 mt), resulting in a fishery HG of 1,736 mt.

ᵉᵉ Starry Flounder. The stock was assessed in 2005 and was estimated to be above 40 percent of its unfished biomass in 2005 (44 percent in Washington and Oregon, and 62 percent in California). The coastwide OFL of 1,847 mt is derived from the 2005 assessment using an FMSY proxy of F30%. The ABC of 1,539 mt is a 16.7 percent reduction from the OFL (σ=0.72/P*=0.40) as it's a category 2 stock. The ACL is set equal to the ABC because the stock is estimated to be above its target biomass of B25%. 10.3 mt is deducted from the ACL to accommodate the Tribal fishery (2 mt), and the incidental open access fishery (8.3 mt), resulting in a fishery HG of 1,529 mt.

ᶠᶠ Widow rockfish. The widow rockfish stock was assessed in 2011 and was estimated to be at 51.1 percent of its unfished biomass in 2011. The OFL of 3,990 mt is projected in the 2011 stock assessment using an F50% FMSY proxy. The ABC of 3,790 mt is a 5 percent reduction from the OFL (σ=0.41/P*=0.45). A unique sigma of 0.41 was calculated for widow rockfish since the variance in estimated biomass was greater than the 0.36 used as a proxy for other category 1 stocks. The ACL could be set equal to the ABC because the stock is above its target biomass of B40%. However, the ACL of 2,000 mt is less than the ABC due to high uncertainty in estimated biomass, yet this level of allowable harvest will allow access to healthy co-occurring species, such as yellowtail rockfish. 120.2 mt is deducted from the ACL to accommodate the Tribal fishery (100 mt), the incidental open access fishery (3.3 mt), EFP catch (9 mt), and research catch (7.9 mt), resulting in a fishery HG of 1,880 mt.

ᵍᵍ Yellowtail rockfish. A 2013 yellowtail rockfish stock assessment was conducted for the portion of the population north of 40°10′ N. lat. The estimated stock depletion is 69 percent of its unfished biomass in 2013. The OFL of 6,949 mt is projected in the 2013 stock assessment using an FMSY proxy of F50%. The ABC of 6,344 mt is an 8.7 percent reduction from the OFL (σ=0.72/P*=0.45) as it is a category 2 stock. The ACL is set equal to the ABC because the stock is above its target biomass of B40%. 1,029.6 mt is deducted from the ACL to accommodate the Tribal fishery (1,000 mt), the incidental open access fishery (3 mt), EFP catch (10 mt) and research catch (16.6 mt), resulting in a fishery HG of 5,314 mt.

ʰʰ Minor Nearshore Rockfish north. The OFL for Minor Nearshore Rockfish north of 40°10′ N. lat. of 88 mt is the sum of the OFL contributions for the component species managed in the complex. The ABCs for the minor rockfish complexes are based on a sigma value of 0.72 for category 2 stocks (i.e., blue rockfish in California, brown rockfish, China rockfish, and copper rockfish) and a sigma value of 1.44 for category 3 stocks (all others) with a P* of 0.45. The resulting ABC of 77 mt is the summed contribution of the ABCs for the component species. The ACL of 69 mt is the sum of contributing ABCs of healthy assessed stocks and unassessed stocks, plus the ACL contributions for blue rockfish in California and China rockfish where the 40-10 adjustment was applied to the ABC contributions for these two stocks because they are in the precautionary zone. No deductions are made to the ACL, thus the fishery HG is equal to the ACL, which is 69 mt. Between 40°10′ N. lat. and 42° N. lat. the Minor Nearshore Rockfish complex north has a harvest guideline of 23.7 mt. Blue rockfish south of 42° N. lat. has a species-specific HG, described in footnote kk/.

ⁱⁱ Minor Shelf Rockfish north. The OFL for Minor Shelf Rockfish north of 40°10′ N. lat. of 2,218 mt is the sum of the OFL contributions for the component species within the complex. The ABCs for the minor rockfish complexes are based on a sigma value of 0.72 for category 2 stocks (i.e., greenspotted rockfish between 40°10′ and 42° N. lat. and greenstriped rockfish) and a sigma value of 1.44 for category 3 stocks (all others) with a P* of 0.45. The resulting ABC of 1,953 mt is the summed contribution of the ABCs for the component species. The ACL of 1,952 mt is the sum of contributing ABCs of healthy assessed stocks and unassessed stocks, plus the ACL contribution of greenspotted rockfish in California where the 40-10 adjustment was applied to the ABC contribution for this stock because it is in the precautionary zone. 72 mt is deducted from the ACL to accommodate the Tribal fishery (30 mt), the incidental open access fishery (26 mt), EFP catch (3 mt), and research catch (13.4 mt), resulting in a fishery HG of 1,880 mt.

ʲʲ Minor Slope Rockfish north. The OFL for Minor Slope Rockfish north of 40°10′ N. lat. of 1,844 mt is the sum of the OFL contributions for the component species within the complex. The ABCs for the Minor Slope Rockfish complexes are based on a sigma value of 0.39 for aurora rockfish, a sigma value of 0.36 for other category 1 stocks (i.e., splitnose rockfish), a sigma value of 0.72 for category 2 stocks (i.e., rougheye rockfish, blackspotted rockfish and sharpchin rockfish), and a sigma value of 1.44 for category 3 stocks (all others) with a P* of 0.45. A unique sigma of 0.39 was calculated for aurora rockfish since the variance in estimated spawning biomass was greater than the 0.36 used as a proxy for other category 1 stocks. The resulting ABC of 1,706 mt is the summed contribution of the ABCs for the component species. The ACL is set equal to the ABC because all the assessed component stocks are above the target biomass of B40%. 64 mt is deducted from the ACL to accommodate the Tribal fishery (36 mt), the incidental open access fishery (19 mt), EFP catch (1 mt), and research catch (8.1 mt), resulting in a fishery HG of 1,642 mt.

ᵏᵏ Minor Nearshore Rockfish south. The OFL for the Minor Nearshore Rockfish complex south of 40°10′ N. lat. of 1,288 mt is the sum of the OFL contributions for the component species within the complex. The ABC for the southern Minor Nearshore Rockfish complex is based on a sigma value of 0.36 for category 1 stocks (i.e., gopher rockfish north of 34°27′ N. lat.), a sigma value of 0.72 for category 2 stocks (i.e., blue rockfish north of 34°27′ N. lat., brown rockfish, China rockfish and copper rockfish) and a sigma value of 1.44 for category 3 stocks (all others) with a P* of 0.45. The resulting ABC of 1,148 mt is the summed contribution of the ABCs for the component species. The ACL of 1,006 mt is the sum of the contributing ABCs of healthy assessed stocks and unassessed stocks, plus the ACL contribution for blue rockfish north of 34°27′ N. lat. where the 40-10 adjustment was applied to the ABC contribution for this stock because it is in the precautionary zone. 4 mt is deducted from the ACL to accommodate the incidental open access fishery (1.4 mt) and research catch (2.6 mt), resulting in a fishery HG of 1,002 mt. Blue rockfish south of 42° N. lat. has a species-specific HG set equal to the 40-10-adjusted ACL for the portion of the stock north of 34º27′ N lat. (137.5) plus the ABC contribution for the unassessed portion of the stock south of 34º27′ N. lat. (60.8 mt). The California (i.e. south of 42° N. lat.) blue rockfish HG is 198.3 mt.

ˡˡ Minor Shelf Rockfish south. The OFL for the Minor Shelf Rockfish complex south of 40°10′ N. lat. of 1,919 mt is the sum of the OFL contributions for the component species within the complex. The ABCs for the southern Minor Shelf Rockfish complex is based on a sigma value of 0.72 for category 2 stocks (i.e., greenspotted and greenstriped rockfish) and a sigma value of 1.44 for category 3 stocks (all others) with a P* of 0.45. The resulting ABC of 1,626 mt is the summed contribution of the ABCs for the component species. The ACL of 1,625 mt is the sum of contributing ABCs of healthy assessed stocks and unassessed stocks, plus the ACL contribution of greenspotted rockfish in California where the 40-10 adjustment was applied to the ABC contribution for this stock because it is in the precautionary zone. 49 mt is deducted from the ACL to accommodate the incidental open access fishery (9 mt), EFP catch (30 mt), and research catch (9.6 mt), resulting in a fishery HG of 1,576 mt.

ᵐᵐ Minor Slope Rockfish south. The OFL of 814 mt is the sum of the OFL contributions for the component species within the complex. The ABC for the southern Minor Slope Rockfish complex is based on a sigma value of 0.39 for aurora rockfish, a sigma value of 0.72 for category 2 stocks (i.e., blackgill rockfish, rougheye rockfish, blackspotted rockfish, sharpchin rockfish) and a sigma value of 1.44 for category 3 stocks (all others) with a P* of 0.45. A unique sigma of 0.39 was calculated for aurora rockfish since the variance in estimated biomass was greater than the 0.36 used as a proxy for other category 1 stocks. The resulting ABC of 705 mt is the summed contribution of the ABCs for the component species. The ACL of 695 mt is the sum of the contributing ABCs of healthy assessed stocks and unassessed stocks, plus the ACL contribution of blackgill rockfish where the 40-10 adjustment was applied to the ABC contribution for this stock because it is in the precautionary zone. 20 mt is deducted from the ACL to accommodate the incidental open access fishery (17 mt), EFP catch (1 mt), and research catch (2 mt), resulting in a fishery HG of 675 mt. Blackgill rockfish has a species-specific HG set equal to the species' contribution to the 40-10-adjusted ACL. The blackgill rockfish HG is 117 mt.

ⁿⁿ Other Flatfish. The Other Flatfish complex is comprised of flatfish species managed in the PCGFMP that are not managed with species-specific OFLs/ABCs/ACLs. Most of the species in the Other Flatfish complex are unassessed, and include: butter sole, curlfin sole, flathead sole, Pacific sanddab (assessed in 2013, but the assessment results were too uncertain to inform harvest specifications), rock sole, sand sole, and rex sole (assessed in 2013). The Other Flatfish OFL of 9,645 mt is based on the sum of the OFL contributions of the component stocks. The ABC of 7,243 mt is based on a sigma value of 0.72 for category 2 stocks (i.e., rex sole) and a sigma value of 1.44 for category 3 stocks (all others) with a P* of 0.40. The ACL is set equal to the ABC. The ACL is set equal to the ABC since all of the assessed stocks (i.e., Pacific sanddabs and rex sole) were above their target biomass of B25%. 204 mt is deducted from the ACL to accommodate the Tribal fishery (60 mt), the incidental open access fishery (125 mt), and research catch (19 mt), resulting in a fishery HG of 7,039 mt.

ᵒᵒ Other Fish. The Other Fish complex is comprised of kelp greenling coastwide, cabezon off Washington, and leopard shark coastwide. These species are unassessed. The OFL of 291 mt is the sum of the OFL contributions for kelp greenling off California (the SSC has not approved methods for calculating the OFL contributions for kelp greenling off Oregon and Washington), cabezon off Washington, and leopard shark coastwide. The ABC of 243 mt is the sum of ABC contributions for kelp greenling off California, cabezon off Washington and leopard shark coastwide calculated by applying a P* of 0.45 and a sigma of 1.44 to the OFL contributions for those stocks. The ACL is set equal to the ABC. There are no deductions from the ACL so the fishery HG is equal to the ACL of 243 mt.

* * * * *

11. In § 660.130, paragraphs (d)(1)(i) and (e)(4)(iv) are revised to read as follows:

§ 660.130 Trawl fishery-management measures.

* * * * *

(d) * * *

(1) * * *

(i) Coastwide. Widow rockfish, canary rockfish, darkblotched rockfish, yelloweye rockfish, shortbelly rockfish, black rockfish, blue rockfish, minor nearshore rockfish, minor shelf rockfish, minor slope rockfish, shortraker rockfish, rougheye/blackspotted rockfish, shortspine and longspine thornyhead, Dover sole, arrowtooth flounder, petrale sole, starry flounder, English sole, other flatfish, lingcod, sablefish, Pacific cod, spiny dogfish, other fish, longnose skate, and Pacific whiting;

* * * * *

(e) * * *

(4) * * *

(iv) If a vessel fishes in the trawl RCA, it may not participate in any fishing on that trip that is prohibited within the trawl RCA. Nothing in these Federal regulations supersedes any state regulations that may prohibit trawling shoreward of the fishery management area (3-200 nm).

* * * * *

12. In § 660.140 paragraph (d)(1)(ii)(D) is revised to read as follows:

§ 660.140 Shorebased IFQ Program.

* * * * *

(d) * * *

(1) * * *

(ii) * * *

(D) For the trawl fishery, NMFS will issue QP based on the following shorebased trawl allocations:

* * * * *

13. Table 1 (North) and 1 (South) to 660, subpart D, are revised to read as follows:

BILLING CODE 3510-22-P

* * * * *

14. In § 660.230, paragraph (c)(2)(i) is revised to read as follows:

§ 660.230 Fixed gear fishery—management measures.

* * * * *

(c) * * *

(2) * * *

(i) Coastwide—widow rockfish, canary rockfish, darkblotched rockfish, yelloweye rockfish, shortbelly rockfish, black rockfish, blue rockfish, minor nearshore rockfish, minor shelf rockfish, minor slope rockfish, shortraker rockfish, rougheye/blackspotted rockfish, shortspine and longspine thornyhead, Dover sole, arrowtooth flounder, petrale sole, starry flounder, English sole, other flatfish, lingcod, sablefish, Pacific cod, spiny dogfish, other fish, longnose skate, and Pacific whiting;

* * * * *

15. In § 660.231 paragraph (b)(3)(i) is revised to read as follows:

§ 660.231 Limited entry fixed gear sablefish primary fishery.

* * * * *

(b) * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2015, the following annual limits are in effect: Tier 1 at 41,175 (18,677 kg), Tier 2 at 18,716 lb (8,489 kg), and Tier 3 at 10,695 lb (4,851 kg). For 2016 and beyond, the following annual limits are in effect: Tier 1 at 45,053 lb (20,436 kg), Tier 2 at 20,479 lb (9,289 kg), and Tier 3 at 11,702 lb (5,308 kg).

* * * * *

16. Tables 2 (North) and 2 (South) to part 660, subpart E, are revised to read as follows:

BILLING CODE 3510-22-P

17. In § 660.330, paragraphs (c)(2)(i) and (d)(13)(iii) are revised to read as follows:

§ 660.330 Open access fishery—management measures.

* * * * *

(c) * * *

(2) * * *

(i) Coastwide—widow rockfish, canary rockfish, darkblotched rockfish, yelloweye rockfish, shortbelly rockfish, black rockfish, blue rockfish, minor nearshore rockfish, minor shelf rockfish, minor slope rockfish, shortraker rockfish, rougheye/blackspotted rockfish, shortspine and longspine thornyhead, Dover sole, arrowtooth flounder, petrale sole, starry flounder, English sole, other flatfish, lingcod, sablefish, Pacific cod, spiny dogfish, longnose skate, other fish, Pacific whiting, and Pacific sanddabs;

* * * * *

(d) * * *

(13) * * *

(iii) The non-groundfish trawl RCA restrictions in this section apply to vessels taking and retaining or possessing groundfish in the EEZ, or landing groundfish taken in the EEZ. Unless otherwise authorized by Part 660, it is unlawful for a vessel to retain any groundfish taken on a fishing trip for species other than groundfish that occurs within the non-groundfish trawl RCA. If a vessel fishes in a non-groundfish fishery in the non-groundfish trawl RCA, it may not participate in any fishing on that trip that is prohibited within the non-groundfish trawl RCA. Nothing in these Federal regulations supersedes any state regulations that may prohibit trawling shoreward of the fishery management area (3-200 nm).

* * * * *

18. Tables 3 (North) and 3 (South) to part 660, subpart F, are revised to read as follows:

BILLING CODE 3510-22-P

19. In § 660.360, paragraphs (c)(1)(i)(D)(1) through (3), (c)(1)(iii)(B), (c)(1)(iv)(A) and (B), (c)(2)(iii)(A), (D) and (E), (c)(3)(i)(A)(2) through (5), (c)(3)(ii)(A)(2) through (4), (c)(3)(iii)(A)(2) through (4), (c)(3)(iii)(B), and (c)(3)(v)(A)(1) through (4) are revised to read as follows:

§ 660.360 Recreational fishery-management measures.

* * * * *

(c) * * *

(1) * * *

(i) * * *

(D) * * *

(1) West of the Bonilla-Tatoosh line Between the U.S. border with Canada and the Queets River (Washington state Marine Area 3 and 4), recreational fishing for groundfish is prohibited seaward of a boundary line approximating the 20 fm (37 m) depth contour from May 9 through Labor Day, except on days when the Pacific halibut fishery is open in this area it is lawful to retain, lingcod, Pacific cod and sablefish seaward of the 20 fm (37 m) boundary. Days open to Pacific halibut recreational fishing off Washington are announced on the NMFS hotline at (206) 526-6667 or (800) 662-9825. Coordinates for the boundary line approximating the 20 fm (37 m) depth contour are listed in § 660.71, subpart C.

(2) Between the Queets River (47°31.70′ N. lat.) and Leadbetter Point (46°38.17′ N. lat.) (Washington state Marine Area 2), recreational fishing for groundfish, is prohibited seaward of a boundary line approximating the 30 fm (55 m) depth contour from March 15 through June 15 with the following exceptions: Recreational fishing for lingcod is permitted within the RCA on days that the primary halibut fishery is open; recreational fishing for rockfish is permitted within the RCA from March 15 through June 15; recreational fishing for sablefish and Pacific cod is permitted within the recreational RCA from May 1 through June 15. In addition to the RCA described above, between the Queets River (47°31.70′ N. lat.) and Leadbetter Point (46°38.17′ N. lat.) (Washington state Marine Area 2), recreational fishing for lingcod is prohibited year round seaward of a straight line connecting all of the following points in the order stated: 47°31.70′ N. lat., 124°45.00′ W. long.; 46°38.17′ N. lat., 124°30.00′ W. long. with the following exceptions: On days that the primary halibut fishery is open lingcod may be taken, retained and possessed within the lingcod area closure. Days open to Pacific halibut recreational fishing off Washington are announced on the NMFS hotline at (206) 526-6667 or (800) 662-9825. For additional regulations regarding the Washington recreational lingcod fishery, see paragraph (c)(1)(iv) of this section. Coordinates for the boundary line approximating the 30 fm (55 m) depth contour are listed in § 660.71.

(3) Between Leadbetter Point (46°38.17′ N. lat.) and the Columbia River (Marine Area 1), when Pacific halibut are onboard the vessel, no groundfish may be taken and retained, possessed or landed, except sablefish and Pacific cod from May 1 through September 30. Except that taking, retaining, possessing or landing incidental halibut with groundfish on board is allowed in the nearshore area on days not open to all-depth Pacific halibut fisheries in the area shoreward of the boundary line approximating the 30 fathom (55 m) depth contour extending from Leadbetter Point, WA (46°38.17′ N. lat., 124°15.88′ W. long.) to the Columbia River (46°16.00′ N. lat., 124°15.88′ W. long.) and from there, connecting to the boundary line approximating the 40 fathom (73 m) depth contour in Oregon. Nearshore season days are established in the annual management measures for Pacific halibut fisheries, which are published in the Federal Register and are announced on the NMFS halibut hotline, 1-800-662-9825. Between Leadbetter Point (46°38.17′ N. lat.) and 46°28.00′ N. lat., recreational fishing for lingcod is prohibited year round seaward of a straight line connecting all of the following points in the order stated: 46°38.17′ N. lat., 124°21.00′ W. long.; and 46°28.00′ N. lat., 124°21.00′ W. long.

* * * * *

(iii) * * *

(B) Between 48°10′ N. lat. (Cape Alava) and 46°16′ N. lat. (Columbia River) (Washington Marine Areas 1-3), there is a 2 cabezon per day bag limit.

* * * * *

(iv) * * *

(A) Between the U.S./Canada border and 48°10′ N. lat. (Cape Alava) (Washington Marine Area 4), recreational fishing for lingcod is open, for 2015, from April 16 through October 15, and for 2016, from April 16 through October 15. Lingcod may be no smaller than 22 inches (61 cm) total length.

(B) Between 48°10′ N. lat. (Cape Alava) and 46°16′ N. lat. (Columbia River) (Washington Marine Areas 1-3), recreational fishing for lingcod is open for 2015, from March 14 through October 17, and for 2016, from March 12 through October 15. Lingcod may be no smaller than 22 inches (56 cm) total length.

* * * * *

(2) * * *

(iii) * * *

(A) Marine fish. The bag limit is 10 marine fish per day, which includes rockfish, kelp greenling, cabezon and other groundfish species. There is a 1 fish sub-bag limit per day for canary rockfish (of the total marine bag limit, no more than 1 fish may be canary) from January 1 through December 31. The bag limit of marine fish excludes Pacific halibut, salmonids, tuna, perch species, sturgeon, sanddabs, flatfish, lingcod, striped bass, hybrid bass, offshore pelagic species and baitfish (herring, smelt, anchovies and sardines). The minimum size for cabezon retained in the Oregon recreational fishery is 16 in (41 cm) total length. The minimum size for kelp greenling retained in the Oregon recreational fishery is 10 in (25 cm).

* * * * *

(D) In the Pacific halibut fisheries. Retention of groundfish is governed in part by annual management measures for Pacific halibut fisheries, which are published in the Federal Register. Between the Columbia River and Humbug Mountain, during days open to the “all-depth” sport halibut fisheries, when Pacific halibut are onboard the vessel, no groundfish may be taken and retained, possessed or landed, except sablefish and Pacific cod. “All-depth” season days are established in the annual management measures for Pacific halibut fisheries, which are published in the Federal Register and are announced on the NMFS Pacific halibut hotline, 1-800-662-9825.

(E) Taking and retaining yelloweye rockfish is prohibited at all times and in all areas.

* * * * *

(3) * * *

(i) * * *

(A) * * *

* * * * *

(2) Between 40°10′ N. lat. and 38°57.50′ N. lat. (Mendocino Management Area), recreational fishing for all groundfish (except “other flatfish” as specified in paragraph (c)(3)(iv) of this section) is prohibited seaward of the 20 fm (37 m) depth contour along the mainland coast and along islands and offshore seamounts from May 15 through October 31 (shoreward of 20 fm is open), and is closed entirely from January 1 through May 14 and from November 1 through December 31.

(3) Between 38°57.50′ N. lat. and 37°11′ N. lat. (San Francisco Management Area), recreational fishing for all groundfish (except “other flatfish” as specified in paragraph (c)(3)(iv) of this section) is prohibited seaward of the boundary line approximating the 30 fm (55 m) depth contour along the mainland coast and along islands and offshore seamounts from April 15 through December 31; and is closed entirely from January 1 through April 14. Closures around Cordell Banks (see paragraph (c)(3)(i)(C) of this section) also apply in this area. Coordinates for the boundary line approximating the 30 fm (55 m) depth contour are listed in § 660.71.

(4) Between 37°11′ N. lat. and 34°27′ N. lat. (Central Management Area), recreational fishing for all groundfish (except “other flatfish” as specified in paragraph (c)(3)(iv) of this section) is prohibited seaward of a boundary line approximating the 40 fm (73 m) depth contour along the mainland coast and along islands and offshore seamounts from April 1 through December 31; and is closed entirely from January 1 through March 31 (i.e. prohibited seaward of the shoreline). Coordinates for the boundary line approximating the 40 fm (73 m) depth contour are specified in § 660.71.

(5) South of 34°27′ N. lat. (Southern Management Area), recreational fishing for all groundfish (except California scorpionfish as specified below in this paragraph and in paragraph (c)(3)(v) of this section and “other flatfish” as specified in paragraph (c)(3)(iv) of this section) is prohibited seaward of a boundary line approximating the 60 fm (109.7 m) depth contour from March 1 through December 31 along the mainland coast and along islands and offshore seamounts, except in the CCAs where fishing is prohibited seaward of the 20 fm (37 m) depth contour when the fishing season is open (see paragraph (c)(3)(i)(B) of this section). Recreational fishing for all groundfish (except California scorpionfish and “other flatfish”) is closed entirely from January 1 through February 28 (i.e., prohibited seaward of the shoreline). Recreational fishing for California scorpionfish south of 34°27′ N. lat. is prohibited seaward of a boundary line approximating the 60 fm (109.7 m) depth contour from January 1 through December 31, except in the CCAs where fishing is prohibited seaward of the 20 fm (37 m) depth contour when the fishing season is open.

* * * * *

(ii) * * *

(A) * * *

* * * * *

(2) Between 40°10′ N. lat. and 38°57.50′ N. lat. (Mendocino Management Area), recreational fishing for the RCG Complex is open from May 15 through October 31 (i.e., it's closed from January 1 through May 14 and November 1 through December 31).

(3) Between 38°57.50′ N. lat. and 37°11′ N. lat. (San Francisco Management Area), recreational fishing for the RCG complex is open from April 15 through December 31 (i.e. it's closed from January 1 through April 14).

(4) Between 37°11′ N. lat. and 34°27′ N. lat. (Central Management Area), recreational fishing for the RCG complex is open from April 1 through December 31 (i.e. it's closed from January 1 through March 31).

* * * * *

(iii) * * *

(A) * * *

(2) Between 40°10′ N. lat. and 38°57.50′ N. lat. (Mendocino Management Area), recreational fishing for lingcod is open from May 15 through October 31 (i.e., it's closed from January 1 through May 14 and November 1 through December 31).

(3) Between 38°57.50′ N. lat. and 37°11′ N. lat. (San Francisco Management Area), recreational fishing for lingcod is open from April 15 through December 31 (i.e. it's closed from January 1 through April 14).

(4) Between 37°11′ N. lat. and 34°27′ N. lat. (Central Management Area), recreational fishing for lingcod is open from April 1 through December 31 (i.e. it's closed from January 1 through March 31).

* * * * *

(B) Bag limits, hook limits. In times and areas when the recreational season for lingcod is open, there is a limit of 2 hooks and 1 line when fishing for lingcod. The bag limit is 3 lingcod per day. Multi-day limits are authorized by a valid permit issued by California and must not exceed the daily limit multiplied by the number of days in the fishing trip.

* * * * *

(v) * * *

(A) * * *

(1) Between 40°10′ N. lat. and 38°57.50′ N. lat. (Mendocino Management Area), recreational fishing for California scorpionfish is open from May 15 through October 31 (i.e., it's closed from January 1 through May 14 and from November 1 through December 31).

(2) Between 38°57.50′ N. lat. and 37°11′ N. lat. (San Francisco Management Area), recreational fishing for California scorpionfish is open from April 15 through December 31 (i.e., it's closed from January 1 through April 14).

(3) Between 37°11′ N. lat. and 34°27′ N. lat. (Central Management Area), recreational fishing for California scorpionfish is open from April 1 through December 31 (i.e., it's closed from January 1 through March 31).

(4) South of 34°27′ N. lat. (Southern Management Area), recreational fishing for California scorpionfish is open from January 1 through December 31.

* * * * *

[FR Doc. 2014-30114 Filed 1-5-15; 8:45 am]

BILLING CODE 3510-22-P